ARCHITECTURAL AND TRANSPORTATION BARRIERS COMPLIANCE BOARD

36 CFR Parts 1190 and 1191

[Docket No. 99-1]

RIN 3014-AA20

Americans with Disabilities Act (ADA) Accessibility Guidelines for Buildings and Facilities; Architectural Barriers Act (ABA) Accessibility Guidelines

AGENCY: Architectural and Transportation Barriers Compliance Board.

ACTION: Final rule.

SUMMARY: The Architectural and Transportation Barriers Compliance Board (Access Board) is revising and updating its accessibility guidelines for buildings and facilities covered by the Americans with Disabilities Act of 1990 (ADA) and the Architectural Barriers Act of 1968 (ABA). These guidelines cover new construction and alterations and serve as the basis for enforceable standards issued by other Federal agencies. The ADA applies to places of public accommodation, commercial facilities, and State and local government facilities. The ABA covers facilities designed, built, altered with Federal funds or leased by Federal agencies. As a result of this revision and update, the guidelines for the ADA and ABA are consolidated in one Code of Federal Regulations part.

DATES: The guidelines are effective September 21, 2004. The incorporation by reference of certain publications listed in the guidelines is approved by the Director of the Federal Register as of September 21, 2004.

FOR FURTHER INFORMATION CONTACT: Marsha Mazz, Office of Technical and Information Services, Architectural and Transportation Barriers Compliance Board, 1331 F Street, NW., suite 1000, Washington, DC 20004-1111. Telephone numbers (202) 272-0020 (voice); (202) 272-0082 (TTY). These are not toll free numbers. E-mail address: ta@access-board.gov.

SUPPLEMENTARY INFORMATION:

Availability of Copies and Electronic Access

Single copies of this publication may be obtained at no cost by calling the Access Board's automated publications order line (202) 272-0080, by pressing 2 on the telephone keypad, then 1 and requesting publication S-50 (ADA and ABA Accessibility Guidelines Final Rule). Please record your name, address, telephone number and publication code. Persons using a TTY should call (202) 272-0082. This document is available in alternate formats upon request. Persons who want a publication in an alternate format should specify the type of format (cassette tape, braille, large print, or ASCII disk). This document is also available on the Board's Web site (http://www.access-board.gov).

Statutory Background

The Access Board is responsible for developing and maintaining accessibility guidelines for the construction and alteration of facilities covered by the Americans with Disabilities Act (ADA) of 1990.¹ The Board holds a similar responsibility under the Architectural Barriers Act (ABA) of 1968.² The Board's guidelines provide a minimum baseline for other Federal departments responsible for issuing enforceable standards.

¹ 42 U.S.C. 12101 et seq.

² 42 U.S.C. 4151 et seq.

The ADA recognizes and protects the civil rights of people with disabilities and is modeled after earlier landmark laws prohibiting discrimination on the basis of race and gender. To ensure that buildings and facilities are accessible to and usable by people with disabilities, the ADA establishes accessibility requirements for State and local government facilities under title II and places of public accommodation and commercial facilities under title III. The law requires that the Board issue minimum guidelines to assist the Department of Justice (DOJ) and the Department of Transportation (DOT) in establishing accessibility standards under these titles. Those standards must be consistent with the Board's guidelines.

The ABA requires access to facilities designed, built, altered, or leased with Federal funds. Similar to its responsibility under the ADA, the Board is charged with developing and maintaining minimum guidelines for accessible facilities that serve as the basis for enforceable standards issued by four standard-setting agencies. The standard-setting agencies are the Department of Defense (DOD), the General Services Administration (GSA), the Department of Housing and Urban Development (HUD), and the U.S. Postal Service (USPS).

Each Federal department responsible for standards based on the Board's guidelines under the ADA or the ABA is represented on the Board. These departments have been closely involved in the development of this rule. Through this process, the Board and the standard-setting agencies coordinated extensively to minimize any differences between the Board's guidelines and their eventual updated standards.

Rulemaking History

ADA Accessibility Guidelines

On July 26, 1991, one year after the ADA was signed into law, the Board published the ADA Accessibility Guidelines (ADAAG).³ The Board supplemented ADAAG to include additional requirements specific to transportation facilities on September 6, 1991.⁴ The Department of Justice (DOJ) and the Department of Transportation (DOT) incorporated ADAAG into their ADA implementing regulations, thus making ADAAG the enforceable standard under titles II and III of the ADA.⁵

³ 56 FR 35408, 36 CFR Part 1191.

⁴ 56 FR 45500.

⁵ 56 FR 35544, 28 CFR Part 36 (DOJ's ADA regulation implementing title III); 56 FR 45584, 49 CFR Parts 37 and 38 (DOT's ADA regulation implementing titles II and III).

In developing the original ADAAG, the Board identified subjects for further rulemaking based on information it received through public comments. Some addressed areas that had not been specifically covered by an access standard or code before. The Board initiated a long-term agenda of rulemaking a year after ADAAG was first published. It proceeded with this agenda independently from its update of the original document. On separate tracks, the Board developed ADAAG supplements covering:

• State and local government facilities (1998)⁶

⁶ 63 FR 2000 (January 13, 1998).

• building elements designed for children's use (1998) ⁷

⁷ 63 FR 2060 (January 13, 1998).

• play areas (2000) ⁸

⁸ 65 FR 62498 (October 18, 2000).

• recreation facilities (2002) ⁹

⁹ 67 FR 56352 (September 3, 2002).

These supplementary guidelines have not yet been adopted by the DOJ as enforceable standards under the ADA.

In 1994, the Board initiated an effort to update the original ADAAG by establishing an advisory committee to thoroughly review the document and to recommend changes. The ADAAG Review Advisory Committee consisted of 22 members representing the design and construction industry, the building codes community, State and local government entities, and people with disabilities.¹⁰ The committee was charged with reviewing ADAAG in its entirety and making recommendations to the Board on improving ADAAG's format and usability, reconciling differences between ADAAG and national consensus standards, and updating its requirements so that they continue to meet the needs of persons with disabilities.

¹⁰ The American Council of the Blind, the American Institute of Architects, the American Society of Interior Designers, the Arc, Builders Hardware Manufacturers Association, Building Officials and Code Administrators International, Building Owners and Managers Association International, Council of American Building Officials, Disability Rights Education and Defense Fund, Eastern Paralyzed Veterans Association, International Conference of Building Officials, International Facility Management Association, Maryland Association of the Deaf, National Conference of States on Building Codes and Standards, National Easter Seal Society, National Fire Protection Association, National Institute of Building Sciences, Regional Disability and Business Technical Assistance Centers, Southern Building Code Congress International, Texas Department of Licensing and Regulation, Virginia Building and Code Officials Association, and the World Institute on Disability.

Following a consensus-based process for the adoption of recommendations, the committee met extensively over a two-year period and fulfilled its mission with the issuance of a report, “Recommendations for a New ADAAG,” in September, 1996.

The advisory committee's report recommended significant changes to the format and style of ADAAG. In fact, its recommendations reorganize much of the document. The changes were recommended to provide a guideline that is organized and written in a manner that can be more readily understood, interpreted, and applied. The recommended changes would also make the arrangement and format of ADAAG more consistent with model building codes and industry standards. The advisory committee coordinated closely with the American National Standards Institute (ANSI) A117 Committee, which was in the process of updating its standard. The ANSI A117.1 standard is a national consensus standard that provides technical requirements for accessible buildings and facilities. The A117.1 standard is referenced by the International Building Code and various state codes, among others. While ADAAG requirements derive in large part from an earlier version of the ANSI standard, there are considerable differences between them. Both the advisory committee and the ANSI committee sought to reconcile differences between ADAAG and the ANSI A117.1-1998 standard.

ABA Accessibility Guidelines

The Board issued minimum guidelines for federally funded facilities under the ABA in 1982. These guidelines served as the basis for enforceable standards known as the Uniform Federal Accessibility Standards (UFAS). The Board has coordinated the update of its ABA guidelines with its review of ADAAG in order to reconcile differences between them and to establish a more consistent level of accessibility between facilities covered by the ADA and those subject to the ABA.

ADA and ABA Accessibility Guidelines

On November 16, 1999, the Board published a proposed rule to jointly update and revise its ADA and ABA accessibility guidelines. This proposal was largely based on the ADAAG Review Advisory Committee's report. In preparing the proposed rule, the Board had reviewed all of the committee's recommendations and adopted most of them with some changes of its own. Additionally, the Board developed new figures to illustrate various provisions and provided updated advisory information. In an accompanying discussion of the proposed revisions, the Board posed a number of questions to the public on a variety of issues to solicit information for its use in finalizing the rule. The proposed rule contained three parts:

• Application and scoping requirements for facilities covered by the ADA.

• Application and scoping requirements for facilities covered by the ABA.

• A common set of technical provisions referenced by both scoping documents.

The proposed rule also incorporated supplements to ADAAG that the Board developed independently from its review of ADAAG. In 1998, the Board issued a supplement to ADAAG covering State and local government facilities, including courthouses and prisons. At the same time, the Board published specifications for building elements designed for children's use as amendments to ADAAG, which, as originally published, only contained requirements based on adult dimensions. The Board also incorporated into the proposed rule requirements for residential housing which were based on those developed by the ANSI A117 Committee in 1998.

The proposed rule was made available for public comment for six months. During this comment period, which ended May 15, 2000, the Board held public hearings in Los Angeles, CA (January 31, 2000) and in the Washington, DC area (March 13, 2000), which provided an additional forum for people to provide comment, either orally or in writing. About 140 persons provided testimony at these hearings.

More than 2,500 comments on the proposed rule were submitted to the Board by mail, e-mail, or fax. Almost three quarters of the comments were submitted by individuals, primarily persons with disabilities. Most of these comments addressed reach range requirements for people of short stature, access for people with multiple chemical sensitivities, movie theater captioning for persons who are deaf or hard of hearing, and access to certain elements, such as automatic teller machines (ATMs) for people with vision impairments. Comments were also submitted by trade associations and manufacturers, disability groups, design and codes professionals, government agencies, and building owners and operators, among others. Some of the most common topics included alarms, handrails, assembly areas, van spaces and ATMs. Comments received after the deadline were entered into the docket as the Board has a policy of considering late comments to the extent practicable.

The Board has finalized the guidelines according to its review and analysis of the comments to the proposed rule. Comments and resulting changes in the rule are discussed below in the Section-by-Section Analysis.

From the outset of this rulemaking, the Board has sought to harmonize the ADA and ABA Accessibility Guidelines with industry standards, particularly the ANSI A117.1 standard and the International Building Code (IBC). On April 2, 2002, the Board placed in the rulemaking docket for public review a draft of the final guidelines to further promote such harmonization.¹¹ The ANSI A117 Committee and the International Code Council (ICC) were in the process of updating the ANSI A117.1-1998 standard and the IBC, respectively. The Board proposed changes to these documents based on the draft final guidelines, some of which were approved. In addition, the Board made revisions to the guidelines for consistency with proposed changes to the ANSI A117.1 standard and the IBC. As a result, some of the remaining differences between the draft final guidelines and these documents were reconciled. Changes to the guidelines as a result of this harmonization, as well as public comments received on the draft final guidelines, are noted in the Section-by-Section Analysis.

¹¹ 67 FR 15509.

General Issues

Comments were received on the organization and format of the revised guidelines. The final rule has been structurally reorganized in several respects. Two technical chapters covering specific occupancies (transportation facilities and residential facilities) were integrated into other chapters. A new chapter was added through the incorporation of guidelines for recreation facilities and play areas that the Board previously finalized in separate rulemakings. These changes are further detailed in this section. In addition, comments were received on issues that the Board is involved in but were not made part of this rulemaking. These issues, further discussed below, concern multiple chemical sensitivities and electromagnetic sensitivities, classroom acoustics, and certain elements specific to public rights-of-ways.

Organization and Format

Most commenters supported the new organizational structure of the guidelines and found it to be clearer and easier to use than the original ADAAG. Several suggested that the final rule contain a subject index, that pages not be numbered separately for each part of the rule, and that a table of contents be provided for advisory material and figures listing the figure with section number, the title of the figure, and page number where it is located. Several commenters recommended that there be one table of contents at the beginning of the document rather than separate tables of contents for each part of the rule. There was support for placing advisory material near the provision it discusses but commenters recommended even greater distinction of their non-legal, non-binding status since the advisory notes stand out more than the requirements. Commenters also recommended that figures should have titles and numbers and be clearly linked to the text. A few commenters recommended that advisory information be adopted as enforceable language or be deleted.

The Board has revised the format and structure of the guidelines in response to these comments. The final rule includes a subject index to facilitate use of the document. In the proposed rule, the ADA and ABA scoping documents and the technical section were paginated separately; in the final rule, the pages are numbered consecutively through the entire document. In addition, the Board has simplified the table of contents structure, provided titles for figures, and reformatted advisory notes so that they appear subordinate to the requirements they discuss. Advisory notes are provided for informational purposes only and are not mandatory. Throughout the final rule, advisory notes have been added or revised based on comments or revisions to text requirements. In most cases, advisory notes clarify the meaning of a requirement or provide recommendations for good practice.

Some commenters felt that the Board should reference other codes and standards for greater consistency with the model building codes and that more cross references should be made to other codes and standards. In the final rule, the Board has added references to other codes and standards to enhance consistency with model building codes and standards. Scoping and technical requirements for accessible means of egress have been replaced with a reference to corresponding requirements in the International Building Code (IBC), as further discussed below in the Section-by-Section Analysis under section 207. Criteria for fire alarm systems have been replaced by a reference to the National Fire Protection Association (NFPA) standard upon which they were based, as discussed below in section 702.

Existing Facilities

Commenters expressed concern about how changes to these guidelines would impact existing facilities that were previously retrofitted under ADA requirements, such as those requiring barrier removal and program access. The ADA requires the removal of barriers in existing places of public accommodation where it is readily achievable. State and local government entities are required to provide access to programs, which may necessitate retrofit of existing facilities. Commenters expressed concern that further retrofit efforts would be triggered due to new requirements in the revised guidelines. Specifically, commenters asked whether elements that comply with the original ADAAG would need to be altered to meet the requirements of the updated guidelines under the obligations for barrier removal or program access.

The Board's authority under the ADA only extends to the development and maintenance of accessibility guidelines for construction and planned alterations and additions. It does not have jurisdiction over requirements for existing facilities that are otherwise not being altered, except for certain types of transit stations (key stations and intercity rail stations). Under the ADA, regulations issued by the Department of Justice (DOJ) and the Department of Transportation (DOT) effectively govern requirements that apply to existing facilities. How, and to what extent, the Board's guidelines are used for purposes of retrofit, including removal of barriers and provision of program access, is wholly within the purview of these departments. It is the Board's understanding that the Department of Justice is aware of the concern outlined in comments and that the Department plans to address these concerns in its rulemaking to revise its ADA standards consistent with the Board's final rule.

Reorganization of Chapters on Transportation Facilities and Residential Facilities

The proposed rule, consistent with the advisory committee's recommendations, minimized classifications and structural delineations in the guidelines based on facility or occupancy type. As a result, special occupancy chapters of the original ADAAG had been integrated into the main body of the document in the proposed rule. It was felt that this change would help underscore the premise that the guidelines must be consulted and applied in its entirety regardless of the facility type. It is also consistent with the overall aim of encouraging an integrated approach to accessibility as reflected by other proposed format and organizational changes. However, the proposed rule did retain two technical chapters based on occupancy types: transportation facilities (Chapter 10) and residential facilities (Chapter 11). In the final rule, the provisions of these technical chapters have been incorporated into other chapters, as appropriate, for greater consistency with the rest of the document. The revisions related to this reorganization are further detailed in the Section-by-Section Analysis.

Incorporation of Guidelines for Play Areas and Recreation Facilities

In separate rulemakings, the Board developed supplements to ADAAG covering play areas and recreation facilities. These supplemental guidelines, developed independently from this rulemaking, were finalized after the Board published the proposed rule.

On October 18, 2000, the Board issued final guidelines for play areas.¹² The guidelines are one of the first of their kind in providing a comprehensive set of criteria for access to play areas. They cover the number of play components required to be accessible, accessible surfacing in play areas, ramp access and transfer system access to elevated structures, and access to soft contained play structures. The guidelines address play areas provided at schools, parks, child care facilities (except those based in the operator's home, which are exempt), and other facilities subject to the ADA. The Board developed the guidelines through regulatory negotiation, a supplement to the traditional rulemaking process that allows face-to-face negotiations among representatives of affected interests in order to achieve consensus on the text of a proposed rule. The regulatory negotiation committee represented a variety of interests, including play equipment manufacturers, landscape architects, parks and recreation facilities, city and county governments, child care operators, and people with disabilities. The committee submitted a report to the Board upon which the guidelines are based. The Board published the guidelines in proposed form for public comment in April 1998 and finalized them according to its review and analysis of the comments it received.

¹² 65 FR 62498.

On September 3, 2002, the Board finalized guidelines that address access to a variety of recreation facilities covered by the ADA, including amusement rides, boating facilities, fishing piers and platforms, golf courses, miniature golf, sports facilities, and swimming pools and spas.¹³ The requirements are largely based on recommendations prepared by the Recreation Access Advisory Committee, which the Board had established for this purpose. These recommendations are contained in a report, “Recommendations for Accessibility Guidelines: Recreational Facilities and Outdoor Developed Areas,” which the Board had made widely available as a source of guidance pending the development of guidelines. The Board published the guidelines in proposed form in July 1999, and made them available for public comment for six months. During the comment period, the Board held public hearings on the proposed guidelines in Dallas, TX and Boston, MA. In an effort to provide the public with an additional opportunity for input on the rule before it was finalized, the Board published a summary of changes it intended to make to the guidelines. This summary was published on July 21, 2000, and was made available for public comment for two months. During the comment period, the Board held informational meetings on the summary in Washington, DC and San Francisco, CA. Approximately 70 comments on the summary were received.

¹³ 67 FR 56352.

The Board issued a notice on September 3, 2002, making the final guidelines issued for play areas and recreation facilities applicable to federally funded facilities covered by the ABA.¹⁴ No comments were received in response to the notice.

¹⁴ 67 FR 56441.

The Board has integrated the guidelines for play areas and those for recreation facilities into this final rule. Referenced standards and definitions have been added to Chapter 1 (sections 105 and 106), scoping provisions have been incorporated into Chapter 2 (sections 234 through 243), and technical provisions are provided in Chapter 6 (Plumbing Elements and Facilities) and Chapter 10 (Recreation Facilities and Play Areas). In addition, various provisions and exceptions have been integrated into existing scoping provisions in Chapter 2 (sections 203 through 206, 210, 216, and 221) and technical provisions in Chapter 3 (section 302 and 303). These criteria have been editorially revised to fit into the new structure and format of the revised ADA and ABA accessibility guidelines. No substantive revisions have been made in incorporating them into this final rule. While the Board has otherwise sought to avoid technical chapters that are based solely on an occupancy type, it has located the technical provisions of the play areas and recreation facilities guidelines into a separate chapter. Since these guidelines are new and comprehensive in their coverage of a variety of distinct facility types, the Board felt that users could more readily familiarize themselves with the requirements if they remained localized in a separate chapter.

Multiple Chemical Sensitivities and Electromagnetic Sensitivities

The Board received approximately 600 comments from individuals with multiple chemical sensitivities and electromagnetic sensitivities. They reported that chemicals released from products and materials used in the construction, alteration, and maintenance of buildings; electromagnetic fields; and inadequate ventilation are barriers that deny them access to buildings. They requested the Board to include provisions in this final rule to make the indoor environment accessible to them.

The Board recognizes that multiple chemical sensitivities and electromagnetic sensitivities may be considered disabilities under the ADA if they so severely impair the neurological, respiratory, or other functions of an individual that it substantially limits one or more of the individual's major life activities. The Board plans to closely examine the needs of this population, and undertake activities that address accessibility issues for these individuals.

The Board plans to develop technical assistance materials on best practices for accommodating individuals with multiple chemical sensitivities and electromagnetic sensitivities. The Board also is sponsoring a project on indoor environmental quality. In this project, the Board is bringing together building owners, architects, building product manufacturers, model code and standard-setting organizations, individuals with multiple chemical sensitivities and electromagnetic sensitivities, and other individuals. This group will examine building design and construction issues that affect the indoor environment, and develop an action plan that can be used to reduce the level of chemicals and electromagnetic fields in the built environment.

Neither the proposed rule nor the draft final rule included provisions for multiple chemical sensitivities or electromagnetic sensitivities. The Board believes that these issues require a thorough examination and public review before they are addressed through rulemaking. The Board does not address these issues in this final rule.

Classroom Acoustics

Comments were received that urged the Board to address the acoustical performance of buildings and facilities, in particular school classrooms and related student facilities. Research indicates that high levels of background noise in classrooms compromises speech intelligibility for many children to such an extent that their reading, communication, and learning skills may not be developing adequately. At particular risk are children who have mild to moderate hearing loss, temporary hearing loss, speech impairments, or learning disabilities. Instead of undertaking rulemaking of its own on this issue, the Board opted to work with the private sector in the development of classroom acoustic standards. In 1999, the Board partnered with the Acoustical Society of America (ASA) on the development of a new standard for acoustics in classrooms that takes into account children who are hard of hearing. ASA had previously established a special working group for this purpose. The Board helped sponsor the work of this group and expanded its membership through the addition of representatives from disability groups, school systems, designers, and government agencies. At the Board's urging, ASA committed to a two-year time frame for the completion of standards. The standard, completed in 2002, has been approved as ASA/ANSI S12.60-2002, Acoustical Performance Criteria, Design Requirements and Guidelines for Schools. It sets specific criteria for maximum background noise (35 decibels) and reverberation time (0.6 to 0.7 seconds for unoccupied classrooms). These and other specifications are consistent with long-standing recommendations for good practice in acoustical design. Taken by itself, the standard is voluntary unless referenced by a code, ordinance, or regulation. The Board submitted a proposal to the International Code Council (ICC) recommending that core provisions contained in the ASA/ANSI standard be incorporated into the next edition of the International Building Code (IBC). The Board's proposal was taken up for consideration at an ICC hearing in September 2002, but was not adopted. However, school systems in various states and cities are applying the criteria in the ASA/ANSI standard to the design of classrooms. The Board is participating in outreach and education activities to promote greater understanding of the need for good classroom acoustics.

Public Rights-of-Way

Some comments asked that the final rule address certain elements common in public rights-of-ways. These comments addressed roadway design, speed bumps, crosswalks, on-street parking, audible signs and pedestrian signals, and emergency call boxes. The Board will address and invite comment on issues regarding access to public rights-of-way in a separate rulemaking. On June 17, 2002, the Board released for public comment a set of draft guidelines on accessible public rights-of-way in advance of publishing a proposed rule. The guidelines would supplement the ADA and ABA accessibility guidelines by adding new provisions for sidewalks, street crossings, and related pedestrian facilities. The draft guidelines were based on a report submitted to the Board by the Public Rights-of-Way Access Advisory Committee in January 2001. This committee, which the Board created to make recommendations on the guidelines, included representatives from the transportation industry, Federal, State and local government agencies, the disability community, and design and engineering professionals. The advisory committee's report, “Building A True Community,” is available from the Board.

Section-by-Section Analysis

In finalizing this rule, the Board has revised various requirements in the guidelines based on its review and analysis of public comments. This section discusses public comments to the rule and details revisions that represent a substantive change from the proposed rule. Not all editorial or non-substantive revisions are addressed in this discussion.

Part I: ADA Application and Scoping

Chapter 1: Application and Administration

This chapter states general principles that recognize the purpose of the guidelines (101), provisions for adults and children (102), equivalent facilitation (103), conventions (104), referenced standards (105), and definitions (106). Revisions have been made in the final rule to the sections covering conventions, referenced standards, and definitions.

104 Conventions

Section 104.1 notes that all dimensions not stated as a “maximum” or “minimum” are absolute and that all dimensions are “subject to conventional industry tolerances.” Conventional industry tolerances recognized by this provision include those for field conditions and those that may be a necessary consequence of a particular manufacturing process. In the final rule, the Board has limited this provision so that it does not apply to requirements where a range is provided since the specified range offers adequate tolerances. Section 104.2 addresses rounding in the case of percentages where fractions result.

Comment. Commenters recommended that a statement be added indicating that the figures in the guidelines are provided for information purposes only, consistent with the ANSI A117.1 standard.

Response. A provision has been added in the final rule which states that the figures contained in this document “are provided for informational purposes only” (104.3). This recognizes that all requirements in the guidelines are contained in text and that the figures are provided to illustrate the text-based specifications. Should a figure be interpreted differently from the text, the text governs.

105 Referenced Standards

Section 105 lists the industry standards referenced in the guidelines. It also clarifies that where there is a difference between a provision of the guidelines and the referenced standards, the provision of the guidelines applies. The final rule includes information on where these referenced standards can be obtained or inspected. The Board also has clarified in this section where in the guidelines each standard is referenced.

Standards referenced in the final rule include those issued by the:

• American National Standards Institute (ANSI) and Builders Hardware. Manufacturers Association (BHMA) for power operated and power assisted doors (105.2.1).

• American Society of Mechanical Engineers (ASME) for various elevators and platform lifts (105.2.2).

• American Society for Testing and Materials (ASTM) for use zones, play equipment, and accessible surfaces at play areas (105.2.3).

• International Code Council (ICC), whose International Building Code is referenced with respect to provisions for means of egress and railings (105.2.4).

• National Fire Protection Association (NFPA) for fire alarms (105.2.5).

The Board has revised the rule to reference the most recent editions of the standards and addenda. The final rule includes the addition of ASTM standards and the International Building Code (IBC). Guidelines for play areas previously issued by the Board, which reference ASTM criteria for use zone and accessible surfaces in play areas, have been incorporated into the final rule. Provisions in the guidelines for accessible means of egress have been replaced by references to corresponding requirements in the IBC.

Information on the standards referenced in this rule is available on the Board's Web site at www.access-board.gov and in advisory notes.

106 Definitions

Various defined terms and definitions have been revised, removed, or added in the final rule. The following definitions have been removed as unnecessary, in most cases due to changes in certain scoping or technical requirements: “accessible route,” “area of refuge,” “automatic door,” “destination-oriented elevator,” “ground floor,” “occupiable,” “power-assisted door,” “sign,” and “wheelchair.” New definitions included in the final rule address: “assistive listening system,” “equipment,” “key station,” and “occupant load.” Definitions contained in the guidelines for recreation facilities and play areas are included in the final rule. Definitions that have been revised include: “assembly area,” “common use,” “mezzanine,” “residential dwelling unit,” “transient lodging,” “vehicular way,” and “walk.”

Comment. It was suggested that the definition of “assembly area” should more clearly address the types of facilities covered. The definition's reference to spaces used “for the consumption of food and drink” may be interpreted as applying to restaurants generally. The definition should also be revised, consistent with building codes, to apply to assembly areas that comprise only a portion of a facility.

Response. The definition of “assembly area” has been revised to include “a building, facility, or portion thereof used for the purpose of entertainment, educational or civic gatherings or similar purposes.” An illustrative list of examples, previously provided in the scoping provision (221), has been relocated to this definition.

Comment. Consistent with the original ADAAG, the proposed rule defined “common use,” in part, as spaces or elements “made available for a restricted group of people.” Comments considered the reference to “restricted” as a source of confusion and misinterpretation. In addition, it was suggested that “group” be replaced by a specific number.

Response. As revised, the definition of “common use” refers to “interior or exterior circulation paths, rooms, spaces, or elements that are not for public use and are made available for the shared use of two or more people.”

Comment. Commenters suggested that the definition for “mezzanine” should be revised for consistency with model building codes, including the IBC.

Response. “Mezzanine” is now defined by the same definition used in the IBC: “An intermediate level or levels between the floor and ceiling of any story with an aggregate floor area of not more than one-third of the area of the room or space in which the level or levels are located.” The Board has included clarification that mezzanines are elevated high enough to accommodate human occupancy on the floor below.

Comment. Commenters considered it important that the definitions for “dwelling unit” and “transient lodging” be revised and made mutually exclusive to avoid the confusion of potentially overlapping terms. In particular, the hotel and motel industry was concerned about requirements for dwelling units being misapplied to transient lodging facilities.

Response. In the final rule, the definitions for “dwelling unit” and “transient lodging” have been clarified and made mutually exclusive. The guidelines now use the term “residential dwelling unit,” which is defined as “a unit intended to be used as a residence, that is primarily long-term in nature.” This definition specifically excludes transient lodging, as well as medical care and long-term care facilities and detention and correctional facilities. “Transient lodging” has been revised as applying to any facility “containing one or more guest room(s) for sleeping that provides accommodations that are primarily short-term in nature.” The term excludes residential dwelling units, among other facility types. In addition, language exempting bed-and-breakfast type facilities with no more than five rooms has been relocated to this definition from the scoping provision for transient lodging in section 224.

ADA Chapter 2: Scoping Requirements

This section discusses comments and changes to scoping provisions for facilities covered by the ADA. These provisions specify which elements and spaces are required to be accessible according to various technical requirements contained in chapters 3 through 10.

Throughout this chapter and the rest of the document, the term “accessible” has been replaced with more precise references to applicable criteria in the guidelines. For example, instead of referring to “accessible” spaces of one type or another, the guidelines now refer to spaces “complying with” the relevant technical criteria that make them accessible. This was done for greater precision and clarity.

201 Application

This section provides that these guidelines apply to the design, construction, or alteration of covered facilities. The requirements apply to both permanent and temporary structures. No substantive changes have been made to this section.

Comment. In the proposed rule, the term “fixed” had been removed as a modifier of certain elements covered by the guidelines, such as tables and storage. This was removed, along with references to elements that are “built-in.” Some comments argued that this change could be interpreted as broadening the scope of the guidelines to cover elements that are not fixed or built-in.

Response. References to “fixed” and “built-in” were removed for editorial purposes of clarity and consistency. While the scope of the guidelines does not extend to elements that are not fixed or built-in, the Board believes that such clarification can be appropriately addressed in the regulations that implement the enforceable standards based on the Board's guidelines.

202 Existing Buildings and Facilities

Section 202 establishes the scope and application of the guidelines in the case of alterations or additions to existing facilities. Section 202.3 states that each altered element or space is required to meet the applicable scoping provisions of Chapter 2. There are three exceptions to this requirement, which have been revised for clarity or added in the final rule. Criteria for alterations affecting primary function areas (202.4) and historic facilities (202.5) are also provided. In the final rule, the provision for primary function areas includes a new exception for residential facilities.

Comment. An exception in the proposed rule (202.3, Exception 1) stated that altered elements and spaces are not required to be on accessible routes. This was intended to clarify that an accessible route to an altered space or element does not have to be provided as part of the work, unless the alteration is to a primary function area covered by 202.4. Comments pointed out that while this exception was intended to cover accessible routes to an altered space, as worded it would also exempt accessible routes within an altered space.

Response. The Board did not intend to exempt requirements for accessible routes within spaces that are altered. The scope of this exception has been limited so that it applies only where elements and spaces are altered, but the circulation path to them is not. Consistent with the proposed rule, this exception is not permitted for alterations to primary function areas, which are required to be connected by an accessible path of travel (unless the cost of providing such a path is “disproportionate” to the overall alteration cost).

A second exception notes that compliance is required unless it is technically infeasible, in which case compliance is required to the maximum extent feasible (202.3, Exception 2). In the proposed rule, this exception contained clarifying language related to this provision that has been recast as an advisory note in the final rule.

A third exception has been added in the final rule for residential facilities (202.3, Exception 3). This exception exempts from coverage dwelling units not required to be accessible under the ADA or the Rehabilitation Act of 1973,¹⁵ which requires that federally funded programs and services, including those pertaining to housing, be accessible to persons with disabilities. In finalizing the rule, the Board has reconciled housing requirements with those of other Federal regulations, as discussed below in the scoping section on residential dwelling units (233). Regulations issued under title II of the ADA by DOJ and HUD under section 504 of the Rehabilitation Act require each program or activity conducted by a covered entity or a program or activity receiving Federal financial assistance to be readily accessible to and usable by individuals with disabilities when the program or activity is viewed in its entirety. Meeting these requirements may involve retrofit of existing facilities as part of a transition plan for compliance. Dwelling units that are accessible or that are to be made accessible under the requirements of the ADA or the Rehabilitation Act are required to comply with the requirements of section 202 when altered; other dwelling units are exempt under the new exception.

¹⁵ 29 U.S.C. 701 et seq.

Comment. Commenters expressed concern that the replacement of telephones would trigger more extensive alterations, such as a requirement to lower a telephone installed at 54 inches (currently permitted by ADAAG) to 48 inches.

Response. Where elements are altered or replaced they must comply with these guidelines. However, in some cases the altered element is part of a larger element which is itself not altered. For example, pay telephone providers sometimes replace existing telephones with new telephones and, as part of the telephone replacement project, they do not replace or alter the existing telephone enclosures or pedestals. The new telephones, when replaced, must provide a volume control in compliance with section 704.3 that provides up to 20 decibels of gain; original ADAAG 4.31.5(2) only required 18 decibels of gain. However, the existing unaltered telephone enclosures or pedestals need not be lowered so that the telephones comply with the new 48 inch reach requirement established in section 308. Similarly, if a narrow door is replaced, the doorway need not be widened as a consequence of the door replacement. However, if new operating hardware is provided for the door, the hardware must comply with section 404.2.7.

Comment. Commenters indicated that it is common practice to reduce the number of existing telephones in telephone banks in order to reconcile the supply of pay telephones with the demand; noting also an overall decrease in the demand for pay telephones. The comments requested clarification as to whether the removal of an inaccessible pay telephone would be an alteration that would trigger a requirement to lower an adjacent wheelchair accessible pay telephone from 54 inches (currently permitted by ADAAG) to 48 inches.

Response. Inaccessible pay telephones may be removed without triggering requirements for lowering adjacent wheelchair accessible pay telephones, provided that the telephone enclosure or pedestal is not altered when telephones are removed.

Alterations to areas containing a primary function must include an accessible path of travel to the altered area unless it is disproportionate in cost or scope (202.4). This provision is intended to ensure that such areas, when altered, are on an accessible route and are served by accessible rest rooms, telephones, and drinking fountains. Requirements specific to altered residential dwelling units in section 233.3 effectively substitute for this provision by ensuring an accessible route to those dwelling units required to comply as part of an alteration. For consistency and clarity, the Board has exempted residential dwelling units from the requirements for altered primary function areas.

Comment. Comments from the historic preservation community requested that information be provided on the consultation procedures to be followed when applying the exceptions for alterations to qualified historic buildings or facilities in section 202.5. They also requested that the specific language for the exceptions for accessible routes, entrances, and toilet facilities be included in section 202.5, instead of in the various scoping provisions for those elements. In addition, they requested that information be provided on the obligation of public entities that operate historic preservation programs to achieve program accessibility under the DOJ regulations.

Response. The final rule includes advisory information in section 202.5 on the consultation procedures to be followed when applying the exceptions for alterations to qualified historic buildings or facilities. This information derives from advisory information in the original ADAAG (section 4.1.7). When an entity believes that compliance with the requirements for accessible routes, entrances, or toilet facilities would threaten or destroy the historic significance of the building or facility, the entity should consult with its State Historic Preservation Officer. If the State Historic Preservation Officer agrees that compliance with the requirements for a specific element would threaten or destroy the historic significance of the building or facility, use of the exception for that element is permitted. The advisory note to section 202.5 also references the scoping provisions for accessible routes, entrances, and toilet facilities where the specific language for the exceptions for qualified historic buildings and facilities are found. Information has also been included in the advisory note to section 202.5 on the obligation of public entities that operate historic preservation programs to achieve program accessibility under the DOJ regulations.

203 General Exceptions

Certain spaces are generally exempt from the guidelines, including construction sites (203.2), raised areas (203.3), limited access spaces (203.4), machinery spaces (203.5), single occupant structures (203.6), certain areas within detention and correctional facilities (203.7) and residential facilities (203.8), employee work areas (203.9), and various spaces within recreation and sports facilities (203.10 through 203.14). These provisions have been editorially revised and renumbered in the final rule. Specifically, clarification has been added that exempt spaces “are not required to comply with these requirements or to be served by an accessible route,” which is more precise than the phrase in the proposed rule that such spaces “are not required to be accessible.” This is part of a global editorial revision to replace the term “accessible” throughout the text with more specific language. In addition, the reference in the exception at 203.5 to spaces frequented only by service personnel has been changed from “equipment spaces” to “machinery spaces,” which was considered a more specific and accurate reference to the type of spaces covered by this exception. The Board's guidelines for recreation facilities contain exceptions for certain limited spaces within recreation and sports facilities that have been incorporated into the final rule. These exceptions address raised refereeing, judging, and scoring areas (203.10), water slides (203.11), animal containment areas (203.12), raised boxing and wrestling rings (203.13), and diving boards and platforms (203.14).

Substantive changes are made to the exceptions for limited access spaces and employee work areas. The exception at 203.4 covers limited access spaces, such as those accessed by ladders, catwalks, crawl spaces, or very narrow passageways. A reference to “tunnels” has been removed from this list, as this term could apply to spaces intended for coverage, such as underground connections between buildings and pedestrian connections required to be accessible in provisions for accessible routes (206.4.3).

203.9 Employee Work Areas

Provisions for employee work areas in 203.9 require that accessible routes and accessible means of egress connect with employee work areas so that persons with disabilities can approach, enter, and exit the work area. Employee work areas are also subject to requirements that facilitate the provision of visual alarms. Specifically, employee work areas must meet accessibility requirements for:

• Circulation paths for common use within the area, except for those that are an integral part of equipment or that are located in work areas that are relatively small (i.e., less than 1,000 square feet) or fully exposed to the weather (206.2.8).

• Means of egress (207.1).

• Wiring systems to support later installation of visual alarms as needed where work areas have audible fire alarm coverage (215.2).

There are limitations on the application of these requirements. Small work areas (i.e., less than 300 square feet in area) that need to be elevated at least seven inches due to the function of the space are not required to comply with any of these requirements. In addition, other provisions in section 203 exempt spaces or structures that may function as work areas, such as raised areas, limited access spaces, machinery spaces, and single occupant structures (203.3 to 203.6). Circulation paths within work areas that are not fully exempt from compliance are required to comply with specifications for accessible routes, but exceptions are provided for route widths and handrails in certain instances.

This section differs from the proposed rule, which required a connecting accessible route to work areas for approach, entry, and exit, but which did not specifically address circulation paths within them or requirements for accessible means of egress. In addition, the proposed rule required visual alarms in employee work areas served by audible alarms.

Access to employee work areas was the subject of considerable discussion and a host of questions posed by the Board in the proposed rule. The issues centered on whether, and to what degree, access should be expanded within such areas. The original ADAAG required access to, but not fully within, employee work areas since title I of the ADA generally treats access for employees with disabilities as an individual accommodation handled on a case-by-case basis. Consequently, the original guidelines distinguished spaces used only as employee work areas from public use and common use spaces, which are fully subject to access requirements. In effect, requirements in ADAAG stopped at the entry to work areas by requiring only that such spaces be on an accessible route so that persons with disabilities could approach, enter, and exit the space. Maneuvering space, including wheelchair turning space, was not required within the work area, and elements within used only by employees as part of their job responsibilities were not required to be accessible. Nor was access required to individual work stations within a work area.

The ADAAG Review Advisory Committee recommended that ADAAG be changed to require an accessible route to each “individual work station” instead of to “work areas.” Other than the connecting route, work stations would not be required to be accessible. The advisory committee recommended this change for consistency with model building codes which, unlike ADAAG, do not provide a similar exception for work areas. Building and fire codes already require connecting paths of travel to work stations for purposes of emergency egress. In the advisory committee's view, this aspect of the model building codes, as well as general exceptions for equipment and other spaces in section 203, would serve to limit the overall impact of this change. Further, the requirement for an “accessible route” to individual work stations, as opposed to access for “approach, entry, and exit” to work areas, was considered clearer and more easily interpreted.

The Board, while committed to harmonizing the ADAAG requirements with the requirements of the model codes, was concerned about whether such a requirement would be workable in all employment settings. Consequently, the Board posed several questions in the proposed rule on the appropriateness and impact of requiring an accessible route to individual work stations.

Comment. Many comments addressed access to work areas. The majority of comments were from people with disabilities who supported the recommendations of the ADAAG Review Advisory Committee to require an accessible route to all individual work stations. They stated that not providing an accessible route to all work stations would limit employment opportunities, make reasonable accommodation more difficult to implement, and exclude people with disabilities from interacting with other employees while in the workplace. The Board sought comment on what obstacles people with disabilities have encountered as a result of ADAAG requiring access only to work areas and not to individual work stations (Question 1). Responses to this question generally referred to employment or reasonable accommodation of persons with disabilities being made more difficult, although specific cases or instances were not detailed. The majority of comments against providing an accessible route to individual work stations came from organizations representing the business community. These comments considered the original ADAAG requirements to be more consistent with the intent of title I of the ADA and urged that they be retained. Increased costs and design impacts associated with greater access to work areas or individual work stations were generally cited as a concern.

Response. The final rule preserves the general scope of coverage in the proposed rule and current ADAAG by applying requirements to work areas, as opposed to individual work stations. Enhanced specifications for circulation access in work areas will effectively provide access to individual work stations in various types of work areas. However, the Board has limited the requirements for circulation access to interior work areas that are 1,000 square feet or more in size in order to minimize the impact on facilities with small work areas.

Comment. The Board requested comment on the impact of requiring access to “individual work stations” rather than to “employee work areas” (Question 2). Comments provided no clear consensus on this issue. People with disabilities stated that the impact would be minimal due to requirements in the model codes, a consideration shared by the ADAAG Review Advisory Committee. They also felt that not requiring access to individual work stations would limit their employment opportunities. The business community disputed the assertion that compliance with life safety codes would achieve an accessible route in all circumstances and noted that such a requirement would severely impact many small businesses.

Response. The final rule requires that common use circulation paths within work areas satisfy requirements for accessible routes in section 402. This will facilitate accommodation of employees, while recognizing constraints posed by certain work areas, including various types of equipment within. The final rule does not require full accessibility within the work area or to every individual work station but does require that a framework of common use circulation pathways within the work area as a whole be accessible. This provision is generally consistent, but somewhat less stringent, than the requirements in the model building codes. In addition, exceptions to certain technical requirements for route width (403.5) and ramp handrails (405.8) are provided for circulation paths in certain work areas in order to prevent design conflicts.

Comment. Information was requested in the proposed rule on specific types of individual work stations, not otherwise exempt in the guidelines, that could not be served by an accessible route (Question 3). People with disabilities generally noted that all areas of a newly constructed building should be on an accessible route. Comments from industry mentioned various types of work stations that would not easily be served by an accessible route. These included press boxes, service bays, including grease pits in automotive centers, the employee side of check-out counters, compact restaurant kitchens, spot light towers, boom and other camera positions, cocktail bars, and lighting control booths.

Response. The Board has added exceptions at 203.9 and 206.2.8 for work areas that are raised, small, exterior, or an integral part of equipment. Work areas that are less than 300 square feet that have to be elevated seven inches or more because it is essential to the space's function are exempt from provisions for work areas entirely. Other exceptions in section 203, such as those covering raised areas (203.3), limited access spaces (203.4), machinery spaces (203.5), and single occupant structures (203.6) would apply to some of the mentioned types of work stations. In addition, an exception to accessible route requirements has been provided for press boxes (206.2.7), which is further discussed below in section 206.

Comment. The Board also sought information about whether the phrase “areas used only by employees as work areas” has been misinterpreted or considered unclear, and if it should be clarified in the final rule to prevent misinterpretation (Question 4). People with disabilities wanted clarification that employee common use areas not used as work areas must be fully accessible and do not qualify for the limited level of access permitted for areas used only by employees as work areas. Comments from industry generally supported the interpretation of this phrase. The Board sought information about whether the term “individual employee work stations” is sufficiently specific or if further clarification, qualification, or definition would be needed should a requirement be added to the final guidelines. Comments provided no clear consensus on this question.

Response. “Employee work area” is defined as spaces or portions of spaces used only by employees for work. This definition, which has been retained in the final rule without change, notes that corridors, toilet rooms, kitchenettes, and break rooms are not employee work areas. A definition for individual employee work station has not been included as the term is not used in the final rule.

204 Protruding Objects

Few comments were received on the scoping provision for protruding objects, which remains unchanged. Exceptions developed for sport activity areas and play areas in separate rulemakings on recreation facilities and on play areas are included in the final rule (204.1 Exceptions 1 and 2).

205 Operable Parts

The guidelines require operable parts on accessible routes and in accessible rooms and spaces to be accessible. Clarification has been added that operable parts on accessible elements are required to comply as well, which is consistent with technical provisions for various types of covered elements.

In the final rule, exceptions to this provision have been added. Some have been relocated from the technical provisions for operable parts in section 309. Exceptions in 205.1 cover:

• Operable parts intended for use only by service or maintenance personnel (Exception 1).

• Electrical or communication receptacles serving a dedicated use (Exception 2).

• Certain outlets at kitchen counters (Exception 3).

• Floor electrical receptacles (Exception 4).

• HVAC diffusers (Exception 5).

• Redundant controls, other than light switches, provided for a single element (Exception 6).

• Boat securement devices (Exception 7).

• Exercise machines (Exception 8).

The proposed rule contained an exception from the technical requirement that operable parts be within accessible reach ranges (309.3). This exception applied “where the use of special equipment dictates otherwise or where electrical and communication system receptacles are not normally intended for use by building or facility occupants.” Since such operable parts may merit exception from some of the other technical criteria in 309, the exception has been revised to exempt such equipment generally and has been relocated to the scoping provision in section 205. The original exception has been divided in separate parts covering different types of elements: operable parts intended only for use by service or maintenance personnel (Exception 1); electrical or communication receptacles serving a dedicated use (Exception 2); and floor electrical receptacles (Exception 4).

Three exceptions derive from provisions that were specific to residential dwelling units in the proposed rule (section 1102.9). They were relocated to section 205 and made generally applicable to all types of facilities. These cover certain outlets above kitchen countertops (Exception 3); HVAC diffusers (Exception 5); and redundant controls on elements other than light switches (Exception 6). This latter exception derives from exemptions in the proposed rule for range hood controls and controls mounted on ceiling fans in residential facilities. This exception has been broadened to cover other types of redundant controls, except light switches.

Exceptions the Board developed in rulemaking on recreation facilities are included in the final rule. These exceptions permit cleats and other boat securement devices to be outside accessible reach ranges (Exception 7) and generally exempt exercise machines from requirements for controls and operating mechanisms, including reach range and operating force specifications (Exception 8).

206 Accessible Routes

This section specifies the required number of accessible routes (206.2) and their location (206.3), and addresses elements on accessible routes such as entrances (206.4), doors, doorways, and gates (206.5), platform lifts (206.7), and security barriers (206.8).

Section 206.2 specifies where accessible routes are required within a site, including their connection to accessible buildings, stories, spaces, and elements. In addition, there are provisions specific to restaurants and cafeteria dining areas, performance areas, press boxes, employee work areas, and various types of recreation facilities.

Editorial revisions made to this section include:

• Clarification that “at least one” accessible route is required between facilities and public streets and sidewalks, parking, passenger loading zones, and public transportation stops (206.2.1).

• Revising the requirement for accessible routes between floor levels as applying to “multi-story” facilities and “stories” within, as opposed to “levels,” the term used in the proposed rule (206.2.3, including the exceptions).

• Relocation of an exception for assembly areas in 206.2.3 to 206.2.4 (Exception 2).

• Clarifying an exception for certain raised courtroom stations by adding specific references to the types of spaces covered (206.2.4 Exception 1).

• Incorporation of provisions for recreation facilities that address accessible routes to amusement rides (206.2.9), boating facilities (206.10), bowling lanes (206.11), court sports (206.12), exercise machines (206.13), fishing piers and platforms (206.14), golf facilities (206.15), miniature golf facilities (206.16), and play areas (206.17).

Substantive changes, further discussed below, include:

• Modifying the exception for an accessible route in certain public facilities (206.2.3 Exception 2).

• A new exception for mezzanines in one story buildings (206.2.4 Exception 3).

• A new exception for dining areas in sports facilities (206.2.5 Exception 3).

• Revision of the requirement for accessible routes to performance areas (206.2.6).

• A new provision and exception for press boxes (206.2.7).

• A new provision and exceptions for employee work areas (206.2.8).

Comment. Public facilities, which are defined as State and local government facilities, are permitted an exception from the requirement for access between stories (206.2.3, Exception 2). In the proposed rule, this exception pertained to public facilities that are less than three stories and are not open to the public if the level above or below the accessible level houses no more than five persons and is less than 500 square feet. Comments considered the limit based on occupant load to be sufficient and suggested that the square footage cap was unnecessary.

Response. The 500 square foot maximum was based on a floor area allowance of 100 square feet per occupant, which is consistent with model building code requirements for business and industrial occupancies used in determining the occupant load for egress purposes. The Board agrees that the maximum occupant load is an effective cap on the size of buildings eligible for this exception. The square footage specification has been removed as a criterion of this exception.

The Board has clarified requirements for vertical access to mezzanines. While elevators, where provided, must serve all stories, including mezzanines where provided, ADAAG has not been clear on whether some form of vertical access is nonetheless required to a mezzanine level where no elevator is provided, such as a one-story building. Since mezzanines are elevated at heights similar to a full story, access by ramp or certain platform lifts may not provide a practical alternative. The final rule includes an exception at 206.2.4, Exception 3 stating that an accessible route to mezzanines is not required in facilities that are not subject to the requirement for an elevator, including one story buildings and those that qualify for the elevator exemption.

Comment. Designers called attention to dining areas integrated into the seating bowl of sports venues that are tiered in order to provide adequate lines of sight. These comments pointed out that it is difficult to provide accessible routes to much of the seating in such dining areas.

Response. An exception is included in the final rule for tiered dining areas in sports facilities at 206.2.5, Exception 3. Under this exception, access is not required to all dining areas, as is otherwise required. Instead, 25% of the dining area is required to be accessible provided that accessible routes connect seating required to be accessible, and each tier is provided with the same services.

Comment. The proposed rule required that an accessible route be provided where a circulation path “directly connects” seating and performance areas (206.2.6). Comments recommended that the accessible route should also directly connect such spaces to provide an equivalent level of access. Otherwise, it may be possible to provide access to performance areas through a more circuitous route and still be in compliance.

Response. Clarification has been added that the accessible route “shall directly connect the seating area with the performance area” where a circulation path is provided to do the same. This revision will ensure that the accessible route to a performance area is comparable to the general circulation route.

Since ADAAG was first published, many questions have been received about its proper application to press boxes at various sports facilities, particularly high schools. Such structures, which can be prefabricated, are significantly elevated above ground. Some are located at the top of bleachers. As a result, their design and location have posed unique challenges to the provision of a connecting accessible route. In the final rule, the Board has addressed the concerns raised in many technical inquiries by providing an exception for press boxes at 206.2.7. Press boxes in assembly facilities are required to be on an accessible route except for certain bleacher-mounted and free-standing types. An accessible route is not required to press boxes with 500 square feet or less of aggregate space that are located on bleachers with entrances on only one level (Exception 1). Free-standing structures are exempt if they are elevated more than 12 feet and have an aggregate area that is 500 square feet or less (Exception 2).

Section 206.2.8 establishes new provisions for employee work areas. The proposed rule required such areas to be on an accessible route so that people with disabilities could approach, enter, and exit the space. In the final rule, the Board has added a requirement that common use circulation paths, where provided within employee work areas, also be accessible by meeting the requirements for accessible routes in section 402. The basis for this change is discussed above under section 203.9 (Employee Work Areas). This revision provides for greater maneuvering access within work areas but does not require elements or equipment that are part of a work station to comply with any other requirements. This requirement is limited to relatively sizable, interior work spaces. Exceptions are provided for small work areas that are less than 1,000 square feet in size (Exception 1), circulation paths that are an integral part of equipment (Exception 2), and exterior work areas that are fully exposed to the weather (Exception 3).

Section 206.4 covers entrances. Substantive changes include:

• Increasing scoping for public entrances (206.4.1).

• Removing a requirement for accessible ground floor entrances (206.4.3 in the proposed rule).

• Revision of provision for parking structure entrances (206.4.2).

Editorial changes include reordering of provisions and the addition of requirements specific to transportation facilities (206.4.4) and residential dwelling units (206.4.6) that were previously located in chapters specific to those facilities. Scoping requirements for signs at entrances have been moved to the scoping for signs at section 216.

Comment. The proposed rule specified that at least 50% of public entrances be accessible (206.4.3). Many persons with disabilities urged the Board to increase this scoping so that they have equal access in terms of convenience, entry options, travel distances, and proximity to accessible parking. Some commenters argued that all public entrances should be accessible.

Response. The minimum number of entrances required to be accessible has been increased from 50% to 60% in the final rule. While access to all entrances is desirable, a variety of conditions on a site can make access to every entrance difficult and costly. For example, facilities located on steep hillsides may have entrances elevated significantly above grade. However, this consideration, in the Board's view, is not as relevant to connections from parking structures. In final rule, the Board has required all pedestrian connections between parking structures and facility entrances to be accessible (206.4.2). This represents an increase from the proposed rule, which required only one to be accessible.

Comment. The proposed rule required that at least one accessible entrance be a ground floor entrance (206.4.3). Commenters recommended that this stipulation be removed since the ground floor may not always be the primary floor. In such conditions, the provision would not enhance accessibility.

Response. The requirement that at least one accessible entrance be a ground floor entrance has been removed in the final rule.

Comment. Section 206.4.2 covers access to pedestrian connections between parking structures and facility entrances. In the proposed rule, this requirement referred to “parking garages.” Comments considered that term to be too narrow and recommended alternatives such as “parking facilities.”

Response. The reference to “parking garage” has been changed to “parking structure” in the final rule.

Section 206.5 provides scoping requirements for doors, doorways, and gates. Revisions include:

• Clarification of a provision covering doors and doorways in inaccessible transient lodging guest rooms in section 206.5.3 (located at 224.1.2 in the proposed rule).

• Addition of a new exception from this requirement for shower and sauna doors (206.5.3, Exception).

This section also includes a provision for doors and doorways in residential dwelling units (206.5.4) that has been relocated from Chapter 11.

Comment. In transient lodging facilities, doors and doorways in inaccessible guest rooms are required to provide a clear width of at least 32 inches. This specification stems from the original ADAAG and is intended to afford some access to inaccessible guest rooms for visitation purposes. Clarification was requested on which types of doors this is intended to cover and whether it applies to shower doors.

Response. In the final rule, clarification has been added in 206.5.3 that the 32 inch minimum clearance applies to those doors “providing user passage” into and within guest rooms not required to be accessible. In addition, the Board has added an exception that exempts shower and sauna doors in inaccessible guest rooms from this requirement. Corresponding changes have been made to a similar provision in the scoping section for transient lodging facilities (224.1.2).

Scoping requirements for elevators in section 206.6 reference technical criteria for standard passenger elevators, destination-oriented elevators, existing elevators that are altered, limited-use/limited-application (LULA) elevators, and private residence elevators. Destination-oriented elevators are different from typical elevators in that they provide a means of indicating the desired floor at the location of the call button, usually through a key pad, instead of a control panel inside the car. Responding cars are programmed for maximum efficiency by reducing the number of stops any passenger experiences. Limited-use/limited-application (LULA) elevators are typically smaller and slower than other passenger elevators and are used for low-traffic, low-rise installations, including residential facilities.

Scoping provisions have been editorially revised to correspond to reorganized technical criteria in Chapter 4. Specifically, requirements for destination-oriented elevators and altered elevators have been integrated into the specifications for standard elevators (407). LULA elevators (408) and private residence elevators (409) are addressed in separate sections since their specifications vary considerably from the other elevator types. Scoping for private residence elevators (206.6, Exception 2) has been relocated from Chapter 11.

Section 206.6 requires each passenger elevator to comply with the requirements for standard elevators or destination-oriented elevators. LULA elevators are permitted in those facilities that are exempt from the requirement for an elevator (206.6 Exception 1).

Comment. Industry, facility operators, designers and some disability groups strongly supported LULA elevators as an alternative where a standard elevator is not required. Some comments from persons with disabilities opposed allowing use of LULA elevators over concern about their size and accessibility.

Response. The ADA's statutory language exempts certain facilities from the requirement for an elevator. The Board has retained the exception permitting LULA elevators, since it offers a more economical alternative than a standard elevator and thus may help encourage inclusion of some vertical access where none is mandated. The technical criteria for LULA elevators specify minimum car sizes that ensure adequate accessibility. In addition, the Board has revised the exception to also allow LULA elevators as an alternative to platform lifts, since such elevators provide an equivalent, if not greater, degree of access.

Comment. The guidelines provide an exception for private sector facilities based on the number of stories or the square footage per floor (206.2.3, Exception 1). A much narrower exception is permitted for State and local government facilities (206.2.3, Exception 2). The Board sought comment on whether LULA elevators should be allowed instead of a standard elevator in certain small State or local government facilities. There were few comments in response to this question.

Response. No changes have been made regarding LULA elevators that are specific to State and local government facilities. Any facility, regardless of whether it is a public or private facility, may be equipped with a LULA elevator if is not required to have an elevator. LULA elevators may also be used as a substitute for platform lifts.

Comment. The guidelines require that when one elevator is altered, the same alteration has to be carried out for all elevators programmed to respond to the same hall call control (206.6.1). Commenters opposed this requirement as excessive and argued that it goes beyond the potential scope of an elevator alteration. Generally under the guidelines, the requirements apply only to the element to be altered and not those outside the intended scope of work (except for alterations to primary function areas and the requirement for accessible paths of travel).

Response. This provision is unique in requiring an alteration to be replicated to corresponding elements (elevator cars) because it addresses an equally unique circumstance. Elevator users typically do not control which elevator will respond to a call. If one car is altered and as a result made accessible, it would make continuous access on that elevator a game of chance, with the odds higher for each additional car responding to the call that is not similarly altered.

Section 206.7 specifies where platform lifts can be installed. In new construction, platform lifts are permitted as a means of vertical access to certain spaces, including performance areas and speakers' platforms (206.7.1), wheelchair spaces in assembly areas (206.7.2), incidental spaces not open to the public that house no more than five persons (206.7.3), and various work spaces in courtrooms (206.7.4). In the final rule, provisions have been added that permit platform lifts where exterior site constraints make installation of a ramp or elevator infeasible (206.7.5) and in residential dwelling units and transient lodging guest rooms (206.7.6). Also included in the final rule are provisions developed in separate rulemakings on recreation and play facilities that permit platforms lifts to be used to provide access to amusement rides (206.7.7), play equipment and structures (206.7.8), team or player seating areas in sports facilities (206.7.9), and boating facilities, fishing piers, and fishing platforms (206.7.10).

Comment. Comments suggested that the guidelines use the industry term “platform lifts” instead of “wheelchair (platform) lifts.” The recommended term does not suggest that such platforms are limited to people who use wheelchairs.

Response. The term “wheelchair (platform) lifts” has been replaced with “platform lifts” throughout the document.

Comment. Original ADAAG allowed use of platform lifts where ramps or lifts are infeasible due to existing site constraints (4.1.3(5), Exception 4(d)). This provision was not included in the proposed rule as it was considered unwarranted in new construction. Strong support was expressed for reinstating this exception, particularly among industry. These comments referred to conditions that could pose significant challenges to access in new construction.

Response. The provision for existing site constraints has been reinserted in the final rule at section 206.7.5. It is intended to apply to instances where exterior site constraints posed by the topography make ramp or elevator access infeasible. Although the triggering condition (site constraints) must be exterior, the permitted platform lift may in fact be located in the interior of a building. This clarification is provided in an advisory note to this provision.

Section 206.7.6 permits platform lifts in residential dwelling units and transient lodging guest rooms. The Board included this provision in the final rule since it considers lift access appropriate in such spaces.

Section 206.8 requires that an accessible route or accessible means of egress be maintained where security barriers or check points are provided. It also requires that people with disabilities be able to maintain visual contact with their personal items to the same extent afforded others passing through barriers.

Comment. The proposed rule specified that people with disabilities be able to maintain visual contact with their personal belongings while “passing though” security barriers. Comments stated that the maintenance of visual contact should be ensured from the accessible route, which may not coincide with the route through barriers.

Response. Clarification has been added that “the accessible route shall permit persons with disabilities passing around security barriers to maintain visual contact with their personal items to the same extent provided others passing through the security barrier.”

207 Accessible Means of Egress

Provisions for accessible means of egress are completely revised in the final rule. Provisions in the proposed rule were intended to be more consistent with model building codes and standards. In the final rule, the Board has taken this a step further by directly referencing the scoping and technical requirements in the International Building Code (IBC) for accessible means of egress. All technical criteria for accessible means of egress (409), including areas of refuge (410) have been removed in the final rule. Information on the IBC requirements for accessible means of egress is available on the Board's website at www.access-board.gov and in advisory notes.

The proposed rule, consistent with model building codes and standards, specified at least one accessible means of egress for all accessible spaces and at least two accessible means of egress where more than one means of egress was required. In addition, it provided a new requirement for an evacuation elevator to be provided as an accessible means of egress in buildings with four or more stories above or below the exit discharge level, which is also consistent with model building codes.

The proposed scoping provisions referenced technical criteria for accessible means of egress, including exit stairways and evacuation elevators (409). These specifications allowed use of exit stairways and elevators that are part of an accessible means of egress when provided in conjunction with horizontal exits or areas of refuge. While typical elevators are not designed to be used during an emergency evacuation, there are elevators that are designed with standby power and other features in accordance with the elevator safety standard that can be used for evacuation. The proposed rule also provided requirements for areas of refuge, which are fire-rated spaces on levels above or below the exit discharge levels where people unable to use stairs can go to register a call for evacuation assistance and wait for it.

Comment. Many comments supported the Board's overall effort to harmonize its guidelines with model building codes and life safety codes. Some considered this particularly important in specifications related to life and fire safety. To further underscore this effort, it was recommended that the Board directly rely on the International Building Code (IBC) in addressing accessible means of egress.

Response. Historically, the Board's guidelines have “piggybacked” model building and life safety codes in addressing accessible means of egress, particularly for scoping purposes. The required number was specified according to the number of means of egress or exits required by model building codes. The IBC's scoping and technical requirements for accessible means of egress are substantively consistent with the provisions contained in the proposed rule. For purposes of harmonization and simplicity, the Board has replaced these provisions with a reference in section 207.1 to a specific section of the IBC (1003.2.13 in the 2000 edition and 1007 in the 2003 edition).

Comment. In response to the draft final guidelines, the National Fire Protection Association (NFPA) urged the Board to reference its Life Safety Code (NFPA 101), a voluntary consensus code which contains scoping and technical provisions for accessible means of egress. NFPA requested that the final guidelines reference the 2000 edition of the Life Safety Code in addition to the IBC provisions for accessible means of egress.

Response. Requirements for accessible means of egress in the IBC are consistent with those the Board has proposed. Further, they are provided in the IBC in a discrete section (1003.2.13), which the final guidelines specifically reference. Specifications for accessible means of egress in the Life Safety Code are provided throughout that document. Consequently, NFPA's request would require a reference to the complete Life Safety Code. For this reason, the Board has retained its references to the IBC for accessible means of egress. The final guidelines do reference NFPA's National Fire Alarm Code (NFPA 72-1999) with respect to technical requirements for visual alarms, further discussed below in section 702.

The Board had considered adding a provision, which was included in the draft of the final guidelines, that would have required accessible means of egress to be connected to the level of exit discharge by an accessible route. This would have been required except where the floor level is 30 inches or more above or below the level of exit discharge. In such cases, areas of rescue assistance would have been permitted in lieu of an accessible route to the level of exit discharge. The Board sought to incorporate a similar provision into the IBC. The IBC Committee on Means of Egress did not approve adding such a provision into the IBC. The IBC Committee and others believed that the rationale for areas of rescue assistance was relevant not just to the levels above and below the exit discharge level, but also to the level of exit discharge itself. The Board's provision recognized elevation differentials that would make connection by an accessible route very difficult even in new construction. This recognition, it was argued, should not be limited by a specific elevation change (i.e., 30 inches). For purposes of harmonization, the Board has removed this provision in the final rule.

Comment. Comments suggested that situations should be addressed where accessible means of egress should be allowed to coincide, such as a space that provides few wheelchair spaces.

Response. The final rule includes an exception acknowledging that accessible means of egress can share a common path of egress travel where this is permitted for means of egress by local building or life safety codes (207.1, Exception 1).

In addition, the Board has retained in the final rule an exemption for detention and correctional facilities from the requirement for areas of refuge (Exception 2). This exception was provided because such areas are considered a security risk and evacuation is typically supervised in these types of occupancies.

The Board has added a new provision specific to platform lifts. The proposed rule allowed accessible routes to serve as accessible means of egress, except for wheelchair lifts, which are not permitted as part of an accessible means of egress because they are not generally provided with standby power that would allow them to remain functional in emergencies when power is lost. The final rule includes a provision that allows platform lifts with standby power to be part of an accessible means of egress where the IBC permits lift access (207.2). This change helps ensure that necessary accessible means of egress from spaces served by platform lifts are maintained in emergencies.

208 Parking Spaces

Section 208 specifies the minimum number of parking spaces required to be accessible. In general, required access is determined by a sliding scale based on the total number of spaces provided (Table 208.2). This section includes scoping requirements specific to hospital outpatient facilities (208.2.1), rehabilitation facilities and outpatient physical therapy facilities (208.2.2), residential facilities (208.2.3), and van spaces (208.2.4). Changes made in the final rule include:

• Removing an exception for “motor pools” (208.1, Exception).

• Clarifying scoping, including where multiple parking facilities are provided on a site (208.2).

• Clarifying requirements for parking at residential facilities (208.2.3).

• Increasing the portion of accessible spaces that accommodate vans (208.2.4).

• Relocation of requirements for signage to the scoping section on signs (216.5).

Section 208.1 exempts spaces used exclusively for buses, trucks, other delivery vehicles, law enforcement vehicles, and vehicular impound where public access lots are provided with accessible passenger loading zones. The proposed rule included in this list a reference to “motor pools,” which the Board has removed in the final rule.

Comment. The scoping table in the proposed rule specified the minimum number based on the total number of parking spaces provided in a parking lot. Commenters indicated that this term could be construed as applying only to surface lots, even though the requirement is intended to apply to parking garages and other types of parking structures as well.

Response. The Board has replaced the references to “parking lots” with the term “parking facility,” which is more inclusive of the various types of parking covered by this section.

Comment. Persons with disabilities urged an increase in the number of parking spaces required to be accessible. Other commenters, including those representing facility operators, asked for a reduction in this number because existing accessible spaces are believed to be underutilized. Comments also opposed basing scoping on the number of spaces provided at each facility instead of the total number provided on a site, which further serves to inflate the required number of accessible spaces.

Response. Scoping for accessible parking spaces (excluding the portion required to be van accessible) has not been changed in the final rule. A strong difference of opinion exists between those who use such spaces and those who must provide or maintain them. There was no clear consensus among commenters on either side of this issue on an alternative scoping level. Additionally, the final rule preserves the application of scoping on a facility-by-facility basis instead of on the total number provided on a site, consistent with the original ADAAG and the proposed rule. Clarification to this effect that was provided in an advisory note in the proposed rule has been added to the text of the requirement in 208.2.

Parking at residential facilities is addressed in section 208.2.3. Where parking spaces are provided for each dwelling unit, at least one parking space for each accessible dwelling unit is required to be accessible (208.2.3.1). The Board has clarified this provision to apply “where at least one parking space is provided for each dwelling unit.” At least 2% of any additional spaces, where provided, are required to be accessible as well (208.2.3.2). The Board has amended requirements for guest parking (208.2.3.3) to include employee spaces, which is consistent with the basic scoping provision applying generally to all facility types in 208.2.

Comment. Section 208.2.4 covers van accessible spaces. The proposed rule specified that one of every eight accessible spaces, or fraction thereof, be designed to accommodate vans. Technical specifications for van spaces provide for a wider access aisle to better accommodate lift-equipped vehicles. Many comments considered this number to be wholly insufficient. People with disabilities who use vans reported difficulty finding available van spaces which, when provided, are too often already occupied. Recommended alternate scoping levels varied, though some urged that all accessible spaces be van accessible.

Response. The final rule has been revised to require one van space for every six accessible spaces, or fraction thereof. This change does not increase the total number of parking spaces required to be accessible, but instead increases the portion of such spaces that must be accessible to vans. The Board made this change due to several factors. In addition to the response from commenters, anecdotal information clearly suggests that the use of vans by persons with disabilities is on the rise. In addition, the Board is aware of other entities, such as the State of Maryland, that have responded to this demand for more van spaces by doubling the required number. Another consideration is that van spaces are not designated or reserved exclusively for vans; their use by people who do not drive vans can impact their availability among accessible spaces. The primary difference between van spaces and standard accessible spaces is an additional three feet of aisle width. The technical specifications permit the additional space to be provided in either the aisle or the space. The Board believes that the impact of this change is lessened by technical requirements that allow two accessible spaces, including van spaces, to share the same aisle.

The requirement for van spaces applies to all types of facilities, including those that are the subject of special provisions, such as hospital outpatient facilities (208.2.1), rehabilitation and physical therapy facilities (208.2.2), and residential facilities (208.2.3). In the proposed rule, the reference to rehabilitation and physical outpatient therapy facilities covered in 208.2.2 was inadvertently omitted. This reference has been restored in the final rule.

Section 208.3 specifies the location of accessible parking spaces. This section has been edited to clarify:

• The location of accessible spaces generally (208.3.1).

• That an exception allowing van spaces to be clustered applies to “multi-story” parking facilities (208.3.1, Exception 1).

• That “substantially equivalent” or greater access in terms of travel distance, parking fee, and user cost and convenience is the basis upon which accessible spaces can be located in one facility instead of another (208.3.1, Exception 2).

• That accessible parking serving individual residential dwelling units must be located on the shortest accessible route to the units they serve (208.3.2).

Comment. Spaces can be located in other lots where equal or greater access would result in terms of travel distance, user cost, and convenience (208.3.1, Exception 2). Comments requested clarification of the terms “user cost” and “user convenience.”

Response. In the final rule, the Board has replaced the reference to “user cost” with “parking fee” which it considered more descriptive. Under this exception, accessible spaces can be located in one parking facility instead of another so long as this does not result in higher parking fees. The Board has clarified the term “user convenience” in a new advisory note.

209 Passenger Loading Zones and Bus Stops

In general, at least one accessible passenger loading zone is required for every 100 linear feet of loading zone space provided (209.2.1). Additional requirements address bus loading zones and bus stops (209.2.2 and 209.2.3), medical and long-term care facilities (209.3), valet parking (209.4), and mechanical access parking garages (209.5). Revisions have been made to:

• Clarify the basic scoping provision (209.2.1).

• Integrate requirements for bus loading zones and bus stops previously located in a separate chapter covering transportation facilities (209.2.2 and 209.2.3).

• Modify provisions specific to medical care and long-term care facilities (209.3).

• Address mechanical access parking garages (209.5).

An accessible passenger loading zone is required for every 100 linear feet of loading zone space provided. The Board has clarified in the final rule that this applies to “fractions” of this amount as well, which is consistent with the intent of this provision as proposed.

The proposed rule addressed bus loading areas and bus stops in Chapter 10 (section 1002.2), which covered transportation facilities. With the integration of this chapter into the preceding chapters, the provisions for bus loading zones and bus stops have been incorporated into the general scoping provisions for passenger loading zones. This reorganization helps clarify that while these areas function as passenger loading zones, they are subject to different technical criteria. No substantive changes have been made to these requirements as part of this reorganization.

Comment. Accessible passenger loading zones are required at licensed medical care and licensed long-term care facilities. The scope of this requirement was not clear to commenters who asked whether the reference to medical care facilities included doctors' and dentists' offices, clinics, and similar types of health care facilities.

Response. The Board did not intend this provision to apply to medical facilities that do not generally provide overnight stay. In the final rule, this requirement is limited to those medical and long-term care facilities where the period of stay may exceed 24 hours. This change is consistent with original ADAAG's use of the term “medical care facility” and corresponds with a similar revision made to scoping provisions for patient bedrooms in such facilities in section 223. In addition, the Board has clarified that this provision applies only to long-term care facilities that are licensed.

Comment. It was recommended that the guidelines address mechanical conveyances used to elevate vehicles to different levels of parking facilities. Comments pointed out that model building codes cover facilities providing these vehicle lifting devices.

Response. The final rule includes a provision for “mechanical access parking garages” that requires accessible passenger loading zones at the vehicle drop-off and pick-up areas. This requirement is consistent with model building codes.

210 Stairways

Stairs that are part of a means of egress are required to comply with the guidelines (210.1). Exceptions are provided for certain stairs in detention and correctional facilities and altered stairs. The final rule modifies the exception for altered stairs (Exception 2), adds a new exception for aisle stairs in assembly areas (Exception 3), and incorporates an exception for play components developed in previous rulemaking on play areas (Exception 4).

Comment. In altered facilities, stairs serving levels that are connected by an accessible route do not have to comply, but must be equipped with complying handrails. Comments indicated that this requirement should apply only where an alteration affects stairs. Otherwise, the requirement for complying handrails should not apply.

Response. The requirement for complying handrails was intended to apply only where stairs are modified or replaced as part of an alteration. Clarification has been added in the final rule that the requirement for complying handrails applies “when the stairs are altered.”

Comment. The International Building Code and other model building codes provide various exceptions for stairs in assembly areas to permit design features used to accommodate sight lines. Such features include unique riser and tread dimensions and handrail configurations. Comments indicated that an exception should similarly be provided in the guidelines to avoid conflict with model building codes.

Response. The final rule exempts aisle stairs in assembly areas from the requirements for stairs.

211 Drinking Fountains

In addressing drinking fountains, the guidelines cover access for people who use wheelchairs and access for standing persons who may have difficulty bending or stooping. Where provided, 50% of drinking fountains are required to be wheelchair accessible and 50% are required to be accessible to standing persons (with rounding up or down permitted in the case of odd numbers). Generally, this requires at least two units in order to provide such access. However, single units that provide dual access, such as those equipped with two spouts or combination high-low types, can substitute for two separate units. Scoping requirements apply where drinking fountains are provided on exterior sites, on floors, and within secured areas.

This section has been editorially revised for clarity and substantively revised in several respects:

• References to “water coolers” have been removed (211).

• The application of scoping to exterior sites has been clarified (211.1).

• An exemption for secured areas in detention and correctional facilities has been added (211.1, Exception).

The proposed rule scoped both drinking fountains and water coolers. The term “water coolers” typically refers to units that are either identical to drinking fountains or to furnishings that are not fixed or plumbed. The reference to water coolers was removed.

Comment. Many comments considered this section unduly complicated and obscure in potentially requiring at least two units where drinking fountains are provided. Commenters also opposed specific recognition of “high-low” units as an alternative to two separate units since other types, such as single bowl units with two spouts, are commercially available.

Response. Section 211 has been editorially revised to enhance clarity. Section 211.2 now states that “no fewer than two drinking fountains shall be provided” with one being wheelchair accessible and the other designed to accommodate people who have difficulty bending or stooping. Single units that provide both types of access are permitted as an alternative to multiple installations (211.2 Exception). Where fractions result (i.e., provision of an odd number of units), rounding up or down is permitted.

In the final rule, scoping has been clarified as applying to units provided at “exterior sites,” in addition to those installed on floors. For example, if drinking fountains are provided outside a building and on each of its floors, then dual access must be provided at exterior locations and on each floor. If drinking fountains are provided on one floor only, then the requirement for dual access would apply only to that floor.

Scoping is also applied to ensure dual access in secured areas of facilities, such as prisons and jails since circulation among occupants may be restricted to such an area. In the proposed rule, technical criteria applicable to detention and correctional facilities required wheelchair access to drinking fountains serving accessible housing or holding cells (section 807.2.4 in the proposed rule). However, the basic scoping in section 211 would have applied equally to detention and correctional facilities, including the requirement for units designed to accommodate people who have difficulty bending or stooping. In the final rule, an exception has been added to clarify that drinking fountains serving inaccessible cells only are not required to be accessible (211.1, Exception). Those units that serve accessible cells are required to be accessible as required in section 211.

212 Sinks, Kitchens, and Kitchenettes

Scoping provisions in section 212 require access to kitchens and kitchenettes, where provided. Where sinks are provided in each accessible room or space, at least 5% of each type, but no less than one, must be accessible, except for mop or service sinks, which are exempt.

Comment. In the proposed rule, this scoping section referenced “wet bars” along with kitchens and kitchenettes. Comments, including those representing the hotel and motel industry, considered this reference to be unnecessary since such elements are adequately covered through references to kitchenettes and sinks. The term “wet bar” could pose a source of confusion since the guidelines do not provide a definition or specific technical criteria for such elements.

Response. The reference to “wet bars” has been removed in the final rule.

The proposed rule provided several exceptions which clarified that access to kitchens and kitchenettes is not required in inaccessible medical care patient rooms, transient lodging guest rooms, dwelling units, or housing cells (212.1.1, Exceptions 1 though 4). These exceptions have been removed as unnecessary since scoping elsewhere in Chapter 2 indicates the number of rooms, units, and cells required to be accessible. Those not scoped are not required to be accessible. Thus, none of the provisions in the guidelines, including those for kitchens, would apply to rooms, units, and cells not required to be accessible, unless otherwise indicated.

213 Toilet Facilities and Bathing Facilities

Section 213 covers access to toilet and bathing facilities, including elements and fixtures they contain. Access is required where toilet and bathing facilities are provided, though exceptions are provided for certain altered facilities, including qualified historic facilities, single user rooms, and portable units clustered at a single location (213.2, Exceptions 1 through 4).

Substantive changes include an increase in the number of toilet rooms clustered at a single location required to be accessible and revision of criteria for unisex toilet and bathing rooms.

Comment. Where single user toilet rooms are clustered at a single location, not all are required to be accessible (213.2, Exception 4). In the proposed rule, this exception specified access to at least 5% of such toilet rooms. This reduced scoping was limited to those toilet rooms containing fixtures provided in excess of the number required by the local plumbing or building code. Comments from people with disabilities strongly opposed this reduction in access from the original ADAAG, which required all to be accessible. Commenters felt that this would severely limit choice and availability of accessible toilet rooms at such locations. Some urged that all toilet rooms clustered at a location should be required to be accessible.

Response. The exception has been modified to allow only half of the toilet rooms clustered at a single location to be inaccessible. This will enhance choice and availability of accessible toilet rooms while still providing a considerable reduction in the amount required to be accessible relative to the original ADAAG. As revised in the final rule, this scoping is not limited to situations where the fixture count required by the local plumbing or building code is exceeded. Thus, the 50% scoping would apply across the board to facilities clustered at a single location without regard to the required fixture count. The Board made this change in order to facilitate compliance.

Comment. Comments advised revising requirements for unisex toilet and bathing rooms for greater consistency with model building codes. Recommendations also noted that unisex facilities are also referred to as “single use” or “family” toilet and bathing rooms in some codes.

Response. The requirements for unisex facilities have been revised according to specifications in the model building codes (213.2.1). Unisex toilet rooms must have a lavatory and privacy latch and cannot have more than two toileting fixtures (i.e., two water closets, or one water closet and one urinal). This differs from the proposed rule which required unisex toilet rooms to have one water closet. Unisex bathrooms must have a lavatory, water closet, privacy latch, and one shower, and may have a tub in addition to a shower. The proposed rule permitted either a shower or tub. The final rule also includes a reference indicating that unisex toilet and bathing rooms are also known as “single use or family” facilities.

Editorial revisions made to the scoping provisions for toilet and bathing facilities include:

• Clarification of the requirement that toilet and bathing facilities be provided on an accessible story in facilities exempt from the requirement for an elevator where toilet and bathing facilities are provided (213.1).

• Relocation of requirements for signs (213.2.2 in the proposed rule) to the signage scoping section (216.8).

• Removal of exceptions for toilet and bathing rooms serving inaccessible patient rooms, guest rooms, dwelling units, and cells (213.2, Exceptions 5 through 8 in the proposed rule).

The proposed rule provided several exceptions which clarified that access is not required to toilet and bathing facilities serving inaccessible medical care patient rooms, transient lodging guest rooms, dwelling units, or prison and jail cells (213.2, Exceptions 5 through 8). Similar to corresponding exceptions for kitchens and kitchenettes in 212, these exceptions have been removed as unnecessary since scoping elsewhere in Chapter 2 indicates the number of rooms, units, and cells required to be accessible. Those not scoped are not required to be accessible, including toilet and bathing facilities serving them.

Section 213.3 addresses plumbed fixtures and accessories. Substantive changes have been made to scoping provisions for ambulatory accessible toilet compartments (213.3.1) and urinals (213.3.3).

Comment. The proposed rule, consistent with the original ADAAG, required that access for people who are ambulatory be provided, in addition to wheelchair accessible compartments, in toilet rooms with six or more toilet compartments. Ambulatory accessible stalls feature parallel grab bars on both sides and a self-closing door and are designed to accommodate people who may have difficulty walking, sitting, or rising. Comments pointed to a disparity in the application of this requirement between men's and women's rooms since the provision is triggered by the number of compartments without taking into account urinals. The number of toilet compartments in a men's rooms may be lower than in a women's rooms due to the provision of urinals.

Response. The requirement for ambulatory accessible compartments has been revised so that it applies equitably between men's and women's rooms (213.3.1). The provision has been modified to apply where six or more toilet compartments are provided or where “the combination of urinals and water closets totals six or more fixtures.”

Comment. Where urinals are provided, the proposed rule specified at least one to be accessible. Comments, particularly those from industry, urged that this requirement be removed. Some comments questioned the degree to which men with disabilities use or prefer urinals over water closets. Several comments indicated that some building codes have been revised to permit stall-type urinals, which can facilitate the emptying of leg bags.

Response. The Board believes that access to urinals should be required to preserve a degree of choice in the type of toilet fixtures available. However, the scoping requirement has been revised to apply where more than one urinal is provided. Thus, accessible urinals are not required in toilet rooms equipped with one urinal.

Editorial changes made to scoping provisions in 213.3 for plumbed fixtures and accessories include:

• Removing as unnecessary the distinction between toilet compartments and toilet rooms in scoping accessible water closets (213.3.1, 213.3.2).

• Clarifying the prohibition on accessible lavatories being placed in toilet compartments (213.3.4).

• Removing references to operable parts dispensers, and receptacles, as such elements are generally covered by scoping in 205 (213.3.6 in the proposed rule).

• Relocation and modification of a scoping provision for coat hooks and shelves in toilet and bathing rooms and toilet compartments (213.3.7).

Comment. At least one accessible lavatory is required in toilet and bathing rooms. This required accessible lavatory cannot be located in a toilet compartment. Comments agreed with this provision, but requested that it be restated more clearly in the final rule.

Response. The provision has been revised for purposes of clarity to state that where lavatories are provided, at least one shall be accessible “and shall not be located in a toilet compartment.”

Section 213.3.7 addresses coat hooks and shelves provided in accessible toilet rooms, toilet compartments, and bathing facilities and references corresponding technical criteria for such elements in these spaces. This provision has been relocated for clarity from the scoping section covering storage (208). In the proposed rule, this provision at 228.4 required such access only if coat hooks and shelves were provided in inaccessible toilet rooms or toilet compartments. This has been revised in the final rule as applying where such elements are provided without regard to inaccessible rooms and compartments.

214 Washing Machines and Clothes Dryers

No substantive changes have been made to scoping requirements for washing machines and clothes dryers. Editorial changes made to this section include changing the section's title from “Laundry Equipment” to “Washing Machines and Clothes Dryers” for consistency with the references used in the scoping provisions.

215 Fire Alarm Systems

Section 215 covers fire alarms, which are required to comply where audible fire alarms are provided. Provisions are included that are specific to public use and common use areas (215.2), work areas (215.3), transient lodging guest rooms (215.4), and residential dwelling units (215.5).

Substantive changes made in the final rule concern existing facilities, work areas, and other types of emergency alarm systems. Editorial changes include the addition of references to transient lodging facilities and residential dwelling units, which are subject to specific requirements for fire alarms in other scoping provisions in sections 224 and 233, respectively.

Fire alarm systems required to be accessible must have visual appliances which serve people who are deaf or hard of hearing. The advisory committee had recommended an exception that would require visual appliances in alterations only where a fire alarm system is upgraded or replaced or a new system installed. Such an exception would recognize that fire alarms are often complex building-wide systems that cannot necessarily be brought into compliance with requirements for visual appliances on a piecemeal basis. The Board had not included this exception in the proposed rule because it considered the basic application provisions for alterations in section 202.3 to be sufficient. In general, these provisions apply requirements of the guidelines according to the scope of an alteration to the degree that compliance is “technically feasible.” The Board has reconsidered this decision and has included an exception in the final rule for consistency with the International Building Code and the National Fire Protection Association code (NFPA 72). The exception clarifies that alterations affecting fire alarm systems partially, or in a limited manner, do not trigger requirements for visual appliances (215.1, Exception). However, alterations that involve the upgrade or replacement of an existing alarm system or the installation of a new system are subject to the requirements for visual alarms.

The Board intends the exception at 215.1 to be applied in the same manner and to have the same meaning as is common practice in a similar exception provided in the model codes upon which this exception is based. Upgrades to the fire alarm system are changes to the system infrastructure and are not changes to individual system components. For example, replacing the main fire alarm control panel which permits fire alarms to be better integrated with other building systems or with off-site monitoring services would be considered an upgrade to the fire alarm system. In addition, replacing or increasing the main power supply to the fire alarms would be an upgrade to the fire alarm system. However, adding or relocating individual visible or audible notification devices is not an upgrade to the system.

Comment. The proposed rule included a requirement for visual alarms in employee work areas that are served by audible alarms (203.3). Employee work areas are exempt from most other requirements in the guidelines under an exception at 203.9. In order to gauge the impact of this requirement, the Board posed several questions that sought comment on: how frequently alarm systems are typically replaced or upgraded in such a manner that the requirement would be triggered in existing facilities (Question 5), other alternatives that would provide a comparable level of life safety for employees who are deaf or hard of hearing (Question 6), and limiting the number of visual appliances for the benefit of people who have photosensitive epilepsy (Question 7). Comments indicated that alarm systems are typically replaced on a 10-15 year cycle. However, some indicated that the electrical service supporting the alarms is not necessarily replaced or upgraded when alarms systems are, which may preclude opportunities to easily add more appliances to the system as part of the work. Responses on alternative methods included low tech suggestions such as pagers, a buddy system, and other solutions that involve non-fixed elements or operational methods and are thus outside the scope of these guidelines. Many people who have photosensitive epilepsy and organizations representing them acknowledged that visual alarms are necessary in public use and common use areas but urged the Board to treat employee work areas differently. These commenters expressed concern that visual appliances in employee work areas could pose barriers to the employment of people who have photosensitive epilepsy. Activation of visual appliances in work areas on an as-needed basis does not provide a practicable solution as most codes, standards, and local laws prohibit deactivation of fire alarm appliances.

Response. The Board has removed the requirement for visual alarms in employee work areas. Instead, the final rule only requires that work areas be designed so that compliant visual appliances can be integrated into the alarm system (215.3). This provision, which applies only where work areas have audible alarm coverage, will facilitate accommodation of employees who are deaf or hard of hearing as required under title I of the ADA. The specification does not require electrical service to support wiring for visual appliances throughout all employee work areas. The specification merely requires that the wiring be placed so that it can be tapped into from the location of employee work areas. The Board believes that the surplus electrical service typically provided should be sufficient for the incidental installation of visual alarms.

Comment. The Board proposed covering facility alarm systems (other than fire alarm systems) that do not instruct occupants to evacuate the facility but provide other warning information, such as those used for tornado warnings and other emergencies. The proposed requirement (215.2 in the proposed rule) specified audible and visible signals but did not reference any specific technical criteria, including any addressing placement or photometric characteristics. Instead, the Board sought comment on what these characteristics should be, particularly where differentiation from fire alarm system signals is important (Question 9). Many commenters supported ensuring that such alarm systems are accessible to people who are deaf or hard of hearing, but no information was received on appropriate technical specifications for guidelines that are national in scope.

Response. The scoping requirement for other types of alarms has been removed in the final rule. The Board did not want to scope an element absent reliable technical specifications. The Board will consider bringing this matter to the attention of international model codes and standards organizations in the future.

216 Signs

Scoping requirements for signs cover room designations (216.2) and directional and informational signs (216.3). The guidelines also include provisions specific to certain elements and spaces, including parking, entrances, means of egress, and toilet and bathing rooms. In the proposed rule, these requirements were located at the scoping or technical sections covering the elements and spaces. In the final rule, all scoping requirements specific to signs have been localized in section 216.

Section 216.1 exempts certain types of signs, including building directories, menus, building names, temporary signs, and signs provided in non-public use spaces of prisons and jails. In the proposed rule, these exceptions were listed separately among provisions for room designations and directional or informational signs. For simplicity, they have been relocated as exceptions to the general scoping provision (216.1) which exempts them from this section entirely. In addition, the final rule includes new exceptions for:

• Seat and row designations in assembly areas (Exception 1).

• Occupant names (Exception 1).

• Company names and logos (Exception 1).

• Signs in parking facilities (Exception 2).

The Board included exceptions for occupant names, and company names and logos, which is consistent with its interpretation of the original ADAAG provisions and the intent of the proposed rule. These added exceptions clarify that the names of stores in shopping malls, building names, and similar types of signs are exempt from these requirements. A new exception exempts signs in parking facilities from compliance with the signage provisions of section 216 except those covering means of egress (216.4) and designation of accessible parking spaces (216.5).

Comment. Commenters requested that seat and row designations in assembly areas be exempt from the requirements for signage. It was also suggested that an exemption be provided for signs in parking facilities which are intended for use by vehicle drivers.

Response. An exception has been included in the final rule for seat and row designations and signs in parking facilities.

Comment. Comments requested clarification on what constitutes a “temporary” sign.

Response. The Board has interpreted this reference, which is included in the original ADAAG, as pertaining to signs that are posted for a short duration. For greater clarity, the Board has described temporary as “seven days or less” in the final rule.

Section 216.2 covers designations of permanent rooms and spaces, including pictograms provided as part of such signs. These types of signs are required to be tactile through the provision of braille and raised characters. This provision has been editorially revised and simplified in the final rule, though its application remains basically unchanged. For example, the term “permanent” as a descriptor of the types of designations covered has been removed as unnecessary since opposite types (“temporary”) are exempted.

Comment. Some comments considered the scoping provision for room designations difficult to understand.

Response. In the final rule, requirements for designations in section 216.2 have been simplified without substantive change.

Information and directional signs are addressed by 216.3. These types of signs are not required to be tactile but are subject to requirements for visual legibility and contrast. Signs providing direction to or information about interior spaces and facilities are required to comply. In the final rule, the Board has removed “permanent” as a descriptor of the type of rooms and facilities covered in this provision.

Various signage requirements specific to certain spaces and elements have been relocated for simplicity and ease of reference to section 216. These provisions include:

• 216.4 Means of Egress (from 207.3, 410.7, 410.8).

• 216.5 Parking (from 208.3).

• 216.6 Entrances (from 206.4.8).

• 216.7 Elevators (from 407.5.7).

• 216.8 Toilet Rooms and Bathing Rooms (from 213.2.2 and 213.2, Exception 4).

• 216.9 TTYs (from 217.4.9).

• 216.10 Assistive Listening Systems (from 219.4).

• 216.11 Check-Out Aisles (from 227.2.1).

• 216.12 Amusement Rides (incorporated from guidelines previously issued for recreation facilities).

Substantive changes have been made to provisions for means of egress, parking, assistive listening systems, and check-out aisles.

Section 216.4 provides specific requirements for means of egress, including exit doors, areas of refuge, and directional signs. The proposed rule required tactile signs at exit doors and provided specific requirements for areas of refuge and directional signs. These specifications are substantively revised in the final rule. The requirement for exit doors (216.4.1) has been clarified as applying to “doors at exit passageways, exit discharge, and exit stairways.” In the final rule, scoping requirements for means of egress and areas of refuge have been revised to reference provisions in the International Building Code (IBC) as discussed above in section 207. Corresponding changes have been made to signage requirements for areas of refuge (216.4.2) and directional signs (216.4.3) which now reference the respective IBC signage specifications for scoping. Such signs must be provided where required by the IBC but are subject to technical specifications in these guidelines at section 703.

Accessible parking spaces are required to be designated by the International Symbol of Accessibility according to 216.5. This provision was located at 208.3 in the proposed rule. Exemptions are provided for small lots (Exception 1) and spaces individually assigned to residential dwelling units (Exception 2). Under the first exception, accessible spaces in lots with four or fewer spaces are not required to be identified as accessible (i.e., reserved solely for use by people with disabilities). This exception is intended to mitigate the impact of a reserved space in very small lots and stems from model building codes. In the final rule, the scope of this exception was revised by changing the maximum lot size eligible for it from five to four. The exception for residential dwelling unit spaces has not been changed.

Comment. The proposed rule removed a requirement that the access designation for van parking include the term “van accessible” to clarify that both car and van drivers can use such spaces, as was the original intent of ADAAG. Many comments strongly opposed this change. While some may have misinterpreted it as removal of the requirement for van accessible spaces, others considered this designation important in encouraging car drivers to use other accessible spaces over those designed to accommodate vans.

Response. The final rule restores the requirement for van spaces to be designated as “van accessible,” which is provided in the technical criteria for parking (502).

Comment. Signs are required to indicate the availability of assistive listening systems, which are required in certain assembly areas (216.10). In the proposed rule, such signs were required at ticket offices and windows. Comments pointed out that some assembly areas subject to this requirement may not have ticket offices or windows.

Response. In the final rule, the requirement has been revised to require signs for assistive listening systems at each assembly area required to provide an assistive listening system, but an exception allows such signs to be located at a ticket office or window instead, where provided.

Comment. Section 216.11 requires identification of accessible check-out aisles. The proposed rule required that this identification be placed in the same location as the identifying number or type of check-out aisle. Commenters noted that not all check-out aisles are distinguished by numbers. They recommended that the guidelines should be revised to ensure access to each type of aisle serving a different function, such as express aisles or cash-only aisles.

Response. The requirement for identification of check-out aisles has been revised to require that accessible designations be located in the same area as the number, letter, or function identifying the check-out aisle. The proposed rule required that accessible designations are not required where “all check-out aisles in the facility are accessible.” This provision, which is reformatted as an exception in the final rule, has been revised to apply where “all check-out aisles serving a single function” are accessible.

217 Telephones

Access to telephones is covered for people who use wheelchairs and those who are deaf or hard of hearing. Scoping applies to various public telephones, including coin and coin-less pay telephones, closed-circuit telephones, courtesy phones, and other types of public telephones (217.1). Provisions are provided for wheelchair access (217.2), volume controls (217.3), and TTYs (217.4), which are devices that enable people with hearing or speech impairments to communicate through the telephone. Revisions made in finalizing the guidelines include:

• Clarifying coverage of courtesy phones (217.1).

• Applying requirements for wheelchair accessible telephones to exterior sites (217.2).

• Adding an exception for drive-up public telephones (217.2).

• Increasing scoping for volume controls on public telephones (217.3).

• Clarifying the application of TTY scoping requirements to exterior sites (217.4.4).

• Incorporating requirements for transportation facilities, including rail stations and airports, that were previously located in Chapter 10 (217.4.7).

• Relocating TTY signage requirements from 217 to the signage scoping section (216.9).

Comment. Section 217.1 lists various types of public telephones covered by this section. Commenters requested that courtesy phones be addressed along with other types of public phones.

Response. The Board has interpreted the reference to “public telephones” as including courtesy phones but has included a specific reference to them in 217.1 so that their coverage is clear. Such phones are subject to requirements for wheelchair access and volume controls, but they are not covered by TTY requirements, which apply only to public pay telephones.

Comment. Some commenters seemed unclear on whether requirements for wheelchair access applied to exterior installations.

Response. Scoping for wheelchair access in 217.2 was intended to cover interior and exterior public telephones. As proposed, this provision required access to at least one telephone on a floor or level and, where multiple banks are provided, each bank. In the final rule, the Board has added clarification that the requirements for wheelchair accessible phones apply to exterior sites, in addition to floors and levels.

Comment. Comments to the draft of the final guidelines noted that some public telephones are intended for use only from vehicles and recommended that they be exempt from the requirements for wheelchair access.

Response. An exception has been added in the final rule that exempts drive-up-only public telephones from the requirements for wheelchair access (217.2, Exception).

Comment. Comments from persons who are hard of hearing sought an increase in the number of phones required to have volume control. The proposed rule specified a minimum of 25%, but many urged that all public phones should have volume control.

Response. In the final rule, all public telephones are required to be equipped with volume control instead of 25%, as was proposed. This is consistent with other Board guidelines and standards covering access to telecommunications products and electronic and information technology. Section 255 of the Telecommunications Act of 1996,¹⁶ a comprehensive law overhauling regulation of the telecommunications industry, requires telecommunications products and services to be accessible. The Board was assigned responsibility to issue guidelines pursuant to section 255, which are known as the Telecommunications Act Accessibility Guidelines.¹⁷ These guidelines require all public telephones to be equipped with volume controls. A similar requirement is contained in standards ¹⁸ the Board issued under section 508 of the Rehabilitation Act of 1973, as amended,¹⁹ which requires access to electronic and information technology developed, procured, maintained, or used by Federal agencies. Since all new phones are to be equipped with volume controls, the requirement for identifying signage (a specified pictogram featuring a handset with radiating sound waves) has been removed.

¹⁶ 47 U.S.C. 153, 255.

¹⁷ 36 CFR part 1193.

¹⁸ 36 CFR part 1194.

¹⁹ 29 U.S.C. 794 (d).

General scoping for TTYs in 217.4 includes provisions specific to floors, buildings, and exterior sites and distinguishes between private and public facilities. In private buildings (i.e., places of public accommodation and commercial facilities) where four or more pay phones are provided at a bank, within a floor, building, or on an exterior site, a TTY is required at each such location. A lower threshold is provided for public buildings (i.e., State and local government facilities) where one pay telephone on a floor or within a public use area of a building triggers the requirement for a TTY. In the final rule, the Board has clarified references to “site” as being specific to “exterior sites” to avoid confusion that may arise since the term “site,” by itself, can be read to include the buildings on a site. This change helps clarify that TTY scoping requirements for exterior installations is to be satisfied independently from those applicable to interior locations.

218 Transportation Facilities

Section 218 provides requirements for rail stations, fixed guideway systems, bus shelters, and other transit facilities, such as airports. These provisions are based on requirements located in Chapter 10 in the proposed rule. They have been relocated without substantive change from the technical section to this section as they scope specific technical provisions. These technical provisions are now located in section 810.

219 Assistive Listening Systems

This section covers requirements for assistive listening systems and receivers in assembly areas. Section 219.2 requires an assistive listening system in each assembly area where audible communication is integral to the space and audio amplification is provided. However, in courtrooms this requirement applies whether or not audio amplification is provided. Section 219.3 specifies the minimum number of receivers according to a sliding scale based on the seating capacity of the assembly area.

Comment. Facility operators urged the Board to lower the required number of receivers because, in their view, the vast majority of provided receivers go unused. This is especially true at facilities with multiple assembly areas, such as multi-screen movie theaters, where receivers are provided for each assembly area.

Response. In the final rule, the Board has clarified that the minimum number is to be based on each assembly area. Thus, where a facility has multiple assembly areas, the required number is to be determined individually for each assembly area based on its seating capacity. However, the Board also has included an exception which would permit the minimum number to be based on the combined seating capacity of multiple assembly areas as an alternative if two conditions are met: all receivers are usable with all provided assistive listening systems; and all assembly areas required to have such systems are under the same management (219.3, Exception 1). This allows “mix and match” types of receivers to generally serve such facilities.

Comment. Assistive listening systems are generally categorized by their mode of transmission. There are hard-wired systems and three types of wireless systems: induction loop, infrared, and FM radio transmission. Induction loop systems use a wire loop to receive input from a sound source and transmit sound by creating a magnetic field within the loop. The loop may surround all or part of a room and can be installed in ceilings, floors, or walls. Listeners must be sitting within the loop and have either a receiver or a hearing aid with a telecoil. People with telecoil hearing aids do not need to use a receiver. In view of this benefit, comments to the draft of the final guidelines recommended that the requirement for receivers specifically recognize that fewer hearing-aid compatible receivers can be specified for induction loop systems.

Response. Section 219.3 specifies the minimum number of receivers for assistive listening systems, including the number of receivers that are hearing-aid compatible. In the final rule, the Board has added an exception for assembly areas where all seats are served by an induction loop system (219.3, Exception 2). Under this exception, the additional amount of receivers required to be hearing-aid compatible is not required at all. For example, at an assembly area with a seating capacity of 500, a total of 20 receivers would generally be required and at least 5 of this number would have to be hearing-aid compatible. Under the exception for induction loop systems that serve all seats of an assembly area, at least 15 receivers would be required instead of 20.

Requirements for signs indicating the availability of assistive listening systems has been relocated from this section to the scoping section on signage (216.10). Revisions to these provisions are discussed above in section 216.

220 Automatic Teller Machines and Fare Machines

No substantive changes have been made to the scoping provisions for automatic teller machines and fare machines. Most comments on these types of machines concerned technical specifications and are discussed below in section 707.

221 Assembly Areas

Provisions in section 221 for accessible assembly areas cover general scoping (221.1), wheelchair spaces (221.2), companion seats (221.3), aisle seating (221.4), and new provisions for lawn seating (221.5).

Section 221.1 contains a general charging statement that assembly areas provide wheelchair spaces, companion seats, and designated aisle seats. The proposed rule contained a similar statement that provided an illustrative list of assembly areas covered by this section, such as motion picture houses, theaters, stadiums, arenas, concert halls, courtrooms, and others. This list has been incorporated into the definition of “assembly area” in section 106.5.

Section 221.2 covers the required number, integration, and dispersion of wheelchair spaces. The minimum number of wheelchair spaces is specified according to the total number of seats provided in an assembly area (Table 221.2.1.1). This requirement applies to seating generally, as well as luxury boxes, club boxes, suites, and other types of boxes. Substantive changes made in the final rule include:

• Limiting the requirements for wheelchair spaces to assembly areas with fixed seating (221.2).

• Lowering scoping for assembly areas with over 500 seats (Table 221.2.1.1).

• Adding a new provision for box seating (221.2.1.3).

• Clarifying requirements for integration of wheelchair spaces (221.2.2).

• Revising and relocating dispersion requirements for wheelchair spaces (221.2.3).

• Modifying provisions for companion seating (221.3) and designated aisle seating (221.4).

• Adding a new provision for lawn seating (221.5).

• Removing a specification concerning vertical access (221.5 in the proposed rule).

The Board has clarified in the final rule that wheelchair spaces are required in assembly areas with “fixed seating.” This is consistent with the original ADAAG, but not the proposed rule, which did not specify that seating had to be fixed. This descriptor was restored because it is fixed seating that typically defines wheelchair spaces as a permanent feature, consistent with the scope of these guidelines.

Comment. The minimum number of wheelchair spaces is specified according to a sliding scale. A lower percentage is specified for larger facilities. The proposed rule specified 1% scoping (on top of 6 required wheelchair spaces) for assembly areas with over 500 seats. Comments from industry recommended that scoping should be lowered for larger facilities since industry surveys indicate that the vast majority of wheelchair spaces, particularly in stadiums and arenas, often go unused. A coalition representing major sports leagues, teams, and facilities throughout the U.S. conducted a two-year survey of usage of wheelchair spaces at 40 major arenas and stadiums during basketball, hockey, and baseball events. This survey found that of the 1% of seats made accessible in arenas, approximately 12% (0.12% of the total number of seats) were occupied by persons using wheelchairs; the assessed usage rate at baseball stadiums was 7% of the accessible seats (0.07% of the total number of seats). The coalition considered the 1% minimum scoping far in excess of the demonstrated need in large sports arenas. These and other industry comments urged the Board to reduce the required number to at least the amount recommended by the ADAAG Review Advisory Committee. The advisory committee had recommended a 0.5% scoping requirement for assembly areas with over 500 seats based on similar information concerning usage. Industry comments considered 0.5% as more than adequate in meeting the demand for accessible seating.

Response. The Board has reduced the scoping for wheelchair spaces in assembly areas with more than 500 seats. Scoping has been reduced from 1% to a ratio of 1 wheelchair space for every 150 seats in assembly areas with 501 to 5,000 seats. This is required on top of a requirement of six wheelchair spaces, consistent with the scoping count for the first 500 seats. A further reduction to 0.5% scoping, the level recommended by the ADAAG Review Advisory Committee, is specified for assembly areas with over 5,000 seats. The 0.5% scoping requirement is applied on top of a requirement for 36 spaces, which follows the scoping level for the first 5,000 seats. For example, in assembly facilities with 5,000 seats, the final rule requires that at least 36 spaces be accessible, whereas the scoping in the proposed rule would have specified 51 spaces minimum. The minimum number for facilities with 10,000 seats is 61 (reduced from 101), and for those with 50,000 seats is 261 (reduced from 501).

Comment. In certain performing arts facilities, seating may be provided in tiered boxes for spatial and acoustical purposes. Often, steps are located on the route to these boxes. The proposed rule was not clear on how the scoping and dispersion requirements would apply in these types of facilities. Comments noted that requiring accessible routes to all boxes would fundamentally affect this type of design and recommended that an exception be made for such venues.

Response. Wheelchair spaces are required to be provided in each luxury box, club box, and suite according to a scoping table (221.2.1.2). The Board has clarified in the final rule that this requirement applies where such boxes and suites are provided in “arenas, stadiums, and grandstands.” A new provision has been added for other types of assembly facilities, such as certain performing arts facilities, that may have tiered box seating (221.2.1.3). Under this provision, wheelchair spaces are determined according to the total number of fixed box seats and are required to be dispersed among at least 20% of the boxes. For example, if an assembly area has 20 boxes with five fixed seats each (totaling 100 seats), at least four wheelchair spaces would be required according to the scoping table. These four wheelchair spaces would have to be dispersed among at least four (20%) of the 20 boxes. This requirement clarifies that each box does not have to be treated separately as a discreet assembly facility individually subject to the scoping table, as is the case with luxury boxes and club boxes.

A provision for team and player seating areas is included in the final rule (221.2.1.4). This provision, which derives from the Board's guidelines for recreation facilities, requires at least one wheelchair space in team or player seating areas serving areas of sports activity. An exception is provided for seating areas serving bowling lanes.

Under section 221.2.2, wheelchair spaces must be integrated throughout seating areas. In the final rule, the Board has clarified this requirement to state that wheelchair spaces “shall be an integral part of the seating plan.”

The original ADAAG required that wheelchair spaces be provided so that users are afforded a choice in sight lines that is comparable to that of the general public. Thus, while individuals who use wheelchairs need not be provided with the best seats in an assembly area, neither may they be relegated to the worst. In this rulemaking, the Board has sought to clarify specifications for lines of sight from wheelchair spaces. Specifically, the final rule clearly recognizes that viewing angles are essential components of lines of sight and that various factors, such as the distance from performance areas and the location of wheelchair spaces within a row, also greatly determine the quality of sight lines.

Section 221.2.3 covers dispersion of wheelchair spaces and lines of sight. Wheelchair spaces are required to be dispersed to provide users with choices of seating locations and viewing angles substantially equal to or better than the choices afforded all other spectators. Spaces must be dispersed horizontally and vertically. Horizontal dispersion pertains to the lateral, or side to side, location of spaces relative to the ends of rows. Provisions for vertical dispersion address the placement of wheelchair spaces at varying distances front to back from the performance area, screen, or playing field. Exceptions from the dispersion requirements are provided for assembly areas with 300 seats or less. In addition, an exception from the lines of sight and dispersion requirements is provided for wheelchair spaces in team or player seating areas serving areas of sports activity. Various changes have been made to the requirements for dispersion based on comments and responses to a number of questions posed by the Board in the proposed rule. The specifications of section 221.2.3 replace those in the proposed rule that were included in the technical criteria for wheelchair spaces at section 802.6.

In the final rule, the Board has added exceptions to the requirement for horizontal dispersion. Horizontal dispersion is not required in assembly areas with 300 seats or less where wheelchair spaces and companion seats are provided in the center sections of a row (the second or third quartile) instead of at the ends (221.2.3.1, Exception 1). This exception derives from the ANSI A117.1-2003 standard and recognizes that viewing angles at the mid-sections of rows are generally better than those at the ends of rows. In addition, the Board has clarified that two wheelchair spaces can be paired, but each must have a companion seat, as required by 221.3 (221.2.3.1, Exception 2). This exception applies to all assembly areas, not just those with 300 or fewer seats.

Assembly areas with 300 or fewer seats are not required to have vertically dispersed wheelchair spaces so long as the spaces provide viewing angles that are equal to or better than the average viewing angle (221.2.3.2, Exception 1). An exception from the vertical dispersion requirement is provided for bleachers which allows spaces to be provided only in the point of entry (221.2.3.2, Exception 2).

Comment. The proposed rule required dispersion that provides “a choice of admission prices * * * comparable to that provided to other spectators.” Comments from designers indicated that the admission price criterion is problematic since prices are not typically known in the design and construction phase. Accommodating choice in admission price is more realistically addressed as an operational matter by facility operators and managers.

Response. The Board believes that the dispersion requirement pertaining to admission prices is better addressed by regulations, such as those maintained by the Department of Justice under the ADA, that govern policies and procedures, instead of by these design guidelines. The reference to admission prices has been removed from the requirement for dispersion.

Comment. The proposed rule also addressed dispersion in terms of sight lines and required “a choice of * * * viewing angles comparable to that provided to other spectators.” This provision was intended to clarify a requirement in the original ADAAG that wheelchair spaces provide a choice in lines of sight comparable to those available to the general public. The Board questioned whether this restatement was sufficient and sought comment on whether this provision should be enhanced to require “lines of sight equivalent to or better than” those afforded the majority of other spectators in the same seating class or category (Question 43). Disability groups and persons with disabilities strongly favored such a change to ensure equivalency in the viewing experience. According to these comments, the proposed rule would permit location of wheelchair spaces in a manner that compromises the quality of viewing angles. Industry opposed holding wheelchair spaces to a higher standard in terms of the quality of viewing angles. Such commenters pointed to practical complications in comparing viewing angles between wheelchair spaces and inaccessible seating.

Response. The Board has revised the specification for dispersion so that persons using wheelchair spaces are provided “choices of seating locations and viewing angles that are substantially equivalent to, or better than, the choices of seating locations and viewing angles available to all other spectators' (221.2.3). This provision ensures equivalency in the range of viewing angles provided between wheelchair seating and all other seats. It recognizes, but does not mandate, a better range of viewing angles for the users of wheelchair spaces.

Comment. The proposed rule, like the original ADAAG, required dispersion of wheelchair spaces in assembly areas with more than 300 seats. The Board sought comment on whether this trigger should be lowered so that dispersion would be provided in smaller assembly spaces (Question 42). The Board was concerned about the possible impacts of such a change on certain assembly types, such as stadium-style cinemas, and sought further information on their design, including the average number of seats provided per screen. Designers and operators of all types of assembly facilities were encouraged to comment on the impact of reducing the triggering point from 300 to 250, 200, or 150 seats. Quality sight lines in facilities where dispersion may not be required, such as stadium-style theaters, was a primary concern voiced by commenters with disabilities. The majority of comments recommended lowering the threshold for dispersion requirements, though there was little consensus on a specific alternative number.

Response. The point at which dispersion is required (over 300 seats) has been retained in the final rule. Dispersion is not required in assembly areas with 300 or fewer seats provided that certain conditions concerning viewing angles are met. These conditions are specified in relation to horizontal and vertical dispersion.

Comment. In smaller facilities where dispersion of wheelchair spaces is not required (i.e., those with no more than 300 seats), the placement of the wheelchair spaces in relation to other seating acquires greater significance because wheelchair users are not offered a choice of viewing angles. Therefore, in order to ensure equal opportunity for people who use wheelchairs in assembly areas in which dispersion is not required, wheelchair spaces must provide lines of sight that are comparable to those provided for most of the other patrons in the assembly area. The Board sought comment on whether this requirement, specific to facilities where dispersion is not mandated, should require lines of sight from wheelchair spaces that are equivalent to or better than the line of sight provided for the majority of event spectators (Question 44). Persons with disabilities and organizations representing them unanimously backed this provision. The issue was considered particularly relevant in stadium-style seating and other smaller assembly areas where, despite the requirements for comparable lines of sight in the original ADAAG, wheelchair spaces are typically located only in the front or back rows.

Response. The final rule makes the provision of equivalent lines of site a specific condition for not having to disperse wheelchair spaces in assembly areas with 300 or fewer seats. Wheelchair spaces do not have to be dispersed vertically (i.e., front to back), so long as the viewing angle from them is equal to, or better than, the average viewing angle provided in the facility (221.2.3.2). Wheelchair spaces and companion seats do not have to be dispersed horizontally (i.e., side to side) if they are located in the mid-sections of rows (second or third quartile of the total row length) instead of at or near the ends of rows (221.2.3.1). This condition for horizontal dispersion is required to the extent that the mid-section row is long enough to accommodate the requisite number of wheelchair spaces and companion seats; if it is not, some may be located beyond the mid-section portion (in the first or fourth quartile of the total row length).

Comment. The proposed rule specified vertical dispersion so that wheelchair spaces are located at “varying distances” from the performing area (802.6.3). Comment was sought on whether the term “varying distances” provides sufficient guidance in achieving dispersion (Question 41). The Board asked whether a minimum separation between horizontal rows should be specified. Most comments, including those from individuals with disabilities and from industry, considered this term too vague and supported a more specific or quantifiable requirement. Few specific alternatives to this language were recommended.

Response. The Board has retained the reference to “varying distances” in the final rule (221.2.3.2). Since the requirement applies to a wide variety of assembly facilities of different sizes and designs, the Board does not consider it practical to specify a particular vertical separation or distance requirement. Meeting the requirement for vertical dispersion is highly relevant to the size of the facility, the range of sight lines available, elevation changes, and other design characteristics. Clarification has been added that the dispersion requirement pertains to the distance from the “screen, performance area, or playing field.” The proposed rule made reference only to performance areas. This revision clarifies coverage of elements and events, such as movie screens and sporting events.

Comment. The proposed rule reflected the importance of providing individuals with disabilities with selections from a variety of vantage points to enjoy performances and sporting events. The Board requested comment on whether there are conditions where vertical (i.e., front to back) separation between wheelchair spaces is not desirable and if there is a point at which increased distance fails to improve accessibility or to contribute significantly to equal opportunity (Question 40). Of the few comments which addressed this question, the majority called attention to the importance of vertical dispersion in providing equivalency in the quality of the viewing experience. Some comments considered adequate integration of wheelchair spaces to be equally important or expressed concern about vertical separation that results in longer travel distances from restrooms, concessions, and other amenities.

Response. The Board has not included any new conditional limitations on the requirements for vertical dispersion of wheelchair seating in achieving appropriate viewing angles (other than an exception for bleacher seating).

Comment. Bleacher manufacturers requested clarification on how dispersion requirements would apply to bleachers, which have been interpreted as exempt under original ADAAG specifications.

Response. The final rule includes an exception for bleacher seating that allows spaces to be provided in the point of entry only (221.2.3.2, Exception 2). An advisory note clarifies that “points of entry” at bleachers may include cross aisles, concourses, vomitories, and entrance ramps and stairs.

Comment. In costing out changes made in the proposed rule, the Board estimated that vertical dispersion requirements could cost as much as $11 million for each “large” (50,000 seats) stadium or arena to provide vertical dispersion in uppermost decks. According to the Board's regulatory assessment, “in order to accommodate the additional dispersion required by this item, it is assumed that an upper deck concourse will be required for the facility. These large facilities generally have a lower deck, a middle deck (with suites and/or club level amenities), and an upper deck. The steep slopes used in the upper deck make it impractical to accommodate accessible routes with more than a minimal change in level up or down from the vomitory access point within the seating bowl. The dispersion requirement based on admission pricing and the vertical dispersion requirement will generally require that a more substantial change in level be accommodated outside the seating bowl for the upper deck area. It is assumed that an additional concourse, of 50,000 square feet in area, will be used to provide access to the upper deck at an additional level.” The Board sought information on alternatives to constructing a secondary concourse that would provide vertical dispersion in upper decks of larger stadiums (Question 39). Few comments or suggested alternatives were provided in response. A few comments stressed the importance of vertical dispersion, while others felt it was necessary to weigh such requirements against the possible design and cost impacts.

Response. The Board has retained requirements for vertical dispersion that are substantively similar to the specifications in the proposed rule. However, as noted above, the final rule does not require wheelchair spaces to be dispersed based on admission prices since pricing is not always established at the design phase and may vary by event. Instead of requiring wheelchair spaces to be vertically dispersed on each accessible level, the final guidelines require wheelchair spaces to be vertically dispersed at varying distances from the screen, performance area, or playing field. The final guidelines also require wheelchair spaces to be located in each balcony or mezzanine served by an accessible route. In most sports facilities, these requirements can be met by locating some wheelchair spaces on each accessible level of the sports facility.

Comment. The proposed rule contained a requirement that where elevators or wheelchair lifts are provided on an accessible route to wheelchair spaces or designated aisle seats, they shall be provided in “such number, capacity, and speed” in order to provide a level of service equivalent to that provided in the same seating area to patrons who can use stairs or other means of vertical access (221.5 in the proposed rule). This requirement was included to ensure an equal level of convenience between accessible seating and inaccessible seating in terms of travel between the entry gate and seats or between the seats and concession stands. Most commenters did not support this requirement, and considered it unenforceable and confusing. Some commenters misunderstood the intent of this provision and thought it pertained specifically to egress routes.

Response. The Board has removed the requirement concerning the number, capacity, and speed of elevators and wheelchair lifts in providing an equivalent level of service.

Section 221.3 covers companion seats which are to be paired with wheelchair spaces. The proposed rule specified that companion seats be readily removable so as to provide additional space for a wheelchair. In the final rule, companion seats are permitted to be movable. Thus, they are not required to double as an alternative wheelchair space.

Comment. The Board sought information on the impact of the requirement that each wheelchair space have an adjacent companion seat that can be removed to provide an adjoining wheelchair space (Question 10). Comments noted that this requirement effectively doubles the scoping requirements for wheelchair spaces and that the required extra space would significantly increase construction costs. Several comments noted that more flexibility for both wheelchair spectators and the facility could be achieved by allowing companion seats to be movable; however, comments noted that some building codes may require companion seats to be fixed. Another solution put forward was the use of seating that folded and swung away, leaving enough space for a wheelchair position.

Response. The final rule requires one companion seat for each wheelchair space, but allows the seat to be movable. This seat is not required to provide an additional wheelchair space when removed.

Comment. In the belief that readily removable seats should provide a companion with virtually the same experience in terms of comfort and usability as other fixed seats, the Board asked what specific characteristics they should have relative to other seats (Question 11). The majority of comments strongly favored requirements for companion seats to be equivalent or comparable to other provided seating in the same assembly area.

Response. The Board has included technical criteria for companion seats that requires them to be equivalent to other seats in the immediate area in terms of quality, size, comfort, and amenities (802.3).

Section 221.4 addresses designated aisle seats. The Board has significantly lowered the number of designated aisle seats required to be accessible. An exception from the requirement for designated aisle seats for team or player seating areas serving areas of sports activity has been incorporated into the final rule from the guidelines for recreation facilities.

Comment. The proposed rule specified that 1% of all seats be designated aisle seats, a quarter of which were to be located on accessible routes and the rest not more than 2 rows from an accessible route. The Board requested information on the cost and related design impacts of this requirement, particularly in locating aisle seats at or no more than two rows from an accessible route (Question 12). Comments stated that requiring designated aisle seats to be on an accessible route would require more space and entrances to seating areas and would result in the loss of seating space. Comments further stated that this would require a significant increase in the cost of such facilities.

Response. The Board has reduced the overall scoping for designated aisle seats. The final rule requires that 5% of aisle seats, not all seats, be designated aisle seats. These seats are required to be those closest to, but not necessarily on, an accessible route. Technical requirements for aisle seats at 802.4 have also been modified.

Section 221.5 provides a new requirement that addresses lawn seating and exterior overflow areas. Such areas are required to be connected by an accessible route. The accessible route is required to extend up to, but not through, lawn seating areas. Since such areas typically do not provide fixed seating, this provision does not require wheelchair spaces, companion seats, or designated aisle seats.

Comment. Where public address systems are provided in transportation facilities to convey public information, a means of conveying the same or equivalent information to persons who are deaf or hard of hearing is required. In the proposed rule, the Board sought comment on whether additional provisions for an equivalent means of communication should be applied to other types of facilities (Question 45). The Board was specifically interested in how captioning can be associated with electronic scoreboards in stadiums to convey audible public announcements. People who are deaf or heard of hearing strongly urged that requirements for access to information conveyed through public address systems be applied to all types of facilities, not just transportation facilities.

Response. The Board considered adding a provision (included in the draft final rule) that would have required the visual display of audible pre-recorded or real-time messages where electronic signs are provided in stadiums, arenas, or grandstands. This provision would not have required provision of electronic signs, but instead would have specified that, where provided, they be used to display information to deaf or hard-of-hearing spectators provided audibly during an event. Since this requirement would have been more pertinent to facility operations than to facility design, the Board did not include it in the final rule. Providing “effective communications” is within the purview of the Department of Justice and is addressed in the Department's title II and III regulations. See 28 CFR 35.160 and 28 CFR 36.203(c).

222 Dressing, Fitting, and Locker Rooms

Section 222 covers dressing rooms, fitting rooms, and locker rooms. At least 5% of each type, in each cluster, is required to be accessible. A requirement for coat hooks and shelves located at 228.4 in the proposed rule has been relocated for clarity to this section (222.2).

223 Medical Care and Long-Term Care Facilities

This section indicates the number of patient or resident sleeping rooms required to be accessible in medical care and long-term care facilities. The general scoping provision at 223.1 indicates that the facilities covered by this section include medical care facilities and licensed long-term care facilities where the period of stay exceeds 24 hours. Section 223.2 covers hospitals, rehabilitation facilities, psychiatric facilities, and detoxification facilities. In general, those facilities are held to a 10% scoping requirement, but those that specialize in the treatment of conditions affecting mobility are subject to a 100% scoping requirement. In long-term care facilities, 50% of the rooms must be accessible.

Changes made in the final rule include:

• Modifying the description of the facilities covered by this section (223.1).

• Adding a new exception for toilet rooms in critical care and intensive care patient sleeping rooms (223.1).

• Clarifying the application of scoping requirements to rehabilitation facilities (223.2).

• Revising the scoping requirement for long-term care facilities to apply to “each type” of resident sleeping room (223.3).

Comment. Comments considered it unnecessary to qualify covered medical care facilities as those that are licensed, since all are typically licensed.

Response. The general charging statement (223.1) has been changed to refer to “medical care facilities and licensed long-term care facilities.” In addition, the Board has removed as unnecessary language describing these facilities as places “where people receive physical or medical treatment or care.”

Comment. There are certain types of patient rooms, such as those provided in critical or intensive care units where patients who are critically ill are immobile or confined to beds and thus generally not expected to use adjoining toilet rooms. Typically, such patients are relocated to other types of rooms when no longer confined to beds. Comments recommended that toilet rooms serving these types of rooms should not have to be accessible.

Response. An exception has been added that permits toilet rooms in critical care and intensive care patient sleeping rooms to be inaccessible (223.1, Exception).

Section 223.2 addresses scoping for hospitals, rehabilitation facilities, psychiatric facilities, and detoxification facilities. The Board has clarified the distinction made in scoping between facilities that specialize in the treatment of conditions affecting mobility (100%) and those that do not (10%), including rehabilitation facilities.

Comment. The Board sought comment on how dispersion of accessible sleeping rooms can be effectively achieved and maintained in medical care facilities such as hospitals and long-term care facilities (Question 13). Commenters with disabilities supported a requirement for dispersion of accessible sleeping rooms among all types of medical specialty areas, such as obstetrics, orthopedics, pediatrics, and cardiac care. Conversely, commenters representing the health care industry pointed out that treatment areas in health care facilities can be very fluid due to fluctuation in the population and other demographic and medical funding trends. Comments indicated that in long-term care facilities, access is provided at rooms that are less desirable than others available in the facility. Commenters recommended that the final rule should include a requirement that ensures that accessibility is fairly dispersed among different types of rooms in long-term care facilities.

Response. The Board has not added a requirement for dispersion in medical care facilities because compliance over the life-time of the facility could prove difficult given the need for flexibility of spaces within such facilities. However, an advisory note has been added to encourage dispersion of accessible rooms within the facility so that accessible rooms are more likely to be proximate to appropriate qualified staff and resources. Since these considerations are not as relevant to long-term care facilities, the Board has added a requirement that the 50% scoping requirement for long-term care facilities be applied to “each type” of resident sleeping room provided to ensure dispersion among all types (223.3).

224 Transient Lodging Guest Rooms

The minimum number of guest rooms required to be accessible in transient lodging facilities is covered in section 224. Access is addressed for people with disabilities, including those with mobility impairments (224.2) and people who are deaf or hard of hearing (224.4). In addition to rooms, there is a provision which addresses the number of beds required to be accessible in facilities such as homeless shelters, where a room may have a large number of beds. (224.3). Revisions of this section include:

• Removal of the exception for certain bed-and-breakfast facilities (224.1), which are now exempted through the definition of “transient lodging” provided in section 106.

• Clarification of a provision covering doors and doorways in inaccessible transient lodging guest rooms (224.1.2).

• Revised scoping for accessible beds (224.3).

• Reduced scoping for guest rooms with accessible communication features (224.4).

• Modified dispersion requirements (224.5).

The definition of “transient lodging” in section 106.5 has been revised to exclude, in part, “private buildings or facilities that contain not more than five rooms for rent or hire and that are actually occupied by the proprietor as the residence of such proprietor.” As a result, an exception for such facilities in 225.1 has been removed.

Comment. In transient lodging facilities, doors and doorways in inaccessible guest rooms are required to be at least 32 inches wide (224.1.2). This specification stems from the original ADAAG and is intended to afford some access to inaccessible guest rooms for visitation purposes. Clarification was requested on which types of doors this is intended to cover and whether it applies to shower doors.

Response. In the final rule, clarification has been added that the 32 inch minimum clearance applies to those doors “providing user passage” into and within guest rooms not required to be accessible. In addition, the Board has added an exception that exempts shower and sauna doors in inaccessible guest rooms from this requirement. Corresponding changes have been made to a similar provision in the general scoping section for doors (206.5.3).

Comment. A hotel and motel trade group opposed any increase in the number of guest rooms required to be accessible and submitted a study it commissioned on the usage of such rooms. According to this study, 80% of accessible guest rooms remain unused by people with disabilities. This trade group also submitted comments to the draft final guidelines that included a statistical study of the number of persons who use wheelchairs based on U.S. census data (1.03% of the population age 15 years and older). Based on this information, this commenter requested that the required number of accessible guest rooms be reduced to a level consistent with assessed usage rates and population estimates.

Response. The proposed rule was consistent with the recommendations of the ADAAG Review Advisory Committee and preserved, without increase, the number of accessible guest rooms (224.2). The number of accessible guest rooms is also consistent with the International Building Code. Accessible guest rooms include features such as grab bars and other elements that benefit not only people who use wheelchairs, but also people who use crutches, canes, and walkers. Data provided by the Disability Statistics Center at the University of California, San Francisco shows that the number of adults who use wheelchairs has been increasing at the rate of 6 percent per year from 1969 to 1999; and by 2010, it is projected that 2 percent of the adult population will use wheelchairs. In addition to people who use wheelchairs, 3 percent of adults used crutches, canes, walkers and other mobility devices in 1999; and the number is projected to increase to 4 percent by 2010. Thus, by 2010, up to 6 percent of the population may need accessible guest rooms.

Data submitted by the hotel and motel trade group showed that hotel stays are almost equally divided between business travel and non-business travel. Non-business travelers usually travel as members of a household or group for vacation, special events, or leisure. In 1999, 2.3 percent of households had an adult member who uses a wheelchair; and by 2010, it is projected that 4 percent of households will have an adult member who uses a wheelchair. In addition to households with an adult member who uses a wheelchair, 7 percent of households had an adult member who used canes, crutches, walkers or other mobility devices in 1999; and the number is projected to increase to 9 percent by 2010. Thus, by 2010, up to 13 percent of households will have adult members who may need accessible guest rooms.

The Board recognizes that all the people and households that may benefit from an accessible guest room may not specifically request an accessible room, and the scoping levels reflect this fact. The statistical study submitted by the hotel and motel trade group assumed independence in accessible room requests. In reality, accessible room requests are likely to be somewhat correlated, due to hotel preferences or group travel. For smaller hotels, a slight violation of the independence assumption could lead to a higher sellout rate, as these hotels have relatively fewer accessible rooms. The hotel and motel trade group also submitted data on actual accessible room reservation requests for select hotels that implied the current demand for accessible rooms is closer to 0.8 percent than 1 percent, as in their original study. However, this sample was likely not representative and the study did not take into account data showing that the population who needs accessible rooms is growing. Hotels constructed in the next few years will serve the population for decades to come. Because of the problems with the assumptions used in the statistical study and the failure to consider future needs, the Board concluded that a reduction in the number of accessible guest rooms is not warranted.

The hotel and motel trade group has pointed out that the Board has reduced the scoping for wheelchair spaces in assembly areas by 0.33 percent for assembly areas with 501 to 5,000 seats, and by 0.5 percent for assembly areas with more than 5,000 seats. However, the hotel and motel trade group has proposed a much greater reduction in the number of accessible rooms for all size hotels with more than 50 rooms. For example, they proposed that hotels with 100 rooms provide 40 percent fewer accessible rooms (3 accessible rooms, instead of the 5 accessible rooms currently required). There are important difference between large assembly areas such as sports stadiums which may have 50,000 to 70,000 seats, and hotels. Only 1 percent of hotels have more than 500 rooms. These hotels cater to meetings and conferences sponsored by groups who reserve large numbers of rooms. Disability groups and organizations may hold meetings and conferences at these hotels and need large numbers of accessible rooms. For all these reasons, the number of accessible guest rooms has not been changed in the final rule.

Comment. The proposed rule addressed access to beds according to a table based on the total number provided in a guest room. This table, as recommended by the ADAAG Review Advisory Committee, included bed counts well into the hundreds. The table followed a sliding scale that started with roughly a 4% requirement (1 per 25 beds provided in a room) which decreased to 3% (for over 500 beds) and then to 2% (for over 1,000 beds). Comments considered the upper levels covered by the table as ridiculously high and suggested a simpler and more realistic provision.

Response. The scoping table for beds has been removed in the final rule and replaced by a flat 5% requirement that applies where more than 25 beds are provided in a guest room. Technical requirements for guest rooms require at least one bed in a sleeping room to be accessible. This provision would govern in rooms with 25 or fewer beds.

The guidelines address rooms required to provide communication features accessible to persons who are deaf or hard of hearing, including visual notification of fire alarms, telephone calls, and door knocks or bells. Telephones in such rooms must have volume controls and nearby outlets for the installation of TTYs. The Board had proposed increasing the minimum number of such guest rooms to 50% of the total number of guest rooms provided. This contrasted significantly with the original ADAAG, which specified the minimum number according to a sliding scale. It required 1 in 25 rooms to comply up to a guestroom count of 100. Scoping successively decreased to 1 for every 50 rooms for the next 101 to 200 rooms and to 1 for every 100 rooms for the next 201 to 500 rooms. For facilities with 501 to 1,000 rooms, 2% of rooms were required to comply, and where the room count exceeded 1,000, the scoping dropped to 1% (ADAAG 9.1.3). The original ADAAG also required that all accessible guest rooms be equipped with communication features in addition to the number of rooms required to provide communication access only (ADAAG 9.2.2(8)).

The Board had proposed the increased scoping for guestrooms with accessible communication for several reasons. The communication features addressed in this requirement address life safety in providing visual notification of fire alarms for people who are deaf or hard of hearing. The Board also felt that the increased scoping would afford greater flexibility in the guest room assignment of people who are deaf or hard of hearing, especially in light of revisions to the technical requirements that effectively preclude the use of portable visual alarm devices. In addition, permanent installation of visual alarm appliances is considerably less expensive and easier to achieve as part of facility design and construction than as a retrofit.

Comment. The Board sought information on the new construction cost impact of the proposed increased scoping and also asked whether exceptions should be provided for altered facilities or additions (Question 14). The hotel and motel industry strongly opposed increasing scoping for rooms providing communication access to 50%, which it considered unsubstantiated and unsupported by the assessed need. The industry considers the original ADAAG specification, which is substantially lower than 50%, to be excessive in view of its assessments on the usage rate of such rooms by persons with disabilities. People who have photosensitive epilepsy also opposed the proposed increase because the potential for triggering seizures would be too great. On the other hand, many comments from persons who are deaf or hard of hearing voiced strong support for maintaining or further increasing the proposed 50% requirement. In the belief that some transient lodging facilities have adopted voluntary policies requiring permanently installed visual alarms in all or a majority of newly constructed guest rooms, the Board sought information on such cases (Question 15). Commenters responded that they were unaware of any such corporate policies.

Response. In the final rule, the Board has reduced the scoping for guest rooms with accessible communication features to the level specified by the original ADAAG. The Board has included some limited changes from the original ADAAG scoping for consistency with the International Building Code (IBC). The minimum number required to comply is based on the number of rooms provided: 2-25 (2), 26-50 (4), 51-75 (7), 76-100 (9), 101-150 (12), 151-200 (14), 201-300 (17), 301-400 (20), 401-500 (22), 501-1,000 (5% of total), 1,001 and over (50, plus 3 for each 100 over 1,000). These levels slightly differ from the original ADAAG at the higher levels (401 rooms and above). The numbers are consistent with the IBC except that the IBC scoping does not apply to facilities with less than 6 guest rooms.

Comment. The industry also objected to requiring alarm appliances to be permanently installed. One hotel chain commented that their deaf and hard of hearing guests preferred portable appliances because these can be used in any guest room. This point was contradicted by comments from deaf and hard of hearing commenters and advisory committee members who urged permanent installation.

Response. The Board has elected to reference the NFPA 72-1999 National Fire Alarm Code and has included a requirement that appliances be permanently installed. The Board believes that the hospitality industry can best guarantee deaf and hard of hearing guests the same level of protection as hearing guest by providing them visual devices that are part of the same fire alarm system that alerts hearing guests. Fire alarm systems must pass rigorous installation standards and frequent inspections. To date, the Board is unaware of any portable equipment that satisfies the requirements of the referenced standard. Even if portable equipment satisfying this standard were available, there is still a key concern that their installation, when not supervised by a trained professional, would not guarantee proper location and visibility of the signal. The NFPA 72 includes criteria for the appropriate location of the visual alarm appliance within the guest room. Deaf and hard of hearing travelers have reported that hotel staff have installed portable alarms on the floor, under furniture, and in other locations that do not satisfy the requirements of the referenced standard.

Section 224.5 requires dispersion of accessible rooms among the various classes of rooms provided, including room type, bed count, and other amenities to a degree comparable to the choices provided other guests. When complete dispersion is not possible due to the number of rooms required to be accessible, dispersion is to be provided in the following order of priority: room type, bed count, and amenities.

The proposed rule required communication access in half of the accessible guestrooms in addition to the number required in section 224.4. The Board considered removing this requirement and stipulating that there be no overlap between the dispersion of accessible rooms and communication accessible rooms, as indicated in the draft of the final guidelines. The Board sought to prevent such overlap to maximize the availability of each room type and proposed that a similar change be made in the IBC. This change was not adopted into the IBC, in part due to consideration of persons using wheelchairs who may need accessible communication features. The IBC does not require or prohibit overlap between both types of rooms. In the final rule, the Board has revised the dispersion requirement to allow some overlap (10% maximum) between rooms and to ensure that at least one room provides both wheelchair access and communication access. Thus, no more than 10% of the accessible rooms can be used to satisfy the required number of rooms providing communication access. Communication access can be provided in a greater number of accessible rooms, but the amount in excess of 10% cannot count toward the number of rooms required to provide communication access.

Comment. Comments urged that dispersion should be based on bed count, instead of bed type. People with disabilities, especially those who traveled with attendants, felt that bed type or size was not as important as the number of beds.

Response. The criteria for dispersion is also modified. In the list of factors that define various classes of rooms, the Board has replaced “types of beds” with “number of beds.”

225 Storage

This section covers storage elements and facilities, including lockers, self-service shelving, and self-service storage facilities. In the proposed rule, these elements and spaces were covered in two separate sections: 225 (Self-Service Storage Facilities) and 228 (Storage). In the final rule, these sections have been combined into one for clarity. No substantive changes have been made to these provisions.

A scoping provision for coat hooks and shelves that was located at 228.4 has been moved and revised. Since this provision is specific to certain types of spaces, it is now located among scoping requirements covering toilet rooms and compartments (213.3.8), and dressing, fitting, and locker rooms (222.2), as discussed above at these sections.

226 Dining Surfaces and Work Surfaces

Provisions for access to dining and work surfaces have been revised to:

• Further define dining surfaces as those used “for the consumption of food or drink” (226.1).

• Clarify that the types of work surfaces covered do not include those surfaces used by employees, since elements of work stations are not required to comply with these guidelines (226.1).

• Exempt sales and service counters from this section, which are covered instead by section 227 (226.1, Exception 1).

• Exempt check-writing surfaces at inaccessible check-out aisles (226.1, Exception 2).

Comment. These guidelines generally do not require elements of a work station to be accessible. Concern was expressed that the reference to “work surfaces” may be confused as covering surfaces that are part of a work area or station.

Response. Clarification has been added that this section applies to work surfaces that are provided “for use by other than employees.” In addition, the Board has specified that the type of dining surface covered are those provided “for the consumption of food or drink.”

Comment. Some comments reflected a misunderstanding that this section also applied to sales counters and other elements that are addressed in section 227 (Sales and Service).

Response. The final rule includes two clarifying exceptions. Exception 1 indicates that sales and service counters, which are addressed in section 227 (Sales and Service), are not required to comply with the requirements for dining and work surfaces. Exception 2 acknowledges that check writing surfaces are a type of work surface and that those provided at inaccessible check-out aisles are not required to comply.

227 Sales and Service

Section 227 covers access to check-out aisles (227.2), sales and service counters (227.3), food service lines (227.4), and queues and waiting lines (227.5). The general charging statement has been editorially revised to clearly indicate coverage of these various elements. The title of this section has been changed to “Sales and Service” instead of “Sales and Service Counters” since some of the provisions it contains apply to elements that may not have a counter, such as check-out aisles and waiting lines.

Requirements for check-out aisles have been revised to clarify access to check-out aisles serving different functions (227.2). In addition, the final rule restores an exception for smaller facilities that allows one check-out aisle to be accessible (227.2, Exception). Signage requirements for accessible check-out aisles have been modified and relocated to section 216.11, as discussed above.

Generally, check-out aisles are required to be accessible according to a scoping table in 227.2. In the proposed rule, this table specified access according to the number of check-out aisles provided for “each function.” However, the corresponding scoping provision did not fully correlate with the table because it specified that “at least one” accessible check-out aisle be provided for each function. In the final rule, this provision has been revised to be consistent with the scoping of the table.

Comment. The original ADAAG provided an exception for facilities with less than 5,000 square feet of selling space which allowed only one check-out aisle to be accessible regardless of the number or different types of aisles provided. This exception has been provided to limit the impact of accessible check-out aisles on smaller facilities. The Board had removed this exception in the proposed rule because it reasoned that most facilities that would qualify for it would likely have only one check-out aisle or use sales counters instead of check-out aisles. Commenters disagreed, indicating that such facilities may have multiple check-out aisles. Thus, the exception should be restored.

Response. The exception has been included in the final rule (227.2, Exception).

228 Depositories, Vending Machines, Change Machines, and Mail Boxes

No substantive changes have been made to the scoping requirements for depositories, vending machines, change machines, mail boxes, and fuel dispensers in section 228 (229 in the proposed rule). Few comments addressed this section. In the final rule, the Board has added a reference to fuel dispensers to clarify their coverage by the guidelines. The proposed rule included requirements intended to apply to fuel dispensers such as gas pumps. Gas pump manufacturers expressed concerns about reach range requirements and operating force specifications which have been addressed in the final rule, as discussed in sections 308 and 309 below.

229 Windows

Scoping provisions for windows require that at least one glazed opening, where provided for operation by occupants, meet technical criteria for operable parts. Access is also required to each glazed opening required by the administrative authority to be operable. In the final rule, the Board has included an exception from this requirement for windows in residential dwelling units. Devices that make window controls and latches accessible can be provided as a supplementary add-on feature instead of installed as a permanent fixture. For this reason, the Board believes that such access can be effectively provided as a reasonable accommodation under Federal regulations for program access. These regulations govern the types of residential facilities covered by these guidelines.

Comment. Concern was expressed that reference to glazed openings provided for “operation by occupants” would be interpreted to apply to those operated by employees.

Response. Scoping provisions in 203.9 exempt employee work areas from the guidelines except for requirements concerning accessible routes, circulation paths, and wiring for visual alarms. Other elements of employee work areas are not required to comply.

Comment. The referenced technical criteria address the operable parts of windows, including that such parts be within accessible reach ranges, but they do not address the height of glazed openings. The Board sought comment on whether a maximum sill height should be specified so that people who use wheelchairs can look through the window to view ground level activities (Question 16). The Board also requested information on any design requirements, practices, or considerations that would specify installation above an accessible height in certain occupancies for security or safety reasons, such as to guard against break-ins or to prevent improper use by building occupants, including children. Information was sought on any other design impacts, such as the use of the space or cavity below windows for mechanical or other building systems. Comments from people with disabilities supported the idea of a specified sill height, though few recommended a particular height. Comment from industry opposed such a requirement. Some pointed to concerns about child safety and the impact on heating, ventilation, and air conditioning (HVAC) systems and other mechanical systems that use the cavity for duct work.

Response. No additional criteria for windows, including the sill height, have been included in the final rule.

230 Two-Way Communication Systems

Scoping for two-way communication systems remain unchanged in the final rule. Few comments addressed this section.

231 Judicial Facilities

This section covers courthouses and other judicial facilities and provides requirements for courtrooms (231.2), holding cells (231.3), and visiting areas (231.4). This section has not been changed except for a few editorial revisions:

• Provisions specific to courtrooms have been relocated without substantive change to a new technical section on courtrooms (808) in Chapter 8, which covers special rooms, spaces, and elements.

• A scoping provision for partitions in visiting areas (231.4.2) has been revised for consistency with the technical criteria it references.

Comment. Commenters indicated that provisions specific to courtrooms in section 232.2 of the proposed rule functioned more as technical requirements and should be relocated to the appropriate technical chapter.

Response. The Board agrees and has relocated these provisions to a new technical section in Chapter 8 (Special Rooms, Spaces, and Elements) at section 808 that is specific to courtrooms.

Comment. A commenter pointed out that the provision for solid partitions or security glazing in visiting areas should be revised to be more consistent with the technical provision it references, which requires some method to facilitate voice communication.

Response. The Board has revised this provision to clarify that “at least one of each type” is required to comply, consistent with the referenced technical requirement in section 904.6.

232 Detention and Correctional Facilities

This section provides scoping criteria specific to prisons, jails, and other types of detention and correctional facilities.

Several provisions in this section have been revised:

• This section has been revised to refer to “cells” as opposed to “cells or rooms” for purposes of simplicity.

• Scoping for beds in cells (232.2.1.1) references a provision for beds in transient lodging guest rooms which has been revised, as discussed above in section 224.

• A provision for partitions in visiting areas (232.5.2) has been revised for consistency with the technical criteria it references, consistent with a similar provision for judicial facilities (231.4.2) discussed above in section 231.

• A dispersion requirement for wheelchair and communication accessible cells has been removed, as discussed below (232.2.4 in the proposed rule).

• An exception from the requirement for grab bars in cells specially designed without protrusions for purposes of suicide prevention (233.3, Exception 1 in the proposed rule) has been moved to the technical requirement for grab bars, which is a more appropriate location (604.5).

Scoping provisions for detention and correctional facilities require access to at least 2% of the general housing and holding cells provided (232.2.1). In addition, where emergency alarm systems and telephones are provided in general housing or holding cells, at least 2% of the cells must be equipped with accessible communication features, such as visual alarms and telephones equipped with volume controls, to accommodate persons with hearing impairments (232.2.2). The proposed rule contained a requirement that half of the accessible communication features be provided in accessible cells, consistent with a dispersion requirement provided for transient lodging guest rooms. This provision was changed, as indicated in the draft of the final guidelines, to prohibit any overlap between accessible cells and those equipped with accessible alarms and telephones. In the final rule, the Board has removed this provision. Scoping for accessible communication features is triggered only where cells are equipped with alarms and telephones. In facilities without such cells, only scoping for accessible cells would apply, making provisions for required overlap irrelevant. Where such cells are provided, the final rule does not prohibit the location of accessible communication features in accessible cells.

233 Residential Facilities

Requirements for residential facilities address access for persons with disabilities, including persons with mobility impairments and those who are deaf or hard of hearing. This section specifies the minimum number of residential dwelling units required to be accessible. The term “residential dwelling units” pertains to facilities used as a residence. A revised definition for the term used in the final rule, “residential dwelling units,” is provided in section 106.5. These facilities have been redefined to further distinguish them from other types of facilities, such as transient lodging, that provide living accommodations on a short-term basis. This section has been significantly revised in the final rule for consistency with other Federal regulations that address access to residential facilities, particularly those issued by the U.S. Department of Housing and Urban Development (HUD).

The ADA's coverage of residential facilities extends primarily to entities subject to title II such as public housing and other types of housing constructed or altered by, on behalf of, or for the use of State or local governments. Title III of the ADA does not generally apply to private housing, including apartments and condominiums, except for spaces within that serve as places of public accommodations, such as sales and rental offices. HUD administers a variety of programs that fund or subsidize housing. Many of these programs are subject to section 504 of the Rehabilitation Act of 1973 ²⁰ which requires that those receiving Federal financial assistance be accessible to persons with disabilities. HUD's section 504 regulations ²¹ apply access requirements to residential facilities and include specific provisions for the minimum number of dwelling units required to be accessible. Specifically, they require at least 5% of dwelling units in multi-family projects of 5 or more dwelling units to be accessible and at least 2% to be equipped with communication features accessible to persons with hearing impairments. While these requirements are consistent with those in the proposed guidelines, the HUD regulations further specify how this scoping is to be applied to housing “projects,” a term specifically defined in the HUD regulations. To avoid any potential conflicts in this area, the Board has referenced HUD's section 504 regulations for purposes of scoping (233.2). Thus, entities subject to HUD's section 504 regulations are required to apply the technical requirements for new construction and alterations of this rule to the number of units required to be accessible under HUD's regulations.

²⁰ 29 U.S.C. 794.

²¹ 24 CFR 8.22(b).

Scoping provisions for facilities not subject to HUD's section 504 regulations are addressed in a separate section (233.3). Requirements for these residential facilities address new construction, dwelling units for sale, additions, alterations, and dispersion. Substantive revisions made in the final rule concern:

• Residential facilities with a limited number of dwelling units (233.3.1, Exception).

• Dwelling units for sale (233.3.2).

• Alterations (233.3.4).

In addition, references to technical requirements have been editorially revised consistent with the integration of a separate chapter on residential facilities (11) into other chapters of the guidelines.

New construction scoping for facilities not subject to HUD's section 504 regulations is substantively consistent with the level specified in the proposed rule (233.3.1). At least 5% of the total number of residential dwelling units must be accessible to persons with mobility impairments and at least 2% must be equipped with communication features accessible to persons who are deaf or hard of hearing.

For newly constructed residential facilities with less than 5 units, the proposed rule provided an exception that allowed the minimum number to be applied to the total number of dwelling units constructed under a single contract, or developed as whole, whether or not located on a common site. In the final rule, this exception has been revised to apply to facilities with 15 or fewer units, a level which derives from UFAS, which the Board considered more appropriate (233.3.1, Exception).

The Board had considered adding a provision stipulating that units providing mobility access and those providing communication access are to be satisfied independently (i.e., both types of access cannot be provided in the same unit to satisfy the minimum number of each type required to be accessible). The Board did not include such a requirement in the final rule for consistency with requirements in the International Building Code (IBC). The IBC specifies that multi-family dwelling units required to have fire alarm systems also have the capability to support visible alarms. This requirement facilitates installation of visual alarms as needed, including in units providing access for persons with mobility impairments. To avoid any conflict with the IBC requirement, the Board has removed its provision prohibiting the location of required accessible communication features in dwelling units that are accessible to persons with mobility impairments.

The final rule includes a provision that specifically covers residential units that are constructed for purchase (233.3.2). This provision does not apply the scoping percentages otherwise required in new construction, but instead references regulations issued under the ADA or section 504 of the Rehabilitation Act. DOJ's title II ADA regulation and section 504 regulations contain provisions that ensure access to programs and activities. These regulations require that each program or activity conducted by a covered entity or a program or activity receiving Federal financial assistance be readily accessible to and usable by individuals with disabilities when viewed in its entirety. A public entity that conducts a program to build housing for purchase by individual home buyers must provide access according to the requirements of the ADA regulations and, where Federal financial assistance is provided, the applicable section 504 regulation. The Board determined that access to dwelling units for purchase is better addressed by the program access obligation of these regulations instead of by the across-the-board scoping percentages of this rule.

Scoping for additions applies the minimum number according to the number of units added (233.3.3). No substantive changes have been made to this requirement in the final rule.

Scoping provisions for alterations have been revised in the final rule (233.3.4). The Board determined that applying requirements to dwelling units in alterations should be further tailored to conditions specific to residential facilities. As a result, the final rule focuses on alterations where the planned scope of work is extensive enough to achieve fully accessible units that are on accessible routes. Provisions are included that specifically address residential facilities vacated as part of an alteration and those that are substantially altered. Consistent with these provisions, the Board has included exceptions to the general scoping provisions for alterations, as discussed above (sections 202.3 and 202.4).

Where a building is vacated for purposes of alteration and has more than 15 dwelling units, at least 5 percent of the altered dwelling units are required to be accessible to persons with mobility impairments and to be located on an accessible route (233.3.4.1). In addition, at least 2 percent of the dwelling units are to be equipped with accessible communication features. Facilities vacated for purposes other than alteration, such as asbestos removal or pest control, are not subject to this requirement.

Where individual dwelling units are altered and, as a result, a bathroom or a kitchen is substantially altered and at least one other room is also altered, the dwelling unit is required to comply with the scoping requirements for new construction until the total number of accessible units is met (233.3.4.2). A substantial alteration to a kitchen or bathroom includes, but is not limited to, changes to or rearrangements in the plan configuration, or replacement of cabinetry. Substantial alterations do not include normal maintenance or appliance and fixture replacement, unless such maintenance or replacement requires changes to or rearrangements in the plan configuration, or replacement of cabinetry. As with new construction, the final rule permits facilities that contain 15 or fewer dwelling units to apply the scoping requirements to all the dwelling units that are altered under a single contract, or are developed as whole, whether or not located on a common site.

An exception to these alteration scoping requirements is provided in the final rule where full compliance is technically infeasible (233.3.4, Exception). Technical infeasibility, as defined in the rule, pertains to existing structural conditions or site constraints that effectively prohibit compliance in an alteration. Under this exception, where it is technically infeasible to provide a fully accessible unit or an accessible route to such a unit, then a comparable unit at a different location under an entity's purview can be used as a substitute provided that it fully complies with the access requirements. A substituted dwelling unit must be comparable to the dwelling unit that is not made accessible. Factors to be considered in comparing one dwelling unit to another should include the number of bedrooms; amenities provided within the dwelling unit; types of common spaces provided within the facility; and location with respect to community resources and services, such as public transportation and civic, recreational, and mercantile facilities.

Dispersion of accessible units is required among the various types of units provided so that people with disabilities have choices of dwelling units comparable to and integrated with those available to other residents (233.3.5). Single-story units can substitute for multi-story units provided they have equivalent amenities and spaces. These provisions have not been substantively revised in the final rule.

234 Through 243 Recreation Facilities and Play Areas

Sections 234 through 243 address various types of recreation facilities, including play areas. These requirements were developed in separate rulemakings that were finalized after the proposal for this rule was published. They have been incorporated into the final rule and have been reformatted and editorially revised for consistency with the document. No substantive changes have been made. Scoping provisions, which reference technical provisions in chapters 6 and 10, address:

• Amusement rides (234).

• Recreational boating facilities (235).

• Exercise machines (236).

• Fishing piers and platforms (237).

• Golf facilities (238).

• Miniature golf facilities (239).

• Play areas (240).

• Saunas and steam rooms (241).

• Swimming pools, wading pools, and spas (242).

• Shooting facilities with firing positions (243).

Part II: ABA Application and Scoping

This part provides application and scoping requirements for facilities subject to the ABA. The ABA covers facilities that are designed, built, altered, or leased with Federal funds. The Board's ABA guidelines serve as the basis for standards issued by four standard-setting Federal agencies: the General Services Administration (GSA), the Department of Defense (DOD), the Department of Housing and Urban Development (HUD), and the U.S. Postal Service (USPS). The standards originally issued by these agencies are known as the Uniform Federal Accessibility Standards (UFAS).

The Board based the ABA application and scoping documents (Chapters 1 and 2) on those in Part 1 for ADA facilities to ensure greater consistency between the level of access required for ADA and ABA facilities. While differences or departures from the ADA scoping and application sections have been minimized, some are unavoidable due to differences between the ABA and ADA statutes and regulations issued under them. For example, the ABA covers facilities leased by Federal agencies and the guidelines for the ABA reflect this statutory difference.

In the final rule, differences between the ADA and ABA application and scoping chapters pertain to modifications and waivers, definitions, additions, leases, general exceptions (specifically existing elements and employee work areas), and provisions specific to private buildings and facilities. In the proposed rule, the Board raised a question concerning housing on military installations that was applicable only to the ABA guidelines.

F103 Modifications and Waivers

The ABA recognizes a process under which covered entities may request a modification or waiver of the applicable standard. The standard-setting agencies may grant a modification or waiver upon a case-by-case determination that it is clearly necessary. This modification and waiver process is recognized in section F103 as a substitute to the provision for “equivalent facilitation” in section 103 provided for facilities subject to the ADA.

F106 Definitions

Definitions for “joint use,” “lease,” and “military installation,” are included that pertain to provisions specific to the ABA covering leased facilities. Definitions of “private building or facility” and “public building or facility” are not included because these terms are used to distinguish between places of public accommodation and commercial facilities covered by title III of the ADA (private) and State and local government facilities covered by title II of the ADA (public). In addition, a definition of “employee work area” has been included in the ABA guidelines, consistent with the ADA guidelines.

F202.2 Additions

Section F202.2 addresses additions to existing facilities and provides specific criteria for accessible routes, entrances, and toilet and bathing facilities that derive from UFAS. These provisions have been retained but are not provided in the ADA scoping document. Provisions in this section for public pay telephones and drinking fountains have been included for consistency with a requirement in the ADA scoping document for an accessible path of travel for certain additions (202.2).

F202.6 Leases

The ABA requires access to facilities leased by Federal agencies. Section F202.6 contains scoping requirements for facilities that are newly leased by the Federal government, including new leases for facilities previously occupied by the Federal government. The negotiation of a new lease occurs when (1) the Federal government leases a facility that it did not occupy previously; or (2) an existing term ends and a new lease is negotiated for continued occupancy. The unilateral exercise of an option which is included as one of the terms of a preexisting lease is not considered the negotiation of a new lease. Negotiations which do not result in a lease agreement are not covered by this section. Provisions in this section address joint-use areas, accessible routes, toilet and bathing facilities, parking, and other elements and spaces. Corresponding changes concerning coverage of leased facilities appear in the sections stating the purpose (F101) and the overall scope of the guidelines (F201.1).

F203 General Exceptions

Section F203.2 establishes a general exception for elements complying with earlier standards issued pursuant to the ABA or to section 504 of the Rehabilitation Act of 1973. This exception, or “grandfather clause,” applies only to individual elements and applies only to the extent that earlier standards contain specific provisions for the required element. For example, UFAS Section 4.17 contains provisions for wheelchair accessible toilet compartments, but does not contain provisions for ambulatory accessible toilet compartments. The technical criteria for wheelchair accessible toilet compartments in these guidelines at section 604.8.1 differ from UFAS 4.17; however, if an existing wheelchair accessible toilet compartment complies with UFAS 4.17 it need not comply with 604.8.1. On the other hand, where a Federal facility is altered, the toilet room may be subject to new accessibility requirements. In such cases, elements that were not addressed in earlier standards, such as the ambulatory accessible toilet stall, must be provided, unless it is technically infeasible to comply or a waiver or modification of the standards is obtained.

The Board has added the exception at F203.2 because Federal agencies raised concerns that these guidelines contain provisions for leasing at section 202.6 that could require alterations to elements that would have been deemed accessible under UFAS. For example, when a new lease is negotiated, certain elements within the space must comply with 202.6 even if the space was previously occupied by the Federal agency. UFAS Section 4.1.6(1) (f) contains a provision that exempts elements in both federally owned and leased facilities from any new requirements for accessibility unless altered. These guidelines require leased facilities to provide certain accessible elements such as accessible routes, toilets, drinking fountains, and telephones. Where these elements comply with earlier standards, they need not comply with these guidelines. For example, section 602.2 of these guidelines requires drinking fountains to provide a forward approach while UFAS 4.15.5 permits either a forward or parallel approach. Therefore, an existing drinking fountain providing a parallel approach and complying with UFAS 4.15.5 need not comply with section 602.2. An advisory note further clarifies that this exception does not effect a Federal agency's responsibilities under the Rehabilitation Act.

The ADA guidelines specify a limited degree of access within employee work areas (203.9). The level of access is not similarly limited in ABA facilities, consistent with the ABA's statutory language. Consequently, there are specifications for work areas that apply to ADA facilities but not to ABA facilities. These provisions address circulation paths (206.2.8) and visual alarms (215.3), and include exceptions concerning technical specifications for accessible routes (403.5) and ramp handrails (405.8). Also, ADA scoping provisions for work surfaces are clarified in the final rule as not applying to those provided for use by employees (226.1). However, an exception is provided in the ABA guidelines for laundry equipment used only by employees (F214.1).

F214 Washing Machines and Clothes Dryers

The ABA guidelines specifically exempt washing machines and clothes dryers provided for employee use (214.1). Other types of employee use equipment are not exempted. General exceptions for employee work areas in the ADA guidelines (203.9) effectively exempt laundry and other types of equipment used only by employees for work purposes. Laundry equipment that is provided for use by employees as part of their housing, recreation, or other accommodation must be accessible because that equipment is not used by the employee to perform job related duties.

Private Buildings and Facilities

Certain provisions in the ADA scoping document are specific to private buildings and facilities (i.e., places of public accommodation and commercial facilities). These include an exception from the requirement for an accessible route in private multi-level buildings and facilities that are less than three stories or that have less than 3,000 square feet per floor (206.2.3, Exception 1) and TTY scoping provisions specific to private buildings (217.4.2.2 and 217.4.3.2). These provisions are not included in the ABA guidelines.

F228 Depositories, Vending Machines, Change Machines, and Mail Boxes

The Board has clarified coverage of fuel dispensers in the final rule by adding a reference to them in the both the ADA scoping document (section 228) and the ABA scoping document (section F228). These elements are subject to requirements for operable parts in section 309, which specify location within accessible reach ranges and maximum operating forces. Exceptions to these requirements are provided for fuel dispensers. In the final rule, the Board has exempted coverage of fuel dispensers used only for fueling official government vehicles, such as postal and military vehicles. The Board considered such an exception appropriate to minimize the impact on elements used only by employees as part of their work responsibilities. A similar exception was not included in the corresponding provision for facilities covered by the ADA because such facilities are held to a different level of access with respect to work areas. The ADA scoping document, unlike its ABA counterpart, does not require elements within work areas used only by employees to be accessible.

F234 Residential Facilities

Requirements for residential dwelling units subject to the ABA are substantively consistent with the ADA scoping document in distinguishing between residential facilities subject to HUD regulations (F233.2) and those that are not (F233.4). As discussed above in section 233, the Board has sought to ensure consistency between the requirements of this rule and regulations for housing issued by HUD. In addition, the Board has included provisions specific to housing provided on military installations (F233.3) which are consistent with those for facilities not covered by HUD regulations. The term “military installation,” as defined in the final rule (F106.5), applies to all facilities of an installation, whether or not they are located on a common site.

The proposed rule did not include an exception for military housing that is provided in the current standards used to enforce the ABA (UFAS). UFAS (4.1.4(3)) permits the Department of Defense (DOD) the option of modifying dwelling units as needed on an installation-by-installation basis (4.1.4(3)), as opposed to providing access at the time of construction as is required for other types of dwelling units. This flexibility allows the military departments to modify units for access to suit the needs of families with disabilities.

Comment. The Board sought comment on whether the final rule should include a similar provision that would permit accessible dwelling units under control of the DOD to be designed to be readily and easily modifiable to be accessible provided that modifications are accomplished on a first priority basis when a need is identified (Question 17). The vast majority of comments, most of which were from persons with disabilities, opposed such a provision. DOD supported retaining this exception, consistent with UFAS, since it provides appropriate flexibility in accommodating families with disabilities at military installations.

Response. The Board has not included an exception for military housing in the final rule. Consistent with the proposed rule, certain exceptions are provided for residential dwelling units generally that permit the installation of accessible features after construction if specified conditions are met. For example, grab bars do not have to be installed during the construction of residential dwelling units if the proper reinforcement is provided to facilitate their later installation as needed.

Chapter 3: Building Blocks

Chapter 3 contains basic technical requirements that form the “building blocks” of accessibility as established by the guidelines. These requirements address floor and ground surfaces (302), changes in level (303), wheelchair turning space (304), clear floor or ground space (305), knee and toe clearance (306), protruding objects (307), reach ranges (308), and operable parts (309). They are referenced by scoping provisions in Chapter 2 and by requirements in subsequent technical chapters (4 through 10).

Most comments addressed requirements for reach ranges and operable parts. Substantive revisions made in the final rule include:

• Lowering the maximum height for side reaches from 54 to 48 inches (308.3.1).

• Providing a limited exception from this requirement for gas pumps (308.3.1 and 308.3.2, Exception 2) and an exception for the operable parts of gas pumps (309.4).

• Adding an exception from requirements for obstructed side reaches to accommodate the standard height of laundry equipment (308.3.2, Exception 1).

302 Floor or Ground Surfaces

Section 302 requires floor or ground surfaces to be stable, firm, and slip resistant and provides specifications for carpets and surface openings.

Comment. Slip-resistance is based on the frictional force necessary to keep a shoe heel or crutch tip from slipping on a walking surface under conditions likely to be found on the surface. The Board was urged to reference specifications and testing protocols for slip resistance, in particular those developed by Voices of Safety International.

Response. Historically, the Board has not specified a particular level of slip resistance since it can be measured in different ways. The assessed level (or static coefficient of friction) varies according to the measuring method used. It is the Board's understanding that various industries each employ different testing methods and that there is no universally adopted or specified test protocol. The final rule does not include any technical specifications or testing methods for slip resistance as recommended by comments. The Board has chosen not to reference specifications that have not been vetted by the model codes community or developed through established industry procedures governing the adoption of consensus standards and specified test methods.

The final rule includes exceptions developed in a separate rulemaking on recreation facilities that exempts animal containment areas and areas of sports activity from the requirements for floor or ground surfaces.

303 Changes in Level

Section 303 addresses vertical changes in level in floor or ground surfaces. No changes have been made to this section. Exceptions for animal containment areas and areas of sports activity established in rulemaking on recreation facilities are included in the final rule.

304 Turning Space

Minimum spatial requirements are specified for wheelchair turning space. This section permits either a 60 inch diameter circle or a T-shaped design. Objects that provide sufficient knee and toe clearance can overlap a limited portion of the turning space.

Comment. Comments urged that the minimum dimensions for turning space be increased to better accommodate scooters and motorized wheelchairs. Recommendations ranged from 64 to 68 inches for the diameter of circular space and the overall dimensions of the T-shaped space. The overlap of this space by other elements should be prohibited or further restricted according to some of these comments because knee and toe clearances do not accommodate the front tiller of scooters.

Response. The lack of consensus on the dimensions for larger turning space and the absence of supporting data points to the need for research on the spatial turning requirements for scooters and other powered mobility aids. The Board believes that such research is needed before any changes to the long-standing criteria for turning space are made. The Board is sponsoring a long-term research project on scooters and other powered mobility aids through the Rehabilitation Engineering Research Center on Universal Design.

305 Clear Floor or Ground Space

Section 305 provides requirements for the basic space allocation for an occupied wheelchair. Few comments addressed this section, and no substantive changes have been made.

306 Knee and Toe Clearance

Section 306 defines the minimum clearances for knees and toes beneath fixed objects. Few comments addressing this section were received. The only changes made to this section are editorial in nature for purposes of clarity.

307 Protruding Objects

Objects mounted on walls and posts can be hazardous to persons with vision impairments unless treated according to the specifications in section 307 for protruding objects. Objects mounted on walls above the standard sweep of canes (i.e., higher than 27 inches from the floor) and below the standard head room clearance (80 inches), are limited to a 4 inch depth. Objects mounted on posts within this range are limited to a 12 inch overhang.

Comment. Several commenters called for the 27 inch triggering height to be reduced. Recommendations ranged from 15 to 6 inches. Comments also recommended that post-mounted objects be held to the requirements for wall-mounted objects.

Response. Post-mounted objects are common along sidewalks, street crossings, and other public rights-of-way. The Board intends to develop guidelines specific to public rights-of-way in a separate rulemaking. This other rulemaking will address and invite comment on protruding objects in public rights-of-way. With respect to the mounting height above which requirements for protruding objects apply (27 inches), the Board believes research is needed to further assess this specification. No substantive changes have been made to the provisions for protruding objects in the final rule.

308 Reach Ranges

Accessible reach ranges are specified according to the approach (forward or side) and the depth of reach over any obstruction. The proposed rule, consistent with the original ADAAG, specified maximum heights of 48 inches for a forward reach and 54 inches for a side reach. In the final rule, the maximum side reach has been lowered to the height specified for forward reaches. Exceptions to this requirement and a related provision for reaches over obstructions have been added for gas pumps, laundry equipment, and elevators.

The ADAAG Review Advisory Committee's report, upon which the proposed rule was largely based, recommended that the side reach range, including obstructed reaches, be changed to those required for forward reaches. This recommendation was based on a report from the Little People of America which considered the 54 inch height beyond the reach for many people of short stature. The advisory committee also considered the 48 inch maximum for side reaches as preferable for people who use wheelchairs. The Board proposed retaining the 54 inch side reach maximum pending further information on the need for, and impact of, such a change in view of its application to a wide and varied range of controls and elements. However, the Board acknowledged that the ANSI A117.1-1998 standard included such a change, which would mitigate the impact of similar action by the Board in view of new codes based on the ANSI A117.1 standard.

Comment. Several hundred comments, almost a fifth of the total received in this rulemaking, addressed the merits of lowering the side reach maximum. The vast majority urged lowering the side reach, consistent with the advisory committee's recommendation. Most of these comments were submitted by persons of short stature and disability groups. These commenters, as well as the ANSI A117 Committee and the Little People of America, stated that the unobstructed high reach range requirement should be lowered to 48 inches to help meet the needs of people of short stature, people with little upper arm strength and movement, and people with other disabilities. This change would enhance consistency between the guidelines and other codes and standards. Comments called attention to difficulties people encounter accessing ATMs, vending machines, and gas pumps. Various trade and industry groups opposed lowering the side reach range due to concerns about the impact and cost on various types of equipment, including those highlighted by other comments as difficult to reach. In particular, gas pump manufacturers outlined the difficulties in designing a fuel dispenser that would meet the 48 inch requirement. Gas pumps are often located on curbs at least 6 inches high for safety reasons. In addition, safety and health regulations require distance between the electronics of the pump and the dispenser. Comments from the elevator industry noted that a 48 inch maximum height would adversely impact the design of elevator controls.

The Board held a public meeting in October, 2000 to collect further information on this issue. Persons of short stature and disability groups reiterated the need for lowering the side reach to 48 inches. ATM manufacturers noted that they could meet the 48 inch maximum height for most new models of ATMs. Gas pump manufacturers demonstrated the difficulties in meeting the 48 inch height requirement in view of their current designs and safety and health design requirements. The gas pump manufacturers impressed upon the Board the great difficulty of installing a redesigned gas pump on an existing curb. They contended that although it would be possible to redesign gas pumps to be 48 inches to the highest operable part, even when installed on a curb, such gas pumps would have non-uniform fittings. They noted that installing them would be costly and could necessitate removing the entire curb.

Response. The maximum side reach height has been lowered from 54 to 48 inches. An exception is provided for the operable parts of fuel dispensers, which are permitted to be 54 inches high maximum where dispensers are installed on existing curbs. This exception responds to industry's concern regarding costs associated with alterations and will permit the existing stock of gas pumps that are currently within 54 inches to be used. In addition, certain exceptions are provided for elevators in section 407, consistent with the ANSI A117.1 standard.

Comment. Requirements for side reaches over an obstruction in 308.3.2 limit the height of the obstruction to 34 inches maximum. A major manufacturer of laundry equipment indicated that this specification would significantly impact the standard design of clothes washers and dryers, which have a standard work surface height of 36 inches. Complying with a 34 inch maximum height would decrease machine capacity and involve substantial redesign and retooling to develop compliant top-loading and front-loading machines.

Response. An exception has been added that permits the top of washing machines and clothes dryers to be 36 inches maximum above the floor.

309 Operable Parts

Specifications for operable parts address clear floor space, height, and operating characteristics. Operable parts are required to be located with the reach ranges specified in 308. In addition, they must be operable with one hand and not require tight grasping, pinching, twisting of the wrist, or more than 5 pounds of force to operate.

Comment. The proposed rule included an exception from the height requirements in 309.3 for special equipment and electrical and communications systems receptacles. This exception's coverage of various operable parts was considered to be too broad.

Response. This exception has been revised to specifically cover operable parts that are “intended for use only by service or maintenance personnel,” “electrical or communication receptacles serving a dedicated use,” and “floor electrical receptacles.” However, since such equipment may merit exception from other criteria for operable parts besides the height specifications, this exception has been recast as a general exception from section 309 and has been relocated to the scoping requirement for operable parts in Chapter 2 (see section 205.1, exceptions 1, 2, and 4).

Comment. Gas pump manufacturers indicated that the safety requirements for the operation of gas pump nozzles effectively preclude a maximum operating force of 5 pounds.

Response. An exception has been added to 309.4 that permits gas pump nozzles to have an activating force greater than 5 pounds.

Comment. The Board sought comment on whether the maximum 5 pounds of force was appropriate for operating controls activated by a single finger, such as elevator call and control panel buttons, platform lift controls, telephone key pads, function keys for ATMs and fare machines, and controls for emergency communication equipment in areas of refuge, among others. Usability of such controls also may be affected by how far the button or key must be depressed for activation. Specifically, the Board asked whether a maximum 3.5 pounds of force and a maximum 1/10 inch stroke depth provide sufficient accessibility for the use of operable parts activated by a single finger (Question 18) and whether there were any types of operable parts that could not meet, or would be adversely affected by such criteria (Question 19). The few comments received on this issue were evenly divided on the merits of adding these specifications. Comments noted that they would pose problems for fare machines and interactive transaction machines designed to withstand vandalism and misuse, various types of plumbing products, dishwashers and laundry machines, and amusement games and attractions. The elevator industry indicated that the noted specifications would not pose a problem in the design of elevators.

Response. Due to the limited support expressed and the potential impacts raised by commenters, a maximum 3.5 pounds of force and a maximum 1/10 inch stroke depth for operable parts activated by a single finger has not been included in the final rule.

Chapter 4: Accessible Routes

Chapter 4 contains technical requirements for accessible routes (402) and the various components of such routes, including walking surfaces (403), doors, doorways and gates (404), ramps (405), curb ramps (406), elevators (407 through 409), and platform lifts (410). In the proposed rule, this chapter included requirements for accessible means of egress and areas of refuge (409 and 410). These sections have been removed, as discussed above at section 207. The scoping provisions for accessible means of egress at section 207 now reference corresponding requirements in the International Building Code (IBC). Information on the IBC is available on the Board's Web site at www.access-board.gov and in advisory notes.

402 Accessible Routes

Section 402 lists the various elements that can be part of an accessible route: walking surfaces, doorways, ramps, elevators, and platform lifts. Walking surfaces must have a running slope of 1:20 or less. Those portions of accessible routes that slope more than 1:20 must be treated as ramps or curb ramps.

Comment. Comments noted that curb ramps should be included in the list of accessible route components.

Response. A reference to curb ramps has been added to this list in the final rule (402.2). In addition, the Board has clarified that only the run of curb ramps, not the flared sides, can be considered part of an accessible route.

403 Walking Surfaces

Requirements in 403 for walking surfaces apply to portions of accessible routes existing between doors and doorways, ramps, elevators, or lifts. The requirements for walking surfaces derive from existing specifications for accessible routes covering floor or ground surfaces, slope, changes in level, and clearances. Revisions made to this section include:

• Adding an exception for circulation paths in employee work areas (403.5, Exception).

• Removing redundant specifications for protruding objects (403.5.3 in the proposed rule).

• Addressing handrails provided along walking surfaces (403.6).

The final rule requires that common use circulation paths within work areas satisfy requirements for accessible routes (203.9). This provision does not require full accessibility within the work area or to every individual work station, but does require that a framework of common use circulation pathways within the work area as a whole be accessible. These circulation paths must be accessible according to requirements for accessible routes and walking surfaces. Section 403.5 includes requirements for the clear width of walking surfaces. The Board has included an exception to section 403.5 which recognizes constraints posed by various types of equipment on the width of circulation paths. Under this exception, the specified clearance for common use circulation paths within employee work areas can be reduced by equipment where such a reduction is essential to the function of the work being performed.

The proposed rule included a requirement that protruding objects not reduce the required clear width of walking surfaces (403.5.3). The Board has removed this requirement as redundant. Section 307, which addresses protruding objects, specifies that such objects not reduce the clear width of accessible routes (307.5).

Comment. Requirements for handrails in the proposed rule applied only to those provided along ramps and stairs. The handrail requirements in section 505 address specifications for continuity, height, clearance, gripping surface, cross section, fittings, and extensions. The Board sought comment on whether these requirements should also be applied to handrails that are provided along portions of circulation paths without ramps or stairs (Question 20). The few comments that addressed this question supported the inclusion of such a requirement.

Response. In the final rule, the Board has included a requirement at section 403.6 that handrails, where provided along walking surfaces not treated as a ramp (i.e., those with running slopes no steeper than 1:20), meet the technical criteria in section 505. The Board has included provisions in section 505 that exempt walking surfaces from requirements for handrails on both sides and from requirements for handrail extensions.

Comment. Section 403.5 specifies a continuous clearance of 36 inches minimum for walking surfaces. Wider clearances are specified for wheelchair passing space (60 inches minimum) and certain sharp turns around narrow obstructions. Several comments urged an increase in the specified clearances for walking surfaces, such as a 48 inch minimum for exterior routes, and an increase in wheelchair passing space to 66 inches.

Response. No revisions have been made to the specified clearance of walking surfaces. The minimum width of exterior routes on public streets and sidewalks will likely be revisited in supplementary guidelines specific to public rights-of-ways that the Board intends to develop. These supplementary guidelines will be proposed for public comment.

404 Doors, Doorways, and Gates

This section covers both doors, doorways, and gates that are manually operated (404.2) and those that are automated (404.3). Changes made to the requirements for manually operated doors:

• Clarify coverage of gates and the application of this section to manual doors and doorways intended for user passage (404.2).

• Clarify and modify maneuvering clearance requirements (404.2.4).

• Modify requirements for doors and gates in series (404.2.6).

• Clarify the height of door and gate hardware and add an exception for gates at pools, spas, and hot tubs (404.2.7).

• Revise an exception for door and gate surface requirements (404.2.10, Exception 2) and add a new exception for existing doors and gates (Exception 4).

In the proposed rule, section 404 referenced doors and doorways. The original ADAAG included a provision for gates which were subject to all relevant specifications for doors and doorways. The final rule includes references to gates throughout section 404 so that they are equally covered, consistent with the intent of this section and with scoping provisions for doors, doorways, and gates in section 206.5. In addition, clarification has been added that the requirements for manual doors, doorways, and gates in section 404.2 apply to those “intended for user passage.”

Comment. Commenters requested that the Board specifically address doors which do not provide user passage.

Response. Section 404, as all of Chapter 4, addresses accessible routes and components of such routes. Doors which do not provide user passage would not be considered part of an accessible route. However, doors not providing user passage, such as those at many types of closets and wall mounted cabinets, are subject to requirements for storage (811) and for operable parts (309) where they are required to be accessible.

Section 404.2.4 addresses maneuvering clearances at manual doors, doorways, and gates. It includes tables that specify these clearances according to the type of door, doorway, or gate (swinging, sliding, folding, and doorways without doors or gates) and the approach (front, latch side, hinge side). Clearances are specified for the pull side and the push side in the case of swinging doors. The final rule includes clarification, which was partially contained in a previous footnote to Table 404.2.4.1, that maneuvering clearances “shall extend the full width of the doorway and the required latch side or hinge side clearance,” consistent with corresponding figures.

Comment. The proposed rule exempted doors to hospital patient rooms that are at least 44 inches wide from the specifications for latch side clearances. This exception derives from the original ADAAG and was intended to apply to those types of patient rooms where patients are typically transported in and out by hospital staff. Commenters pointed out that this exception should be limited to acute care patient bedrooms, as in the original ADAAG. The 44 inch specification pertains to the clear opening width of doors intended to accommodate gurneys.

Response. The exception, located at section 404.2.4 in the final rule, remains generally applicable to entry doors serving hospital patient rooms. The 44 inch width criterion has been removed so that the exception may be applied without regard to the door width. The Board opted not to limit the application of this exception due to concerns about the impact on the standard design and size of patient rooms. Doors to patient rooms are often located close to adjacent interior walls in order to facilitate circulation and to enhance privacy. As a matter of design, practice, or code requirement, such doors are typically wider in order to accommodate beds and gurneys.

Comment. Table 404.2.4.1 specifies maneuvering clearances for manual swinging doors and gates. At doors that provide a latch side approach, the minimum depth of this clearance is increased where a closer is provided because additional space is needed to counteract the force of closers while maneuvering through the door from either the push or the pull side. In the proposed rule, this additional depth (6 inches) was specified when both a closer and a latch are provided. Comments indicated that this requirement should apply based on the provision of a closer since the addition of a latch does not impact the need for additional maneuvering clearance.

Response. The specification in Table 404.2.4.1, footnote 4, has been revised to apply where a closer is provided at doors with latch side approaches. The reference to latches has been removed.

Comment. Section 404.2.5 addresses the height of thresholds. A maximum height of ½ inch is generally specified, although an exception permits a maximum height of “ inch at existing or altered thresholds that have a beveled edge on each side. Many comments opposed any threshold height above ½ inch. Conversely, a few comments urged that this exception be broadened to restore a similar allowance for exterior sliding doors.

Response. The Board has retained the ¾ inch height allowed for thresholds with a beveled edge on each side that are existing or altered because compliance with the ½ inch requirement can, in some cases, significantly increase alteration costs and necessitate replacement of door assemblies. An exception in original ADAAG that allowed a ¾ inch threshold at exterior sliding doors was removed in the proposed rule because products are available, including swinging doors, that meet the ½ inch maximum specified for all other doors. No changes to the criteria for thresholds have been made in the final rule.

Section 404.2.6 specifies the minimum separation between doors and gates in series (48 inches plus the width of doors or gates swinging into the space). The proposed rule, consistent with the original ADAAG, included a requirement that doors and gates in series swing either in the same direction or away from the space in between. The Board has removed this requirement for consistency with the ANSI A117.1 standard. The required separation between doors and gates in series and specifications for maneuvering clearances at doors will ensure sufficient space regardless of the door swing.

The height of door and gate hardware (34 to 48 inches) is specified in section 404.2.7. In the final rule, the Board has clarified that this height pertains to the operable parts of hardware, consistent with the ANSI A117.1 standard.

In finalizing this rule and incorporating its guidelines for recreation facilities, the Board determined that the specified height for door and gate hardware conflicts with industry practice or safety standards for swimming pools which specify a higher range for the location of latches beyond the reach of young children. The Model Barrier Code for Residential Swimming Pools, Spas, and Hot Tubs (ANSI/NSPI-8 1996) permits latch releases for chain link or picket fence gates to be above 54 inches. The model safety standard does not apply this requirement to key locks, electronic openers, and integral openers which have a self-latching device that is also self-locking. To reconcile this conflict, the Board has added an exception in the final rule for barrier walls and fences protecting pools, spas, and hot tubs (404.2.7, Exception 2). Under this exception, a 54 inch maximum height is permitted for the operable parts of the latch release on self-latching devices. Although the final guidelines specify 48 inches as the maximum forward or side reach, the original ADAAG recognized a maximum of 54 inches for side reach. Consistent with the model safety standard, this exception is not permitted for self-locking devices operated by keys, electronic openers, or integral combination locks.

Comment. Section 404.2.7 also covers the operating characteristics and height of door and gate hardware. An exception is provided for “existing locks at existing glazed doors without stiles, existing overhead rolling doors or grilles, and similar existing doors or grilles that are designed with locks that are activated only at the top or bottom rail.” The advisory committee had recommended a broader exception that would have permitted any location for locks used only for security purposes and not for normal operation. Several comments preferred the exception put forth by the advisory committee over the one proposed by the Board.

Response. The Board sought to limit the exception to existing doors or grilles because design solutions for accessible doors and gates are available in new construction. In addition, the Board felt that the advisory committee's language concerning “locks used only for security purposes” could be construed as applying to any lock. No changes have been made to the exception.

Comment. Section 404.2.9 addresses the opening force of doors and gates. The provisions are consistent with existing ADAAG specifications by requiring a maximum 5 pounds of force for sliding, folding, and interior hinged doors. Fire doors are required to have the minimum opening force permitted by the appropriate administrative authority. No maximum opening force was proposed for exterior hinged doors. Many comments urged the Board to address exterior hinged doors, with a majority proposing a maximum of 8.5 pounds of force. Where this maximum cannot be met, the door should be required to be automatic or power-assisted, according to these comments. Some commenters felt that automatic doors should be made mandatory regardless of the opening force of manual hinged doors.

Response. Historically, the Board has not specified a maximum opening force for exterior hinged doors to avoid conflicts with model building codes. The closing force required by building codes usually exceeds 5 pounds, the maximum considered to be accessible. Factors that affect closing force include the weight of the door, wind and other exterior conditions, gasketing, air pressure, heating, ventilation, and air conditioning (HVAC) systems, and energy conservation, among others. Research previously sponsored by the Board indicates that a force of 15 pounds is probably the most practicable as a specified maximum. Considering that closing force is 60% efficient, a 15 pound maximum for opening force may be sufficient for closure and positive latching of most doors, but is triple the recognized maximum for accessibility. A maximum opening force for exterior hinged doors has not been included in the final rule.

Section 404.2.10 requires that swinging doors and gates have a smooth surface on the push side that extends their full width. This provision derives from the ANSI A117.1-1992 standard and is intended to permit wheelchair footrests to be used in pushing open doors without risking entrapment on the stile. This provision requires that parts creating joints in the smooth surface are to be within 1/16 inch of the same plane as the other. Also, cavities created by added kick plates must be capped. Exceptions from this requirement are recognized for sliding doors (Exception 1), certain tempered glass doors without stiles (Exception 2), doors and gates that do not extend to within 10 inches of the floor or ground (Exception 3), and existing doors and gates (Exception 4).

Comment. Exception 2 exempts tempered glass doors without stiles that have a bottom rail or shoe with the top leading edge tapered at 60 degrees minimum from the horizontal. Comments indicated that these types of doors should be exempt from the requirement for the smooth surface area on the push side, but should be subject to other portions of the provision covering surface joints and added kick plates.

Response. In the final rule, section 404.2.10, Exception 2 has been revised to exempt the type of tempered glass doors described only from the requirement for a smooth surface on the push side that extends the full width of the door. Such doors remain subject to specifications for parts creating joints in the surface and for provided kick plates.

In finalizing the rule, the Board determined that the cost of making existing doors or gates comply with the smooth surface requirement in alterations can be significant. An exception from this requirement for existing doors and gates is provided in the final rule (404.2.9, Exception 4). Under this exception, such doors or gates do not have to comply with the surface requirements, provided that cavities created by added kick plates are capped.

Section 404.3 addresses automatic doors and gates, including those that are full-powered, low-energy, and power-assisted. In addition to the provisions of section 404.3, such doors are subject to industry standards (ANSI/BHMA 156.10 and 156.19). The reference to these standards in section 105.2 has been updated in the final rule to refer to the most recent editions: ANSI/BHMA A156.10-1999 Power-Operated Pedestrian Doors and the 1997 or 2002 editions of ANSI/BHMA A156.19 Power-Assist and Low-Energy Power-Operated Doors. The Board's Web site at www.access-board.gov provides further information on these referenced standards. Provisions in section 404.3 address clear width; maneuvering clearance; thresholds; doors and gates in series; operable parts; break out opening; and revolving doors, gates, and turnstiles.

Changes made to this section include:

• Removal of unnecessary language from the charging statement (404.3).

• Modification of maneuvering clearance specifications (404.3.2).

• Removal of requirements for door labels and warnings (404.3.6 in the proposed rule).

• Revision of specifications for break out opening (404.3.6).

• Addition of a provision for revolving doors, gates, and turnstiles (404.3.7).

Comment. In the proposed rule, section 404.3 noted that “[a]utomatic doors shall be permitted on an accessible route.” Commenters indicated that this language was unnecessary since any type of door complying with section 404 may be on an accessible route (404.1).

Response. The statement permitting automatic doors on accessible routes in section 404.3 has been removed.

In the proposed rule, section 404.3.2 required that maneuvering clearances specified for swinging doors be provided at power-assisted doors and gates since their activation, unlike those that are fully automated, involves manual operation. In the final rule, this provision has been revised to also apply to automatic doors and gates not equipped with standby power that are part of an accessible means of egress. In cases of building power failure, this will help provide access where manual operation of the door or gate is required, unless the opening device has its own back-up power supply. A new exception exempts those automatic doors or gates that remain open in the power-off condition since manual operation is not necessary during power outages.

The proposed rule included a requirement that labels and warning signs for automatic doors meet requirements in section 703.4 for non-tactile signage (404.3.6). The Board has removed this requirement in the final rule since the referenced industry standards address the characteristics of these signs and labels.

Comment. In the proposed rule, the Board included a requirement that the clear break out opening for swinging or sliding automatic doors be at least 32 inches in emergency mode so that an accessible route through them is maintained in emergencies (404.3.7). Several comments opposed this requirement because of a common accessibility retrofit in which 60 inch wide double doors are automated so that both 30 inch leaves open simultaneously to meet the minimum 32 inch clear opening requirement. However, neither leaf would provide the minimum 32 inch clearance in emergency mode required by this provision.

Response. The Board has revised the requirement so that it applies only to those automatic doors and gates without standby power that are part of a means of egress (404.3.6). Automatic doors equipped with backup power would meet this requirement, including those with double leaves less than 32 inches wide. In addition, the Board has added an exception under which compliance with this provision is not required where accessible manual swinging doors or gates serve the same means of egress.

Comment. A commenter advised that no revolving doors or turnstiles should be permitted on an accessible route.

Response. As indicated in the proposed rule, manual revolving doors, gates, and turnstiles cannot be part of an accessible route (404.2.1). The Board has included a provision clarifying that automatic types of revolving doors, gates, and turnstiles cannot be the only means of passage at an accessible entrance (404.3.7). While automated revolving doors, if large enough, may be usable by people with disabilities, certain questions remain about the appropriate maximum speed, minimum diameter, compartment size, width and configuration of openings, break out openings, and safety systems such as motion detectors that stop door movement without contact. An alternate door in full compliance with 404 is considered necessary since some people with disabilities may be uncertain of their usability or may not move quickly enough to use them.

405 Ramps

Section 405 provides technical criteria for ramps. Revisions made to this section include:

• A new exception for ramps in assembly areas (405.1).

• Removal of an exception for ramp slopes in historic facilities (405.2).

• Addition of exceptions for ramps in employee work areas (405.5 and 405.8).

• Clarification of specifications for ramp landings (405.7).

Comment. Requirements for ramps apply to portions of accessible routes that slope more than 1:20. Technical provisions address running slope, cross slope, handrails, landings, edge protection, and other elements. Comments from designers of assembly areas requested that the guidelines make clear that ramps adjacent to seating in assembly areas that are not part of a required accessible route do not have to comply with the guidelines. Often, it is not practicable that such ramps meet requirements for handrails, edge protection, running slope, and other specifications.

Response. An exception has been added in the final rule (405.1) for ramps adjacent to seating in assembly areas, which are not required to comply with the guidelines provided that they do not serve elements required to be on an accessible route.

Section 405.2 specifies a maximum running slope of 1:12 for ramps. Alternate slope requirements are permitted for short ramps in existing facilities where space constraints effectively prohibit a 1:12 running slope. A 1:10 maximum slope is permitted for ramps with a rise of up to 6 inches, and a maximum 1:8 slope is allowed for ramps with a rise of up to 3 inches.

Comment. Commenters recommended that language in the original ADAAG be restored calling for the “least possible slope” to be used, with 1:12 being the maximum allowed.

Response. While the least possible slope is generally desired for easier access, this language had been removed because it is considered too vague from a compliance standpoint and thus difficult to enforce. The final rule, consistent with the proposed rule, specifies only that the maximum slope shall be 1:12.

Comment. The proposed rule included an exception for qualified historic structures (405.2, Exception 2) that would have permitted a running slope of 1:6 maximum for ramps no longer than 24 inches. Commenters urged that this exception be removed for consistency with the ANSI A117.1-1998 standard and the International Building Code (IBC).

Response. This exception for qualified historic facilities has been removed in the final rule. Such facilities, however, may qualify for the exceptions generally permitted for existing facilities that have been retained in the final rule.

The final rule includes exceptions for ramps located in employee work areas. Common use circulation paths within such areas are subject to requirements for accessible routes (203.9). These circulation paths must be accessible according to requirements for accessible routes, including ramps. Exceptions included in the final rule for the clear width (405.5) and handrails (405.8) of ramps located in employee work areas recognize constraints posed by various types of equipment. Employee work area ramps do not have to meet the specified 36 inch minimum clear width where a decrease is necessary due to equipment within the work area so long as the decrease is essential to the work being performed. Ramps within employee work areas are not required to have handrails if they are designed to permit the later installation of complying handrails. A clearance of 36 inches between handrails is required, except at those ramps that qualify for the clear width exception in 405.5.

Comment. Section 405.7 addresses ramp landings, including the minimum width and length (405.7.2 through 405.7.4). A commenter suggested that these provisions be revised to the “clear” dimension for clarity and consistency.

Response. Specifications for ramp landings have been revised in the final rule, as suggested, to refer to the “clear” dimension.

406 Curb Ramps

Section 406 provides requirements specific to curb ramps and also applies requirements for other types of ramps covered by section 405. These include specifications for running slope, surface, clear width, and wet conditions. Consistent with the scope of the guidelines, these requirements apply to facilities on sites. The Board will address and invite comment on requirements for curb ramps located in public streets and sidewalks in upcoming rulemaking to develop supplementary guidelines specific to public rights-of-way. This supplement will be proposed for public comment based on recommendations from the Board's Public Rights-of-Way Access Advisory Committee, which was comprised of representatives from the transportation industry, Federal, State and local government agencies, the disability community, and design and engineering professionals. This committee's recommendations are contained in a report, “Building a True Community,” which was submitted to the Board in January 2001.

Provisions for curb ramps in section 406 have been revised to:

• Clarify requirements for cross slope (406.1).

• Modify specifications for side flares (406.3) and landings (406.4).

• Delete unnecessary language concerning handrails (406.4 in the proposed rule).

• Clarify the specified location of curb ramps (406.5).

• Change specifications for diagonal curb ramps (406.6).

Comment. Comments indicated that specifications for cross slope (1:48 maximum) are not referenced in the curb ramp section.

Response. In the final rule, the Board has clarified that curb ramps, like other elements of accessible routes, cannot have a cross slope steeper than 1:48, by adding a reference to the cross slope specification for ramps in section 405.3.

Section 406.3 addresses the sides of curb ramps and specifies that side flares, where provided, have a slope of 1:10 maximum. In the proposed rule, this provision required flared sides where pedestrians must walk across the curb ramp. Returned sides were permitted where pedestrians would not normally walk across the ramp. In the final rule, this distinction has been removed. However, curbs with returned sides remain an alternative to flared sides. In addition, the specification for shallower (1:12) side flares for curb ramps with limited space at the top has been removed in conjunction with revisions to the criteria for landings (406.4).

Comment. Commenters advised that landings should be specified at the top of curb ramps.

Response. Section 406.4 is new to the final rule in clarifying requirements for landings at the top of curb ramps. Curb ramps must be connected by an accessible route which, in effect, requires space at least 36 inches in length at the top of curb ramps. Otherwise, maneuvering at the top of ramps would require turning on the flared sides. Landings must also be as wide as the curb ramp they serve. The proposed rule specified that side flares of 1:12 maximum must be provided when space at the top of curb ramps is less than 48 inches long. This specification has been removed. However, a similar exception has been added for alterations. Under this exception, 1:12 maximum side flares are required where there is no landing at the top of curb ramps. This exception was provided to address situations where existing space constraints or obstructions may prohibit a landing at the top of curb ramps.

The proposed rule noted that handrails are not required on curb ramps (406.4 in the proposed rule). This language, though accurate, has been removed as unnecessary since the technical provisions for curb ramps in section 406 do not include or reference requirements for handrails.

Section 406.5 specifies the location of curb ramps at marked crossings. In the final rule, requirements for the general location of curb ramps that were provided at section 406.8 in the proposed rule have been integrated into this provision for simplicity. As reformatted, section 406.5 covers the location of curb ramps, including at marked crossings.

Comment. Curb ramps must be located so that they do not project into vehicular traffic lanes or parking spaces and access aisles. Commenters noted that this requirement should be clarified to apply not only to the run of the curb ramp, but also to flared sides, where provided.

Response. Consistent with the intent of the requirement in section 406.5, the Board has clarified that the specified location applies to curb ramps “and the flared sides of curb ramps.”

Comment. Section 406.6 provides specifications for diagonal (or corner type) curb ramps. These curb ramps must have a 48 inch minimum clear space at the bottom. Comments advised that this space should be provided outside active traffic lanes of the roadway so that persons traversing the ramp are not in the way of oncoming traffic from either direction at an intersection.

Response. Clarification has been added in the final rule that the clear space at the bottom of diagonal curb ramps must be located “outside active traffic lanes of the roadway.”

Comment. Requirements for diagonal curb ramps in section 406.6 also specify that a segment of straight curb at least 2 feet long must be provided on each side of the curb ramp and within the marked crossing. This portion of curb face provides a detectable cue to people with vision impairments traveling within the crosswalk. Comments noted that this segment of curb does not have to be horizontally straight to provide such a cue and that achieving straight segments two feet long within marked crossings is very difficult under standard intersection design conventions.

Response. The requirement in section 406.6 that the 2 foot curb segment aside diagonal curb ramps be “straight” has been removed. The segment can be provided at arced portions of the curb, but must still be located within marked crossings.

Comment. Comments, most from groups representing persons with vision impairments, called attention to the need for detectable warnings at curb ramps, blended curbs, and cut-through islands. They requested that such a requirement be reinstated in the final rule. A few comments opposed such a change.

Response. The original ADAAG contained a requirement that curb ramp surfaces have a raised distinctive pattern of truncated domes to serve as a warning detectable by cane or underfoot to alert people with vision impairments of the transition to vehicular ways (ADAAG 4.7.7). This warning was required since the sloped surfaces of curb ramps remove a tactile cue provided by curb faces. In response to concerns about the specifications, the availability of complying products, proper maintenance such as snow and ice removal, usefulness, and safety concerns, the Board, along with the Department of Justice (DOJ) and the Department of Transportation (DOT), suspended the requirement for detectable warnings at curb ramps and other locations pending the results of a research project sponsored by the Board on the need for such warnings at these locations.²² The research project showed that intersections are very complex environments and that pedestrians with vision impairments use a combination of cues to detect intersections. The research project suggested that detectable warnings had a modest impact on detecting intersections since, in their absence, pedestrians with vision impairments used other available cues. The results of this research indicated that there may be a need for additional cues at some types of intersections, but did not identify the specific conditions where such cues should be provided.

²² 59 FR 17442 (April 12, 1994).

Suspension of this requirement continued until July 26, 2001, to accommodate the advisory committee's review of ADAAG and resulting rulemaking by the Board.²³ The advisory committee recommended that the requirement for detectable warnings at platform edges in transportation facilities be retained, but it did not make any recommendations regarding the provision of detectable warnings at other locations within a site. The advisory committee suggested that the appropriateness of providing detectable warnings at vehicular-pedestrian intersections in the public right-of-way should be established first, and that the application to locations within a site should be considered afterward. Consequently, the Board did not include requirements for detectable warnings in the proposed rule, except at boarding platforms in transit facilities. Nor did the Board further extend the suspension, which expired on July 26, 2001. Since the enforcing agencies did not extend the suspension either, the detectable warning requirements are technically part of the existing standards again. DOJ and DOT can provide additional guidance on their enforcement of these requirements pending the update of their standards according to these revised guidelines.

²³ 61 FR 39323 (July 29, 1996) and 63 FR 64836 (November 23, 1998).

The Board will address and invite comment on detectable warnings on curb ramps in its development of guidelines covering public rights-of-way. Those guidelines will be proposed for public comment based on recommendations from the Public Rights-of-Way Access Advisory Committee. This committee's report to the Board makes recommendations for detectable warnings at curb ramps. Consistent with the ADAAG Review Advisory Committee's recommendation, the Board intends to address detectable warnings in public rights-of-way before including any specification generally applicable to sites. Thus, this final rule does not reinstate requirements for detectable warnings at curb ramps or hazardous vehicular areas.

407 Elevators

Section 407 covers passenger elevators, including destination-oriented elevators and existing elevators. This section also requires compliance with the industry safety code, ASME/ANSI A17.1-2000 Safety Code for Elevators and Escalators. The Board has revised the rule to reference the most recent edition of this code (105.2.2).

The requirements for elevators have been extensively revised and reformatted. In the proposed rule, different types of elevators were covered by separate subsections: standard elevators (407.2), destination-oriented elevators (407.3), limited-use/limited-application elevators (407.4), and existing elevators (407.5). In addition, residential elevators were addressed in a separate chapter covering residential facilities (11). Since there was considerable redundancy in the specifications between some types of these elevators, the Board has integrated into one section (407) the requirements for standard, destination-oriented, and existing elevators. Basically, this revised section tracks the requirements for standard elevators in 407.2 of the proposed rule, but the provisions have been renumbered and formatted. Various exceptions specific to destination-oriented and existing elevators have been incorporated into this section to preserve the substance of differing specifications. Requirements for limited-use/limited-application (LULA) elevators and residential elevators are provided in sections 408 and 409, respectively.

Comment. The proposed rule applied requirements specifically to “new” elevators, including destination-oriented and LULA types, and to “existing” elevators. However, substantive differences between requirements for “new” and “existing” elevators applied only to standard elevators. Comments recommended that references to “new” be removed for consistency with the rest of the document.

Response. The Board has removed references to “new” in the requirements for elevators in sections 407 and 408 for consistency with the scoping of the guidelines. The requirements of these sections apply to existing elevators that are altered, consistent with the basic application of the guidelines. Provisions specific to “existing” elevators in section 407 address certain allowances permitted in the alteration of standard elevators.

Substantive changes made to requirements for elevators in section 407 include:

• Revision of the height of call controls (407.2.1.1).

• Removal of a specification concerning objects located below hall call buttons (407.2.2 in the proposed rule).

• Modification of specifications for audible hall signals (407.2.2.3) and audible car position indicators (407.4.8.2).

• Revision of the height of tactile floor designations at hoistways (407.2.3.1).

• Addition of an exemption for destination-oriented elevators from the requirements for door and signal timing (407.3.4).

• Addition of a new exception for the height of car controls (407.4.6.1, Exception 1).

• Modification of requirements for keypads (407.4.7.2).

• Clarification that requirements for operable parts in 309 apply to call controls (407.2.1) and car controls (407.4.6).

• Removal of redundant specifications for emergency communication systems (407.4.9).

• Relocation of requirements for existing elevator cars to be labeled by the International Symbol of Accessibility, unless all cars are accessible, to the signage scoping section (216.7).

Section 407.2 provides specifications for elevator halls and lobbies. In the final rule, this provision has been editorially revised to refer to elevator “landings,” consistent with the ANSI A117.1-2003 standard.

Comment. The proposed rule specified that call buttons be located 35 to 48 inches above the floor (407.2.2). These controls should be held to the basic reach range specifications in section 308 like any other operable part, according to commenters.

Response. In the final rule, call controls are required to be located within one of the reach ranges specified in section 308 (407.2.1.1). In addition, the Board has removed a requirement that objects mounted beneath hall call buttons protrude no more than 4 inches into the clear floor space. Such protrusions are adequately addressed by requirements for clear floor space in 305 and for protruding objects in section 307.

Comment. Audible hall signals must indicate the direction of a responding car by the number of sounds (once for up and twice for down) or by verbal announcements (407.2.2.3). The proposed rule included a maximum frequency (1,500 Hz) for audible signals. The Board sought comment on whether a frequency band width should be specified for verbal annunciators (Question 21). Specifically, the Board asked whether a band width of 300 to 3,000 Hz for hall signals would be appropriate. Information on the availability and cost of products meeting this specification was also requested. Comments from the elevator industry indicated that hall signals currently fall within this range.

Response. The Board has added a requirement in the final rule that hall signal verbal annunciators have a frequency of 300 Hz minimum and 3,000 Hz maximum. For consistency, a similar requirement is specified for verbal car position indicators (407.4.8.2.3). In the proposed rule, these verbal annunciators were subject to a maximum frequency of 1,500 Hz. In addition, the Board has modified hall signal verbal annunciators by requiring that they “indicate the direction of elevator car travel,” instead of specifying the content (“up,” “down”) as required in the proposed rule.

Comment. The proposed rule specified a decibel range of 20 to 80 decibels for hall signals and annunciators (407.2.3.1) and car position annunciators (407.3.4.2). Comments recommended that the minimum be changed to 10 decibels above the ambient noise level for consistency with the ANSI A117.1-2003 standard.

Response. The minimum decibel range for hall and car position signals has been changed to 10 decibels above ambient. In addition, the provision for audible indicators (407.4.8.2) has been revised to require floor announcement when the car is about to stop, instead of when it has stopped, consistent with the ANSI A117.1 standard.

The proposed rule specified that tactile floor designations at the hoistway be 60 inches above the floor, measured from the baseline of the characters (407.2.4). In the final rule, this specification, now located at section 407.2.3.1, applies the mounting height generally required for other types of tactile signs by 703.2 (48 to 60 inches above the floor). The Board felt that there was little reason to hold hoistway signs to a more restrictive location than that specified for other types of tactile signs.

Comment. Section 407.3.1 recognizes acceptable types of elevator doors. The proposed rule recognized horizontal sliding doors. A comment indicated that other door types recognized by the elevator code should be recognized, such as vertical sliding doors.

Response. In the draft of the final guidelines, the Board had included a reference to vertical sliding doors permitted by the elevator safety code (ASME A17.1) in response to this comment. A similar change was not approved for the ANSI A117.1 standard due to concerns about such doors posing a tripping hazard to persons with vision impairments. For consistency, the Board has removed the reference to vertical sliding doors in the final rule.

Section 407.3.4 specifies door and signal timing. This provision helps ensure that elevator doors remain open long enough for persons with disabilities to travel from call buttons to the responding car and is based on a travel speed of 1½ feet per second. Destination-oriented elevators may have call buttons located outside elevator landing areas and have enhanced programming features for the response time of cars. In recognition of this, the Board has included in the final rule an exception from the door and signal timing requirements for destination-oriented elevators (407.3.4, Exception 2).

Comment. Comments recommended that the height of elevator car controls be harmonized with the ANSI A117.1 standard. Specifically, the ANSI standard specifies a maximum reach height of 48 inches for forward or side reaches. It also provides an exception that allows a maximum height of 54 inches for elevators with more than 16 openings where a parallel approach to the car controls is provided. The advisory committee also recommended lowering the maximum height for control buttons from 54 to 48 inches, consistent with its recommendations for reach ranges generally. The advisory committee recognized a potential adverse impact of a lower maximum height on elevators with panels that must have a large number of buttons in a limited amount of space and recommended an exception that would allow the 54 inch maximum height for elevators with more than 16 stops.

Response. As discussed above in section 308, the Board lowered the maximum side reach height from 54 to 48 inches. This height is the same as that specified for forward reaches. Elevator car controls are required to be within these reach ranges (407.4.6.1). Consequently, the Board has included an exception, consistent with the ANSI A117.1 standard and the advisory committee's recommendation, that allows a maximum height of 54 inches where the elevator serves more than 16 openings and a parallel approach is provided (407.4.6.1, Exception 1).

Comment. The proposed rule, in addressing elevator car controls, required that telephone-style keypad buttons, where provided, be identified by raised characters centered on the keypad button (407.2.11.2). Comments indicated that tactile characters for each button are not needed on such keypads. Support was expressed for making this requirement consistent with the ANSI A117.1-1998 standard which requires a standard keypad arrangement with a raised dot on the number 5 key which is held to specifications for braille dots and a base diameter of 0.118 to 0.120 inch. Raised characters are not required.

Response. The Board has revised the requirements for elevator keypads, now located at 407.4.6.3 and 407.4.7.2, that are consistent with the ANSI A117.1 standard. The final rule requires a standard telephone keypad arrangement with the number 5 key identified by a raised dot that complies with specifications for the base diameter and specifications for braille dots in section 703.3.1. In addition, the Board has included a requirement that the characters provided on buttons comply with visual characteristics specified in section 703.5, which covers finish and contrast, character proportion and height, stroke thickness, and other criteria.

Section 407.4.9 provides criteria for emergency two-way communication systems in elevator cars which address the height of operable parts and identification by tactile characters. The proposed rule included requirements for the cord length of provided handsets and instructions. It also required that emergency signaling devices not be limited to voice communication. These requirements have been removed in the final rule because the referenced elevator safety code (ASME A17.1), as revised, adequately addresses these features or makes them unnecessary. For example, the ASME code prohibits the use of handsets since they are easily subject to vandalism, which obviates the need for specifications concerning the cord length.

Comment. Comments recommended that the guidelines address emergency communication systems located in a closed compartment and apply the specifications for operable parts in section 309 to compartment door hardware.

Response. The Board had included such a requirement in the draft of the final guidelines (407.4.9.6). In the final rule, the Board has removed this requirement since the ASME A17.1 safety code no longer permits emergency communication systems to be located within a closed compartment. However, the Board has retained provisions it had included that clarify the application of requirements for operable parts in 309.4 to call controls (407.2.1) and car controls (407.4.6).

Comment. In order to accommodate people with hearing or speech impairments, the proposed guidelines specified that the emergency communication system not rely solely on voice communication (407.2.13 in the proposed rule). The Board sought information and product literature on emergency communication devices and communication technologies that provide two-way communication in a manner accessible to people who are deaf and others who cannot use voice communication (Question 22). Comments, particularly those from groups representing persons who are deaf or hard of hearing, strongly supported such a requirement. They considered some form of interactive communication similar to that available through TTYs essential for providing equivalent access in emergencies. However, these comments did not specifically mention any technologies that are currently available to provide such access within elevator cars.

Response. Additional requirements for emergency communication systems are not included in the final rule. Further, the Board has removed specifications concerning the method of communication since the referenced elevator safety standard contains analogous provisions. Under such provisions, emergency communication systems cannot rely solely on voice communication. The ASME A17.1 code (section 2.27) requires provision of a push button labeled “HELP” which, when activated, initiates a call for help and establishes two-way communication. A visual signal is required on the same panel as the “HELP” button to notify persons with hearing impairments that the call for help has been received and two-way communication has been established. Voice (or other audible systems) with a visual display that provides information on the status of a rescue will meet this requirement. Clearly labeled visual displays can be as simple as lighted jewels that indicate that the call for help has been activated and that the message has been received. The visual signal is also required to indicate termination of the two-way communication link.

408 Limited-Use/Limited-Application Elevators

Section 408 provides requirements for limited-use/limited-application (LULA) elevators which correspond to section 407.4 in the proposed rule. LULA elevators are typically smaller and slower than other passenger elevators and are used for low-traffic, low-rise installations. This section provides specific criteria for these elevators and also references various provisions for standard elevators covered in section 407. Thus, some changes discussed above for standard elevators also pertain to LULA elevators as well. For example, the revision to the height of call buttons in section 407.2.1.1 (which are now subject to the basic reach range requirements instead of the previously specified range of 35 to 48 inches) also applies to LULA elevators. Additional changes in the final rule that are substantive in nature pertain to hoistways, car controls, and car sizes.

Comment. Some individuals and disability groups opposed the allowance of LULA elevators due to concerns about their size and accessibility. Industry, facility operators, designers and some disability groups strongly supported LULA elevators as an alternative where a standard elevator is not required.

Response. The Board has retained provisions for LULA elevators which are only permitted in facilities not required to have any elevator or as an alternative to platform lifts (206.6). Since this kind of elevator requires less space and costs less than standard elevators, LULA elevators will provide a more viable option where a form of vertical access would otherwise not be provided. The technical criteria for LULA elevators specify minimum car sizes that ensure adequate accessibility. In addition, they are required to comply with the applicable section of the elevator safety code (ASME/ANSI A17.1, Chapter XXV).

Comment. Requirements for standard elevators require that the main entry level be labeled by a tactile star at the hoistway (407.2.3.1). In the proposed rule, such a requirement was not included for LULA elevators. Comments suggested that such a requirement be included in the final rule for consistency.

Response. Requirements for hoistway signs for LULA elevators in section 408.2.3 have been replaced with a reference to corresponding requirements for standard elevators in section 407.2.3.1. This provision includes a requirement for a tactile star at the hoistway of the main entry level.

The guidelines specify that LULA elevator cars be at least 42 inches wide and 54 inches deep with a door on the narrow end providing at least 32 inches clear width (408.4.1). In the final rule, the Board has added alternate dimensions which are substantively consistent with the latest edition of the ANSI A117.1 standard. These dimensions permit a car at least 51 inches by 51 inches provided that the door has a clear width of at least 36 inches (408.4.1, Exception 1).

409 Private Residence Elevators

Residential dwelling units may be equipped with either a LULA elevator or a private residential elevator instead of a standard passenger elevator (206.6). Section 409 provides requirements for private residential elevators, which were located at section 1102.7 in the proposed rule. In the final rule, call buttons are subject to requirements in section 309 for operable parts, including clear floor space (309.2), height (309.3), and operation (309.4) according to section 409.2. In the proposed rule, they were subject only to requirements for height. In addition, the Board has applied requirements for the operation of operable parts (309.4) to controls (409.4.6) and the operable parts of emergency communication systems (409.4.7.2). No other substantive changes have been made to this section.

410 Platform Lifts

Section 410 provides requirements for platform lifts and addresses floor surfaces, clear floor space, operable parts, and doors and gates. This section has been updated to reference the new ASME A18.1 Safety Standard for Platform Lifts and Stairway Chairlifts (410.1). This standard was under development when the proposed rule was published. This section has been reformatted and changes made to the specifications for doors and gates.

Comment. Platform lifts are required to have power-operated doors or gates. Those with doors or gates on opposing sides generally facilitate lift use by permitting a forward approach to both entry and exit doors or gates. As a result, these types of lifts are permitted to have a manual door or gates. The guidelines specify that manual doors or gates be “self-closing” (410.5, Exception). Comments noted that since the ASME/ANSI A18.1 standard requires such doors and gates to be self-closing, the specification in the rule was redundant.

Response. The Board has retained the requirement that manual doors or gates be self-closing (401.5, Exception) for consistency with the new ANSI A117.1 standard. In addition, the Board has added clarification, consistent with the ANSI standard, that the exception in section 410.5 does not apply to platform lifts serving more than two landings.

Comment. Commenters stressed that platform lifts should not be key operated.

Response. Previous editions of the safety code for lifts, not the Board's guidelines, required platform lifts to be key operated. The most recent edition of the ASME standard, which the final rule references, does not contain a requirement for key operation.

Chapter 5: General Site and Building Elements

Chapter 5 provides technical criteria for parking spaces (502), passenger loading zones (503), stairways (504), and handrails (505).

502 Parking Spaces

Section 502 addresses car parking spaces and van parking spaces. Substantive changes pertain to the:

• Width of spaces, including van spaces, and access aisles (502.1 and 502.2).

• Location of access aisles for angled van spaces (502.3.4).

• Identification of van spaces (502.6).

• Adjacent accessible routes (502.7).

In the final rule, the Board has clarified how parking spaces and access aisles are to be measured. Where parking spaces are marked with lines, the width of parking spaces and access aisles is to be measured from the centerline of the markings (502.1). However, at spaces or access aisles not adjacent to another parking space or access aisle, width measurements are permitted to include the full width of the line defining the parking space or access aisle (502.1, Exception).

Comment. The proposed rule specified that car and van spaces be at least 8 feet wide and that access aisles be at least 5 feet wide for car spaces and at least 8 feet wide for van spaces. These specifications are consistent with the original ADAAG. However, that document also recognized an alternative “universal” design under which all spaces are designed to be accessible for vans or cars by incorporating additional space in the parking space instead of the access aisle. Under this design, parking spaces are at least 11 feet wide and access aisles at least 5 feet wide. Commenters requested that this design be recognized in final rule, at least for the portion of spaces required to be van accessible. Comments pointed out certain benefits of the alternative design, such as access aisles that are less likely to be mistaken for another parking space.

Response. The final rule includes specifications for alternative van parking spaces based on the “universal” design specifications (502.2). Van spaces are required to be at least 11 feet wide and to have an access aisle at least 5 feet wide. An exception allows van spaces to be 8 feet wide where the access aisle is at least 8 feet wide, which is consistent with the specifications of the proposed rule and the original ADAAG.

Comment. Requirements for access aisles in section 502.3 address width, length, marking, and location. Two spaces are permitted to share an access aisle. The proposed rule, consistent with the original ADAAG, allowed access aisles to be provided on either side of the parking space. Many commenters urged the Board to revisit this issue, particularly with respect to van parking. The lift provided on vans is typically located on the passenger side. It is important, especially where front-in only parking is provided, that the access aisle be located on the passenger side of van spaces.

Response. The Board has included a requirement that where angled spaces are provided, the access aisle must be located on the passenger side of van spaces (502.3.4). Otherwise, this provision permits access aisles to be located on either side of the space since drivers can pull in or back into spaces as needed.

To harmonize the guidelines with the ANSI A117.1-2003 standard, the Board has added clarification that access aisles are not permitted to overlap vehicular ways (502.3.4).

Comment. The proposed rule removed a requirement that the access designation for van parking include the term “van accessible” to clarify that both car and van drivers can use such spaces, as was the original intent of ADAAG. Many commenters strongly opposed this change. While some may have misinterpreted it as removal of the requirement for van accessible spaces, others considered this designation important in encouraging car drivers to use other accessible spaces over those designed to accommodate vans.

Response. The Board has restored the requirement that the designation of van spaces include the term “van accessible” (502.6). This designation is not intended to restrict the use of spaces to vans only, but instead to identify those spaces better suited for vans. An advisory note to this effect is included in the final rule.

Comment. The proposed rule removed language in the original ADAAG that vehicles parked in accessible spaces not reduce the clear width of connecting accessible routes. The Board had considered this requirement redundant in view of specifications for accessible routes in section 402. Many commenters disagreed and urged that such a requirement be restored in the final rule. Some comments pointed out that the ANSI A1171.1 standard, like the original ADAAG, specifies that “parked vehicle overhangs shall not reduce the clear width of an accessible route.”

Response. The Board has added a requirement that spaces and access aisles be designed so that parked vehicles “cannot obstruct the required clear width of adjacent accessible routes” (502.7). A typical design solution where accessible routes run in front of spaces is the provision of wheel stops that help prevent encroachment into the accessible route.

503 Passenger Loading Zones

Few comments addressed the technical requirements for passenger loading zones, and no substantive changes to them have been made. For consistency with the ANSI A117.1 standard, the Board has clarified in the final rule that access aisles required at passenger loading zones are not permitted to overlap vehicular ways (503.3).

504 Stairways

Section 504 covers stairways, including treads, risers, nosings, and handrails. This section requires that landings subject to wet conditions be designed to prevent the accumulation of water (504.7). In the final rule, the Board has revised this requirement to apply to stair treads, as well as landings. No other substantive changes have been made to this section.

505 Handrails

Specifications for handrails in section 505 apply to those provided at ramps, stairs, and along walking surfaces. Revisions made to this section concern:

• Coverage of handrails provided along walking surfaces (505.1).

• Exceptions for aisle stairs and short ramps (505.2).

• Handrails at switchback or dogleg stairs and ramps (505.3).

• Gripping surfaces (505.6 and 505.8).

• Extensions (505.10).

Handrails are required along both sides of ramps and stairs. The Board has included a requirement (403.6) that handrails, where provided along walking surfaces, comply with section 505, as discussed above. The term “walking surfaces” applies to portions of accessible routes that are not treated as ramps because the running slope is less than 1:20. Consistent with this change, provisions in section 505 have been modified to specifically reference walking surfaces, including the general charging statement at 505.1. Walking surfaces are not subject to requirements for handrails on both sides (505.2) or handrail extensions (505.10).

In the final rule, an exemption from the requirements for stairways, including handrails, has been included for aisle stairs in assembly areas (210.1, Exception 3). An exception from the requirement for handrails on both sides for aisle ramps and aisle stairs has been revised for consistency. Specifically, the reference to aisle stairs in this exception has been removed as redundant.

Specifications for ramps require handrails only at ramps with a rise greater than 6 inches (405.8). Curb ramps are not subject to handrail requirements. The Board has removed as redundant an exception in the handrail section for ramps with a rise of 6 inches maximum (505.2, Exception 2).

The guidelines require handrails to be continuous within the full length of stair flights and ramp runs (505.3). The Board has added clarification, consistent with the original ADAAG, that the inside handrail at switchback or dogleg stairs and ramps be continuous. This change was made for consistency with the ANSI A117.1 standard.

Comment. The proposed rule specified that gripping surfaces be continuous and unobstructed by elements, including newel posts (505.6). An exception permitted brackets and balusters attached to the bottom of a handrail provided they did not obstruct more than 20% of the handrail length, their horizontal projection was at least 2½ inches from the bottom of the handrail, and their edges had a radius of at least ⅛ inch. Comments from the handrail industry, including manufacturers, trade associations, and others, indicated that these stipulations would effectively prohibit many common fabrication methods and would be unduly costly and burdensome on the industry while promising limited access benefits. Specifically, these comments indicated that many materials currently used will not meet the minimum ⅛ inch radius specifications. In addition, commenters claimed many current mounting brackets do not meet the 2½ inch minimum requirement for horizontal projections below the handrail, which is inconsistent with the 1½ inch minimum specified by model building codes. They also would preclude use of panels below handrails, which have become popular in meeting code requirements that prohibit openings in railings through which a 4 inch sphere can pass. Manufacturers stated that they have not received complaints about sharp edges and that some railing cross sections have been used for many years without injury. Opposing comments referred to ergonomic studies which support a 2¼ inch clearance below the handrail.

Response. The Board has revised some of the specifications for gripping surfaces in section 505.6 in order to accommodate a wider range of handrail materials and designs. The revised provisions prohibit obstructions on the top and sides of handrails, while the bottom may be obstructed up to 20% of the handrail length. This is generally consistent with the proposed rule. The Board believes that such a requirement will still permit popular designs such as panels under handrails so long as they are not directly connected to the entire length of the bottom of the handrail gripping surface. The requirement that horizontal projections occur 2½ inches minimum below the bottom of gripping surfaces has been changed to 1½ inches, consistent with model building codes and industry practice. In addition, the Board has added an exception for handrails along walking surfaces that permits obstructions along the entire bottom length that are integral to crash rails and bumper guards (505.6, Exception 1). Another exception, consistent with the ANSI A117.1-2003 standard and recommended by a comment to the draft of the final guidelines, allows the distance between horizontal projections and the gripping surface bottom to be reduced by ⅛ inch for each ½ inch of additional handrail perimeter dimension exceeding 4 inches (505.6, Exception 2). A requirement that bracket or baluster edges have a radius of ⅛ inch minimum has been removed. A similar specification for handrail surface edges in section 505.8 has been replaced with a requirement for “rounded edges.”

Comment. Handrail extensions are required at the top and bottom of stairs. In the proposed rule, bottom extensions were required to extend one tread depth beyond the last riser nosing and an additional 12 inches (505.10.3). Comments advised that the requirement for the additional 12 inch segment should be removed, consistent with the ANSI A117.1 standard. Some comments also questioned the need for this segment at the bottom of stairs.

Response. The Board has removed the requirement that handrails extend an additional 12 inches at the bottom of stairs.

Chapter 6: Plumbing Elements and Facilities

Chapter 6 provides criteria for drinking fountains (602), toilet and bathing rooms (603), water closets and toilet compartments (604), urinals (605), lavatories and sinks (606), bathtubs (607), shower compartments (608), grab bars (609), tub and shower seats (610), laundry equipment (611), and saunas and steam rooms (612). Alternate specifications are provided for plumbing elements designed for children's use as exceptions to requirements based on adult dimensions. These exceptions address drinking fountains, water closets, toilet compartments, lavatories and sinks.

602 Drinking Fountains

Specifications for drinking fountains in section 602 address access for people who use wheelchairs (602.2 through 602.6) and for people who do not, but who may have difficulty bending or stooping (602.7). Substantive changes to this section include:

• Removal of references to water coolers (602.1).

• Requiring all wheelchair accessible drinking fountains to provide knee and toe clearance for a forward approach (602.2).

• Lowering the minimum height of drinking fountains for standing persons (602.7).

Comment. The proposed rule, consistent with the original ADAAG, addressed both drinking fountains and water coolers. Comments advised that the guidelines should not address “water coolers,” a term which is often used to refer to bottled units that are not plumbed or permanently fixed.

Response. The Board has removed the references to “water coolers” in section 602.1 for clarity and consistency with the scope of the guidelines.

Comment. For wheelchair access, the proposed rule required a forward approach at cantilevered units but allowed a parallel approach at other types of units, such as those that are floor mounted. A forward approach provides easier access than a parallel approach for people using wheelchairs. The Board sought comment on whether it should require a forward approach, which includes knee and toe clearances below the unit, at all wheelchair accessible drinking fountains (Question 24). Commenters overwhelmingly supported such a requirement as more appropriate for wheelchair access.

Response. The Board has revised the rule to require a clear floor space for a forward approach at all wheelchair accessible drinking fountains (602.2). Corresponding changes have been made to the specifications for spout location (602.5). An existing exception for units designed specifically for children's use permits a parallel approach if certain criteria for spout height and location are met.

Comment. The proposed rule required spouts to provide a flow of water at least 4 inches high “to allow the insertion of a cup or glass.” A comment noted that the rationale for this specification is not needed in the text of the requirement and might be misinterpreted as allowing cup dispensers as an alternative to accessible units.

Response. Language concerning the insertion of cups has been removed as unnecessary to the water flow specification. The minimum 4 inch height is intended to allow use of cups for persons who may need to use them. However, providing cup dispensers as an alternative to a compliant unit is not recognized by these guidelines in new construction or alterations.

Comment. Specifications for drinking fountains for standing persons address the height of the spout outlet (602.7). The proposed rule required a height of 39 to 43 inches above the floor or ground, a range that derives from the standard height of models on the market. A drinking fountain manufacturer requested that the minimum height be changed from 39 to 38 inches, consistent with referenced ergonomic data. This commenter advised that a 38 inch height will accommodate units that are intended to serve both adults and children.

Response. The minimum height for the spout outlet of units designed for use by standing persons has been lowered from 39 to 38 inches.

603 Toilet and Bathing Rooms

Section 603 covers toilet and bathing rooms and includes requirements for clear floor space, wheelchair turning space, permitted overlaps of various space requirements, and doors. Doors are not permitted to swing into clear floor space or clearance required for any fixture except under certain conditions (603.2.3). The Board has added clarification to this requirement, previously located in an advisory note, that doors are permitted to swing into the required wheelchair turning space.

The guidelines specify that accessible mirrors be mounted so that the bottom edge of the reflecting surface is no higher than 40 inches (603.3). The ANSI A117.1-2003 standard contains a new requirement that specifies a height of 35 inches maximum for accessible mirrors not located above a lavatory or countertop. This specification was adopted to accommodate persons of short stature. The Board has included a similar requirement in the final rule.

604 Water Closets and Toilet Compartments

Section 604 addresses access to water closets and toilet compartments. Revisions to the requirements for water closets concern:

• Location (604.2).

• Clearance (604.3).

• Grab bars (604.5).

• Flush controls (604.6).

• Dispensers (604.7).

• Toilet compartments (604.8), including those designed for children's use (604.9).

In addition, provisions specific to water closets in residential dwelling units that were located in Chapter 11 in the proposed rule have been incorporated into this section. These include requirements for space at water closets (604.3), seat height (604.4), and grab bars (604.5).

Water closets are to be located so that the centerline is 16 to 18 inches from the side wall compartment partition (604.2). Water closets can be located so that this dimension is met on either the left side or the right side of the fixture. The Board has added clarification in the final rule that water closets shall be arranged for a left-hand or a right-hand approach. The proposed rule specified that water closets in ambulatory accessible stalls (which are required to be 36 inches wide) be “centered.” In the final rule, the Board has revised this provision to recognize a range (17 to 19 inches) for the centered location that is consistent in scope (2 inches) with the specification for water closets in wheelchair accessible compartments. A corresponding change has been made to the provisions for water closets designed for children's use (604.9.1).

Comment. Clearance requirements for water closets are covered in section 604.3. The proposed rule stated that no fixtures (other than the water closet) or obstructions were to be located within the clear floor space (604.3.1). Comments noted that this seemed to contradict a subsequent provision that allowed grab bars and dispensers to overlap this space (604.3.2).

Response. Language prohibiting fixtures and obstructions within the required clearances in section 604.3.1 has been removed. Section 604.3.2 recognizes those elements that are permitted to overlap this clearance.

Comment. The proposed rule identified certain elements that could overlap the clear floor space at water closets: associated grab bars, tissue dispensers, accessible routes, clear floor space at other fixtures, and wheelchair turning space (604.3.2). Commenters advised that other elements, such as coat hooks should be included, as well as other types of dispensers, such as those for toilet seat covers. In addition, the new ANSI A117.1 standard includes a reference to sanitary napkin disposal units.

Response. In the list of elements permitted to overlap water closet clearances, the Board has added references to “dispensers,” “sanitary napkin disposal units,” “coat hooks,” and “shelves” (604.3.2).

Comment. Water closets not in compartments require clearance that is at least 60 inches wide and 56 inches deep. Many comments urged the Board to increase this depth so that at least 48 inches is provided in front of the water closet. Others recommended an overall depth of 78 inches.

Response. The Board has not revised the minimum dimensions for the clear floor space at water closets. Other criteria for toilet rooms, including turning space, maneuvering space at doors, and clearances at other fixtures, typically results in additional clearance at water closets not in compartments. The 48 inch specification measured from the leading edge of the water closet is derived from the ANSI A117.1-1992 standard. That specification was removed from the 1998 edition of the ANSI standard because it was extremely difficult to enforce due to the varying installation styles and sizes of water closets. However, the Board has revised the specified depth in residential dwelling units where lavatories are permitted to overlap the space aside water closets.

Other fixtures, such as lavatories, generally are not permitted to overlap the clearance required at water closets. However, in residential dwelling units, an accessible lavatory adjacent to water closets can overlap this space (18 inches minimum from the water closet centerline) if additional space is provided in front of the water closet. Specifically, the depth of the clearance must be at least 66 inches instead of 56 inches (604.3.2, Exception). The proposed rule required this additional space in front of the fixture where only a forward approach to the water closet is provided (1102.11.5.2). It did not require additional space where a side approach to the water closet is provided. Locating lavatories outside the specified water closet clearance allows more options in the approach and transfer to water closets. The overlap of an adjacent lavatory effectively precludes side transfers to the water closet. The Board believes that additional space where lavatories overlap water closet clearances can be beneficial regardless of the approach direction. In the final rule, the 66 inch minimum depth applies whether a forward or a parallel approach to the water closet is provided. The proposed rule also allowed a minimum width for the clearance of 48 inches instead of 60 inches where a lavatory overlaps the space, regardless of the approach (1102.11.5.2). In effect, however, space at least 60 inches wide is needed in meeting other requirements, such as the clear floor space required at the adjacent lavatory and wheelchair turning space. Consequently, the Board has removed the 48 inch specification in the final rule.

Specifications for grab bars are addressed in section 604.5. Grab bars are required on one side wall and the rear wall. Exceptions from this requirement are provided for residential dwelling units, where grab bars can be installed later so long as the proper reinforcement is installed in walls as part of design and construction (Exception 2), and for holding or housing cells specially designed without protrusions for purposes of suicide prevention (Exception 3). In the proposed rule, these exceptions were located in the chapter on residential dwelling units (1102.11.5.4) and the scoping section for detention and correctional facilities (233.3).

Comment. The proposed rule specified that the rear grab bar be 24 inches long minimum, centered on the water closet, or at least 36 inches long “where wall space permits” (604.5.2). Commenters considered this provision confusing and requested clarification on where the 24 inches would be permitted. Some comments urged removal of the 24 inches specification.

Response. The proposed rule included provisions that make clear floor space requirements at water closets more stringent by not allowing other fixtures, such as lavatories to overlap the space. Saving space by locating a lavatory closer to the water closet on the same plumbing wall could only be accomplished by recessing the lavatory so that it does not overlap the clear floor space at the water closet. A grab bar 36 inches long would limit the amount of space saved in recessing an adjacent lavatory. For clarity, the Board has revised this allowance as an exception. In the final rule, section 604.5.2 requires the rear grab bar to be 36 inches long minimum. An exception allows a 24 inch long minimum grab bar, centered on the water closet, “where wall space does not permit a length 36 inches minimum due to the location of a recessed fixture adjacent to the water closet” (604.5.2, Exception 1).

Comment. Section 604.6 covers flush controls, which must be hand operated or automatic. Hand operated types are subject to requirements for operable parts, including reach ranges, addressed in section 309. The original ADAAG specified that the controls be located on the wide side of the water closet. Comments requested that this specification be restored since controls on the wide side of water closets are easier to access.

Response. The final rule includes a requirement that “flush controls shall be located on the open side of the water closet except in ambulatory accessible compartments' (604.6).

Comment. Requirements for toilet paper dispensers in section 604.7 include specifications for height. They must be mounted at least 1½ inches below grab bars or, according to the proposed rule, at least 12 inches above. Commenters noted that the 12 inch minimum was inconsistent with provisions for grab bars in section 609 which specify a minimum clearance of 15 inches between grab bars and protruding objects above them (609.2). Some commenters felt that toilet paper dispensers should not be allowed above grab bars in any case since the large roll type, which often cannot fit below grab bars, compromise the usability of the grab bar.

Response. In the final rule, the specified clearance between grab bars and dispensers mounted above them has been revised for consistency with the grab bar specifications in section 609. Specifications in section 604.7 concerning this clearance have been removed since the required clearance between dispensers and grab bars is adequately covered in section 609, which, as revised, requires a minimum clearance of 12 inches above grab bars and a minimum clearance of 1½ inches below grab bars (609.3). This may effectively preclude some dispensers from being located above grab bars in view of the minimum mounting height of grab bars (33 inches, measured to the top of the gripping surface) and the maximum height for the dispenser outlet (48 inches). Since some dispensers may be recessed, the Board has added clarification in section 604.7 that dispensers cannot be located behind grab bars.

Section 604.8 provides requirements for wheelchair accessible compartments and those that are designed to accommodate persons with disabilities who are ambulatory.

Comment. Commenters noted that baby changing tables should not be permitted in accessible compartments since they can interfere with access. On the other hand, some comments advised that baby changing tables need to be accessible.

Response. The specified dimensions of toilet compartments provide the minimum amount of space necessary for wheelchair maneuvering into the compartment, positioning at the fixture, and exit from the compartment. Certain elements are permitted to overlap space at water closets, such as grab bars, paper dispensers, and coat hooks (604.3.2). Other elements, including baby changing tables, are not allowed to overlap the minimum amount of space required in compartments. Where such elements are provided in accessible compartments, they must be located outside the minimum space dimensions (when folded up in the case of baby changing tables). In addition, convenience fixtures, such as baby changing tables, must be accessible to persons with disabilities under scoping provisions for operable parts (205) and work surfaces (226). This information is provided in the final rule in an advisory note at section 604.8.1.1.

Comment. Specifications are provided for doors, including their location. The proposed rule specified the location of doors in the front partition, which were required to be hinged 4 inches from the side wall or partition farthest from the water closet (604.8.1.2). Comments suggested that an alternate location in the side partition farthest from the water closet should be allowed, consistent with the original ADAAG. Commenters also pointed out that the specified location should refer to the door opening, instead of the hinge.

Response. Specifications for the location of compartment doors in side partitions are included in the final rule, consistent with the original ADAAG. The specified location in either front and side locations has been revised to apply to the door opening, instead of the hinge.

Comment. The proposed rule referred to ambulatory accessible compartments as “non-wheelchair accessible” compartments. Commenters considered this term confusing since it also encompasses inaccessible compartments. Preference was expressed for “ambulatory accessible” compartments, the term used by the advisory committee.

Response. The term “non-wheelchair accessible” compartments has been replaced with “ambulatory accessible” compartments.

Ambulatory accessible compartments were specified to be 36 inches wide absolute in the proposed rule, consistent with the original ADAAG. Throughout the new guidelines, the Board has sought to specify dimensions as a range instead of in absolute terms where practicable to facilitate compliance without compromising accessibility. The width of ambulatory compartments is specified to ensure that the grab bars required on both sides are simultaneously within reach. In the final rule, the Board has replaced the 36 inch wide specification with a range of 35 to 37 inches.

Section 604.9 provides specifications for water closets designed for children's use. In the proposed rule, this section included criteria for wheelchair accessible compartments. In the final rule, requirements have been integrated in the section covering wheelchair accessible compartments for adults (604.8.1) to reduce redundancy.

605 Urinals

Section 604.5 provides criteria for accessible urinals, including the height and depth, clear floor space, and flush controls.

Comment. In the proposed rule, the Board sought to clarify the requirement in the original ADAAG that accessible urinals have an “elongated” rim by specifying a minimum dimension of 13½ inches, measured from the outer face of the urinal rim to the back of the fixture (605.2). Comments were evenly divided on this new specification.

Response. The Board has retained the minimum depth specification without modification. However, in the final rule scoping for accessible urinals has been revised to apply only where more than one urinal is provided in a toilet or bathing room (213.3.3).

Requirements for urinal flush controls are provided in section 605.4. The proposed rule specified a maximum height of 44 inches (the maximum height for obstructed forward reaches). In the final rule, this requirement has been revised to reference section 309 which provides specifications for operable parts, including accessible reach ranges. This change is consistent with the ANSI A117.1-2003 standard.

606 Lavatories and Sinks

Section 606 provides technical criteria for lavatories and sinks. Various scoping and technical provisions invoke these requirements for lavatories in toilet and bathing facilities and for sinks provided in dwelling unit kitchens, kitchenettes in transient lodging guest rooms, and other spaces, such as break rooms. Revisions made to this section include:

• Clarifying the scope of this section (606.1).

• Adding a new exception that allows a parallel approach at kitchen sinks in spaces where a cook top or conventional range is not provided (606.2, Exception 1).

• Clarifying coverage of metering faucets (606.4).

In addition, allowances specific to lavatories and kitchen sinks in residential dwelling units have been relocated to this section from Chapter 11. These specifications concern clear floor space requirements (606.2, Exception 3) and heights (606.3, Exception 2).

Comment. The proposed rule included references to “lavatory fixtures” and to “vanities.” Commenters indicated that such references were redundant or inaccurate and should be removed.

Response. References to “lavatory fixtures” and “vanities” have been removed in the final rule (606.1).

Accessible lavatories and sinks must provide knee and toe clearance for a forward approach (606.2). Consistent with the proposed rule, exceptions from the requirement for forward approach clearances are provided for certain types of spaces and fixtures, such as single-user toilet or bathing facilities accessed only through a private office (Exception 2), lavatories and kitchen sinks in residential dwelling units provided certain conditions to facilitate retrofit for a forward approach are met (Exception 3), and fixtures designed specifically for children 5 years and younger (Exception 5).

Comment. Commenters recommended that a parallel approach should be allowed at kitchen sinks in spaces without a cook top or conventional range, consistent with the ANSI A117.1 standard. Several comments considered a parallel approach to be appropriate at kitchenette sinks in transient lodging guest rooms, consistent with the original ADAAG, and sinks in employee break rooms, since such fixtures are typically used for limited purposes or durations.

Response. The final rule includes an exception, consistent with the ANSI A117.1 standard, that allows a complying parallel approach to kitchen sinks in spaces where a cook top or conventional range is not provided (606.2, Exception 1). This exception also applies to wet bars.

Comment. Faucets, including hand-operated metering faucets, must remain open for at least 10 seconds (606.4). The proposed rule referred to these as “self-closing” faucets. Commenters indicated that “metering” is a descriptor that is more accurate and consistent with plumbing codes.

Response. The reference to “self-closing” faucets has been replaced with “metering” faucets in the final rule.

607 Bathtubs

Specifications for bathtubs in section 607 address clear floor space, seats, grab bars, operable parts, shower spray units, and enclosures. Changes made to this section include:

• Revision of grab bar mounting heights (607.4).

• Integration of provisions for grab bars specific to residential dwelling units that were located in Chapter 11 (607.4, Exception 2).

• Revision of specifications for shower spray units and water temperature (607.6).

Two parallel grab bars are required on the back wall of bathtubs with seats (607.4.1.1) and without seats (607.4.2.1). The proposed rule, consistent with the original ADAAG, specified that the lower grab bar be located 9 inches absolute above the bathtub rim. In finalizing this rule, the Board has sought to specify dimensions as a range instead of in absolute terms where possible to facilitate compliance without compromising accessibility. With respect to the lower grab bar at bathtubs, the specified mounting height has been changed to a range of 8 inches minimum to 10 inches maximum above the rim of the bathtub.

Comment. The guidelines require tubs to have shower spray units that can be used as both a fixed-position shower head and a hand-held shower (607.6). In the proposed rule, the Board included a requirement that shower spray units have a water on/off control for greater access. It was also specified that units deliver water that is thermal shock protected to 120 degrees. Comments from persons with disabilities strongly supported the requirement for the on/off control. However, comments from the plumbing industry indicated that the requirement, as worded, would pose cross connections and thermal shock hazards and would conflict with model codes and industry standards. Comments also noted that delivered water should be “temperature limited” to the specified maximum (120 degrees) for consistency with American Society of Safety Engineers (ASSE) standards.

Response. In response to concerns raised about the on/off control for spray units the Board has modified this requirement to include an on/off control “with a non-positive shut-off.” This will prevent cross connections and does not conflict with plumbing codes. In addition, while the phrase “temperature limited” was not deemed necessary, the specification for water temperature has been revised to require that delivered water be 120 degrees maximum for consistency with ASSE standards. Corresponding revisions have been made to similar requirements for shower compartments (608.6).

608 Shower Compartments

Section 608 addresses transfer showers and roll-in showers and provides specifications for size and clearances, grab bars, seats, operable parts, shower spray units, thresholds, and enclosures. Revisions made to this section address:

• Clearance requirements for roll-in showers (608.2.2).

• Alternate roll-in showers (608.2.3).

• Shower seats (608.4).

• The location and operation of controls, faucets, and spray units (608.5).

• Shower spray units and water temperature (608.6.)

• A new exception for fixed shower heads (608.6).

• Thresholds (608.7).

In addition, provisions specific to showers in residential dwelling units that were located in Chapter 11 have been incorporated into this section. These provisions concern grab bars (608.3, Exception 2) and shower seats (608.4, Exception).

Comment. Specifications for roll-in shower compartments indicate that an accessible lavatory can overlap the required clear floor space opposite the end with a seat and shower controls (608.2.2). Comments recommended that this provision be revised to recognize that a seat may not always be located in a roll-in shower.

Response. The Board has clarified that accessible lavatories are permitted to overlap clear floor space “opposite the shower compartment side where shower controls are positioned or where a seat is positioned” (608.2.2.1, Exception). Clarification is also provided that lavatories can be provided at either end of the space at roll-in showers without seats where controls are mounted on the back wall.

Comment. Specifications are provided for alternate roll-in showers, including their size and the location of entries (608.2.3). Comments indicated that this provision should be more specific in detailing the design illustrated (Figure 608.2.3).

Response. More detail is provided in the final rule for the configuration of alternate roll-in type showers consistent with the intent of the proposed rule. The revised language clarifies the location of the entry at the end of the long side of the compartment (608.2.3).

Comment. Seats are required in transfer compartments and roll-in showers in transient lodging guest rooms (608.4). The proposed rule indicated that transfer compartments may have “attachable or integral seats,” while folding seats were specified for roll-in showers provided in transient lodging guest rooms.

Response. The Board has revised the rule to permit “folding or non-folding” seats in transfer compartments. A certain portion of accessible guest rooms are required to have bathrooms with roll-in showers (224.2). The requirement for folding seats has been revised to apply only to those roll-in showers “required” in transient lodging guest rooms. For example, a hotel with 100 guest rooms would be required to have at least 5 guest rooms that are accessible, one of which would have to provide a roll-in shower; the shower provided in this room would be required to have a folding seat, while the other 4 rooms could be equipped with either tubs, transfer showers, roll-in showers with or without seats, or some combination thereof.

Comment. In transfer compartments, controls, faucets, and shower spray units were to be located no more than 15 inches on either side of the seat centerline, according to the proposed rule (608.5.1). Comments indicated that this specification was not consistent with a corresponding figure showing the location on the side closest to the shower opening.

Response. The final rule has been revised to require that controls and operable parts be located 15 inches maximum from the centerline of the seat toward the shower opening. This is consistent with the intent of the specification so that users can activate the controls before entering the shower.

Specifications for controls, faucets, and shower spray units for alternate roll-in showers are provided in section 608.5.3. In the final rule, the Board has clarified these specifications and provided more detail on their location depending on whether the shower is equipped with a seat. In addition, the final rule allows shower controls, faucets, and shower spray units to be located on the wall adjacent to the seat, as proposed, or on the back wall opposite the seat. These revisions are consistent with similar clarifications in the latest edition of ANSI A117.1 standard.

Showers, like bathtubs, are required to be equipped with movable shower spray units that can be used as a fixed-position shower head and a hand-held shower (608.6). Specifications have been revised in the final rule, consistent with similar requirements for bathtubs, in response to concerns raised by commenters about the on/off control and water temperature as specified in the proposed rule, discussed above at section 607.6.

Comment. The original ADAAG allowed fixed shower heads 48 inches high maximum to be used instead of the required hand-held unit in “unmonitored facilities where vandalism is a consideration.” This exception had been removed in the proposed rule due to a lack of clarity on the types of facilities that qualify for this exception. Commenters urged the Board to retain this exception due to problems with vandalism which would increase maintenance at accessible transfer showers.

Response. The final rule includes an exception permitting a fixed shower head in certain facilities (608.6, Exception). The Board has limited this exception so that it does not apply to facilities where vandalism is less likely to occur because the use of bathing facilities is controlled or because incidents of vandalism are traceable. These include bathing facilities in medical care facilities, long term care facilities, transient lodging guest rooms, and residential dwelling units.

Comment. The proposed rule specified a maximum threshold height of ½ inch, provided that those greater than ¼ inch are beveled with a slope of 1:2 maximum (608.7). This provision applied to roll-in showers and to transfer showers. Commenters recommended that a higher threshold be permitted for transfer showers since wheelchair maneuvering over the threshold is not necessary in using the shower.

Response. The Board retained the ½-inch threshold height since positioning for transfer to the seat of transfer showers can be aided where a close approach enables footrests to clear the threshold. However, the Board has revised the specification to allow thresholds at transfer compartments to be vertical or rounded instead of beveled. In addition, the Board has provided an exception for existing facilities to address situations where meeting the maximum threshold height, which is typically achieved by recessing shower pans into the floor, is difficult, if not infeasible, due to certain floor slabs. The final rule includes an exception that permits a threshold up to 2 inches high at transfer showers in existing facilities where providing a ½-inch threshold would disturb the structural reinforcement of the floor slab (608.7, Exception).

609 Grab Bars

Section 609 covers grab bars at water closets, bathtubs, and showers. Specifications address size, spacing, position, surfaces, fittings, and structural strength. Changes to this section address:

• Cross section specifications (609.2).

• Spacing (609.3).

• Location (609.4).

• Surface hazards (609.5).

The proposed rule specified 1¼ to 1½ circular cross sections. Non-circular cross sections were to have maximum cross section dimensions of 2 inches, a perimeter dimension between 4 and 4 11/16 inches, and edges with a ⅛-inch minimum radius. For consistency with specifications for handrails, the Board has revised requirements for size (609.2) and spacing (609.3). In the final rule, the maximum circular cross section has been changed from 1½ inches to 2 inches. Edges must be rounded, and the requirement that edges have a ⅛-inch minimum radius (609.2 in the proposed rule) has been removed. The Board has clarified that the space between grab bars and projecting objects below and at the ends shall be 1½ inches minimum, consistent with criteria for water closets, tubs, and showers (609.3). In addition, the minimum clearance between grab bars and protruding objects above has been changed from 15 inches to 12 inches (609.3), consistent with specifications for toilet paper dispensers included in the proposed rule (604.7) and the ANSI A117.1-2003 standard.

Comment. Commenters pointed out the proposed rule was not clear on whether the height of grab bars was to be measured to the top or to the centerline.

Response. The Board has clarified that the height of grab bars is measured to the top of the gripping surface (609.4).

610 Seats

Requirements for bathtub and shower seats are provided in section 610.

Comment. Specifications are provided for rectangular and L-shaped shower seats (610.3). The Board sought comment on whether one shape is more usable and accessible than the other (Question 25). Comments were evenly divided in supporting one design over the other. Some comments supported both designs or indicated that there was little difference in access or usability between the two.

Response. No changes have been made to the specifications for shower seats. Either rectangular or L-shaped seats may be provided in transfer and roll-in showers.

The guidelines specify the location of seats in tubs, transfer-type showers, and roll-in showers. In the final guidelines, the Board has clarified the location of seats in roll-in showers and alternate roll-in type showers. These changes are consistent with revisions to the placement of shower controls and spray units in alternate roll-in shower stalls (605.8.3).

611 Washing Machines and Clothes Dryers

Section 611 covers washing machines and clothes dryers and provides specifications for clear floor space, operable parts, and height.

Comment. The proposed rule required the door of top loading machines and the door opening of front loading machines to be 34 inches maximum above the floor (611.4). This dimension stems from specifications for obstructed side reaches (308.3). Laundry machine manufacturers stated that this specification is inconsistent with standard industry design, which allows a 36-inch height. Commenters indicated that compliance with the proposed specification would reduce machine capacity and would be difficult to achieve.

Response. The Board has revised the maximum height for doors on top loading machines and the door opening of front loading machines from 34 inches to 36 inches (611.4).

612 Saunas and Steam Rooms

Section 612 provides requirements for saunas and steam rooms and includes requirements for benches and turning space. This section derives from the guidelines the Board developed for recreation facilities and has been included in the final rule without substantive change.

Chapter 7: Communication Elements and Features

Chapter 7 covers communication elements and features, including fire alarm systems (702), signs (703), telephones (704), detectable warnings (705), assistive listening systems (706), automatic teller machines and fare machines (707), and two-way communication systems (708).

702 Fire Alarm Systems

The proposed rule provided detailed specifications for the audible and visual characteristics of fire alarm systems, including the sound level and the color, intensity, flash rate, location, and dispersion of visual appliances. Through coordination with the National Fire Protection Association (NFPA) and ANSI, which were represented on the ADAAG Review Advisory Committee, the proposed criteria were virtually identical to updated requirements in the NFPA 72 (1996) and the ANSI A117.1 standards. However, the Board had proposed a lower maximum sound level for audible alarms (110 decibels instead of 120 decibels) as more appropriate and to guard against tinnitus.

Comment. Comments from the codes community and designers urged the Board to reference the NFPA alarm criteria for purposes of consistency and simplicity, instead of restating very similar requirements in the guidelines.

Response. Since the technical provisions in the proposed rule were substantively identical to the NFPA 72, except for the maximum sound level, the Board has replaced the technical requirements for fire alarm systems with a requirement that such systems comply with NFPA 72, Chapter 4 (702.1). However, the Board has retained the specification that the maximum sound level of audible notification appliances be 110 decibels, as well as an exception for medical care facilities that permits fire alarm systems to be provided in accordance with industry practice. In addition, the Board has clarified that compliant fire alarm systems must be “permanently installed.” The Board is not aware of portable systems currently available that meet the referenced NFPA specifications. Information on the referenced NFPA requirements for fire alarm systems is posted on the Board's Web site at www.access-board.gov and in advisory notes.

Comment. Commenters supported limiting the sound level to 110 decibels, as proposed. However, some commenters noted that this did not conform with the maximum of 120 decibels specified in NFPA 72.

Response. The Board has retained the 110 decibel specification as more appropriate, which, as a lower maximum, does not contradict the NFPA 72. In the final rule, the Board has clarified that the maximum sound level applies to the “minimum hearing distance from the audible appliance,” which is consistent with the NFPA 72.

Comment. In the proposed rule, the Board sought comment on whether the frequency of audible alarms should be addressed and requested information on the optimal frequency range for people who are hard of hearing along with any available supporting data (Question 26). Most commenters favored a specified frequency range but few provided information, including supporting data, on what the range should be.

Response. The Board has not included in the final rule a specification for the frequency of audible alarms.

703 Signs

Requirements for signs provide specifications for raised characters (703.2), braille characters (703.3), the height and location of signs with tactile characters (703.4), visual characters (703.5), pictograms (703.6), and symbols of accessibility (703.7). This section has been reorganized and simplified in the final rule. Substantive changes include:

• Reorganizing and simplifying criteria for signs required to provide both tactile and visual access (703.2).

• Revising specifications for raised characters that cover height (703.2.5), stroke thickness (703.2.6), and spacing (703.2.7).

• Modifying specifications for braille (703.3 and 703.4.1).

• Recognizing elevator car controls in specifications for the height of visual characters (703.5.6).

• Revising the location of text descriptors of pictograms (703.6.3).

Scoping requirements for signs in section 216 cover room designations, which are required to be tactile, and directional and informational signs which are not required to be tactile but must meet requirements for visual access. The proposed rule specified that tactile signs, where required, meet specifications for both tactile and visual characteristics. The proposed rule also applied specifications based on whether the requirements were met with one sign or separately through two signs. There were some differences between the requirements for combined tactile-visual signs and those provided separately, which represented slight compromises in the desired level considered necessary for signs providing both tactile and visual access. The proposed rule provided criteria where characters are both tactile and visual (703.2) and criteria for tactile characters (703.3) and visual characters (703.4) that are provided separately.

Comment. Commenters considered the section on signs to be unduly complex and redundant and urged the Board to simplify the signage criteria.

Response. The repetition and complexity of the signage section stemmed from detailing requirements separately for signs where one set of character forms meet the tactile and visual specifications and for signs where such criteria are met separately through two set of character forms. Many of the specifications were the same for both types of signs. In the final rule, the Board has simplified the section and removed repetitive specifications while preserving most of the substance of the requirements as proposed. As reorganized, signs required to provide tactile and visual access must meet criteria for tactile characters (703.2), braille (703.3), mounting height and location (703.4), and visual characters (703.5). However, where access is provided through one set of characters, not all the requirements for visual access must be met. This is clarified in an exception which, consistent with the proposed rule, applies only the specifications for finish and contrast to tactile characters that are also visual (703.5, Exception).

Specifications for raised characters in section 703.2 address the depth, case, style or font type, character proportion and height, stroke thickness, and character and line spacing. The proposed rule, consistent with the original ADAAG, specified a character height between ⅝ inch and 2 inches. However, the proposed rule provided a tighter specification (½ to ¾ inch) for raised characters on signs where visual access is provided on a separate sign face because it is believed that smaller characters can be easier to read tactually. Since the specification for combination signs acknowledges that 2 inch characters are readable tactually, setting a different maximum seems unnecessary. The final rule retains the specified range of ⅝ to 2 inches, but an exception allows a ½-inch minimum where the same information is provided separately on a visual sign (703.2.5).

In the proposed rule, specifications for stroke thickness were based on the type of character cross section on signs providing both tactile and visual access (703.2.3.5). For characters with rectangular cross sections, a stroke thickness of 10% to 15% of the character height was specified (based on the uppercase “I”). For those with non-rectangular cross sections, the stroke thickness was specified to be 15% maximum of the character height (measured at the top of the cross section) and 10% to 30% (measured at the base). Where tactile and visual characters are provided on separate signs, the proposed rule specified that the stroke thickness of tactile characters be no greater than 15% of the character height (703.3.2.5).

Comment. Comments, including those from the signage industry, considered the specification based on the type of cross section to be unnecessarily complicated. Some comments pointed out that measurement and tactile reading of characters occur at the face, regardless of the cross section shape. Distinctions based on the cross section may be difficult to distinguish and enforce with respect to characters that are raised 1/32 inch, according to commenters. They advised that a single specification would facilitate compliance while having little effect on access.

Response. The Board has simplified the requirement for stroke thickness by relying solely on the specification that was included in the proposed rule for signs with tactile characters only. This specification requires a stroke thickness that is 15% of the character height (based on an uppercase “I”), regardless of the type of cross section (703.2.6).

As with stroke thickness, the proposed rule specified character spacing based on the type of cross section where signs provide both tactile and visual characters (703.2.4). A space of ⅛ inch to ⅜ inch was specified for characters with rectangular cross sections. For those with non-rectangular cross sections, this range applied to the top of the cross section and a range of 1/16 inch to ⅜ inch was permitted at the base. Where visual characters are provided on a separate sign, the proposed rule required spacing of ⅛ inch to ¼ inch between characters (703.3.3).

Comment. Comments advised that this specification was too restrictive and did not take into account increased spacing for larger size characters (the permitted range allows heights up to 2 inches). It was recommended that spacing based on the stroke thickness of characters will provide proper spacing for tactile recognition and facilitate compliance. Some commenters pointed out that good practice may include varying the space between characters for optimum visual legibility. Some comments recommended a spacing range that was at least as wide as the stroke thickness and no more than four times this width.

Response. In the final rule, the Board has revised the specification for character spacing (703.2.7). As recommended by commenters, the specified spacing range has been broadened to allow spacing up to four times the stroke width of raised characters. The Board has retained the minimum spacing requirements of the proposed guidelines and the distinction between characters with rectangular cross sections (⅛ inch minimum) and those without (⅛ minimum measured at the top and 1/16 minimum measured at the base).

Section 703.3 provides specifications for braille, including the dimensions and position.

Comment. Braille is to be located below the corresponding text. Commenters noted that it is common practice to locate braille next to the text on some signs, such as room numbers. These comments urged the Board to revise this specification to allow braille placement adjacent to text, as is permitted on elevator car controls.

Response. The Board believes that a uniform location facilitates the use of braille. No changes have been made to the specified position below corresponding text.

Braille does not include different upper and lower case letters. Instead, a character symbol is used to indicate capitalization. In the final rule, the Board has clarified that indication of uppercase letters is to be used only before the first word of sentences, proper nouns and names, individual letters of the alphabet, initials, and acronyms (703.3.1). A similar clarification has been included in the new ANSI A117.1 standard.

The proposed guidelines specified that braille be separated at least ¼ inch from other tactile characters and at least ⅜ inch from raised borders and other decorative elements (703.3.2). In the final rule, the Board has revised the minimum separation between braille and tactile characters from ¼ inch to ⅜ inch for consistency with the ANSI A117.1 standard.

Section 703.4 covers the mounting height and location of signs with tactile characters. Such signs are to be mounted so that the tactile elements (raised characters and braille) are between 48 to 60 inches high, measured to the baseline of characters.

Comment. The proposed rule specified a range of height of 48 to 60 inches for raised characters and a range of 40 to 60 inches for braille. Commenters considered the 40 inch specification too low, as research suggests that braille mounted below 48 inches can be difficult to read. Further, comments noted that the minimum 40 inch height did not correlate with the minimum specified for raised characters.

Response. The Board combined the height and location requirements for raised and braille characters into one section (703.4) for clarification and simplicity. As a result, the height of braille and raised characters are held to the same range: 48 to 60 inches above the floor or ground (703.4.1).

Tactile signs are required to be located alongside the latch side of doors so that clear floor space at least 18 by 18 inches, centered on the tactile characters, is provided outside the door swing (703.4.2). At double doors with two active leafs, signs are to be located on the right-hand side or, if no wall space is available, on the nearest adjacent wall. Signs are permitted on the push side of doors with closers and without hold-open devices.

Comment. A commenter advised that the specification should address double doors with only one active leaf.

Response. The Board has added a provision for double doors with one active leaf which requires the location of signs on the inactive leaf (703.4.2).

Section 703.5 provides specifications for visual characters which address finish and contrast, case, style, character proportions and height, height, stroke thickness, and character and line spacing. As part of the reorganization of the signage requirements, the Board has added an exception, consistent with the proposed rule, which applies only the specifications for finish and contrast (703.5.1) where tactile and visual access are provided through the same characters. Where signs provide tactile and visual access separately, visual characters must comply with all applicable specifications in section 703.5.

Visual characters are required to be located at least 40 inches high (703.5.6). For consistency with specifications for elevators in section 407, the Board has added an exception noting that the 40 inch minimum does not apply to visual characters indicating elevator car controls (703.5.6, Exception).

Section 703.6 contains requirements for pictograms. This section applies to those pictograms, where provided, that are used to label permanent interior rooms and spaces. The specifications of 703.6 do not apply to other types of pictograms, including those specified in section 703.7 to label various accessible elements and spaces. Under 703.6.3, text descriptors with raised and braille characters are required below pictograms. The proposed rule allowed alternative placement adjacent to pictograms. The Board has removed this alternative in the final rule to enhance uniformity in the location of tactile text descriptors.

704 Telephones

Section 704 provides technical criteria for telephones, including provisions for wheelchair access (704.2), volume control (704.3), and TTYs (704.4). Most comments addressed specifications for volume controls and TTYs.

All public telephones are required to be equipped with volume control, as discussed above in section 217. This is consistent with other Board guidelines covering access to telecommunications products issued under section 255 of the Telecommunications Act of 1996, which requires telecommunications products and services to be accessible. Section 704.3 requires volume controls that provide a gain up to at least 20 decibels and an intermediate gain of 12 decibels, and have an automatic reset.

Comment. Persons who are hard of hearing and disability organizations urged an increase in the sound level of phones equipped with volume control. Some commenters specifically recommended a minimum 25 decibels or greater. The Board sought comment from pay telephone manufacturers and providers on the time frame necessary to produce products that meet the proposed specifications for volume control (Question 27). Few comments from industry addressed this question, though other commenters suggested that meeting the proposed volume control specifications should not be difficult under current telephone technology.

Response. The proposed specification was consistent with accessibility guidelines the Board issued under section 255 of the Telecommunications Act and standards issued under section 508 of the Rehabilitation Act Amendments. In rulemaking on the Telecommunications Act Accessibility Guidelines, similar comments were received from persons who are hard of hearing who reported having trouble using public pay telephones because of inadequate receiver amplification levels and who supported adjustable amplification ranging from 18-25 decibels of gain. However, several telephone manufacturers cited the National Technology Transfer and Advancement Act of 1996, which requires the Federal government to make use of technical specifications and practices established by private, voluntary standard-setting bodies, wherever possible.

The ANSI A117.1 standard requires certain public pay telephones to provide 12 decibels of gain minimum and up to 20 decibels maximum and that an automatic reset be provided. In recognition of the National Technology Transfer and Advancement Act, this amplification level was specified in the Telecommunications Act Accessibility Guidelines. The Board has retained the 20 decibel specification in this final rule (704.3) for consistency with the ANSI A117.1 standard, the Telecommunications Act Accessibility Guidelines, and the Board's section 508 standards.

Comment. Mute features on public pay telephones can increase audibility by temporarily disconnecting the telephone's microphone while the user listens through the earpiece so that background noise is not amplified through the earpiece. In the proposed rule, the Board requested information on the feasibility and cost of equipping new and existing public pay telephones with a mute button and whether such a requirement should be included in the final rule (Question 28). Few comments addressed this issue. Those that did generally supported such a requirement, although information on feasibility and cost was not received.

Response. While the Board believes that mute buttons could benefit all telephone users in noisy environments, particularly those who are hard of hearing, the Board has opted not to establish such a requirement at this time due to the absence of product information and cost data.

The proposed guidelines included a provision that applied the criteria for protruding objects in section 307 to wheelchair accessible telephones and enclosures (704.2.3). The Board has removed this provision as unnecessary in the final rule. Section 307 applies to a variety of building elements, including telephones and enclosures, under the scoping provision for protruding objects (204). This revision is consistent with the ANSI A117.1-2003 standard.

Section 704.4 provides specifications for TTYs. The proposed rule included requirements so that TTYs were accessible to persons who use wheelchairs. This included a requirement that the touch surface of TTY keypads be 30 to 34 inches high (704.4.1).

Comment. Many commenters indicated that TTYs are mounted too low to be used comfortably by people not using wheelchairs. According to these commenters, compliance with wheelchair access provisions greatly compromises their usability by the majority of persons with hearing or speech impairments who do not use wheelchairs. Commenters urged that a higher surface height for TTY keypads be specified. Organizations representing persons who are deaf recommended a keyboard height of 33 to 35 inches where users are expected to stand. A manufacturer of TTY-equipped pay telephones indicated that its products provide TTY keypads at a height of 36 to 40 inches and requested that this range be permitted.

Response. The Board has revised the specified height of TTY keypads from the proposed range of 30 to 34 inches to a minimum of 34 inches (704.4.1). In addition, the Board has removed other specifications concerning wheelchair access, which is consistent with the original ADAAG. These specifications include a requirement that the operable parts of both the TTY and the telephone be accessible according to section 309, which specifies accessible reach ranges, and provide clear floor space for a forward approach to the TTY. However, these changes do not impact the requirements for other types of telephones required to be wheelchair accessible according to section 704.2.

Comment. The proposed rule provided an exception from the height and clearance requirements for TTYs at telephones located in cubicles equipped with fixed seats (704.4.1). As proposed, this exception applied only to assembly occupancies and allowed half of TTYs at telephones with seats not to comply. Comments recommended that this exception apply to other types of facilities since seats at phones may provide a desired convenience for TTY users.

Response. As a result of the changes concerning wheelchair access, the exception applies only to the specified keypad height and allows a height below 34 inches where seats are provided at telephones with TTYs. In the final rule, the Board has broadened this exception to apply to all telephones with seats in any type of facility.

Comment. The requirements for TTYs do not address the height of display screens. Due to the typical character size displayed, users must be in close proximity to the screen. The Board requested information on TTY screen heights that are appropriate for people who use wheelchairs and for standing persons and whether the requirement for ATM display screens is appropriate for TTYs as well (Question 29). Little information was received in response to this question. Respondents to this question reiterated their concern about wheelchair access resulting in TTYs that are too low for persons who are standing. Other commenters recommended that research be conducted to develop information on the appropriate height of display screens.

Response. The Board has not included any specifications concerning the height of TTY display screens in the final rule.

705 Detectable Warnings

Section 705 provides the technical specifications for detectable warnings, a distinctively textured surface of truncated domes identifiable by cane and underfoot. This surfacing is required along the edge of boarding platforms in transit stations. The original ADAAG included a requirement for detectable warnings on the surface of curb ramps to provide a tactile cue for persons with vision impairments of the boundary between sidewalks and streets where the curb face had been removed. It also required them at locations where pedestrian areas blend with vehicular areas without tactile cues, such as curbs or railings, and at reflecting pools. Certain requirements for detectable warnings were temporarily suspended in the original ADAAG and were not included in the proposed rule, as further discussed in section 406 above. Consequently, the requirements in section 705 are required only at boarding platforms in transportation facilities (810.5.2). Revisions made in the final rule include:

• Revising specifications for the diameter and spacing of truncated domes to allow a range (705.1.1 and 705.1.2).

• Clarifying the square grid pattern of truncated domes (705.1.2).

• Simplifying requirements for contrast between detectable warnings and adjoining walking surfaces (705.1.3).

• Removing provisions generally recognizing alternatives to the detectable warnings specified.

• Clarifying the application of the requirements to the edges of boarding platforms (705.2).

The detectable warning criteria specify a pattern of evenly-spaced truncated domes. The Board has added clarification, consistent with provided figures, that the domes be aligned in a square grid pattern (705.1).

Comment. The proposed rule specified that the truncated domes have a diameter of 0.9 inch, measured at the base. A commenter cited research conducted in Japan which indicated that a surface very similar to that specified by section 705 ranked high in detectability. It was recommended, based on this research, that a diameter of 0.4 inch to 0.9 inch be specified for domes, measured at the top. In addition, this commenter recommended that the spacing between domes be revised from an absolute of 2.35 inches to a range of 1.6 to 2.35 inches.

Response. In the final rule, the Board has revised the specification for the diameter and spacing of truncated domes to permit a range of dimensions (705.1.1). A range of 0.9 inch to 1.4 inches is specified for the base diameter. The top diameter range is specified to be 50% to 65% of the base diameter, which approximates the recommended 0.4 inch to 0.9 inch range. The center-to-center spacing of domes has been changed from 2.35 inches absolute, to a range of 1.6 inches minimum to 2.4 inches maximum, with a minimum separation measured at the base of 0.65 inch (705.1.2). The revised base diameter and spacing dimensions will accommodate existing detectable warning products that were previously deemed to provide an equivalent level of accessibility. ADAAG permits departures that provide equal or greater access as an “equivalent facilitation.” The Department of Transportation (DOT), which enforces the ADA's design requirements as they apply to various transportation facilities, reviews requested departures based on equivalent facilitation in consultation with the Board. Over the years, DOT has approved various detectable warning products that differ slightly from the ADAAG specifications. The specifications in the final rule derive from a review of these products and will encompass the variations among products previously approved by DOT under the equivalent facilitation clause.

Detectable warnings are required to contrast visually from adjacent walking surfaces, either light-on-dark or dark-on-light. The proposed rule required the material used to provide contrast be an integral part of the truncated dome surface (705.2.2). This specification was intended to preclude the painting of detectable warning surfaces to meet the contrast requirements since painted surfaces would not be adequately slip resistant. However, requirements for ground and floor surfaces in section 302, which require slip resistance, apply to those surfaces with detectable warnings as well. The Board believes that the requirement for slip resistance in section 302 effectively prevents the painting of detectable warning surfaces. Consequently, it has removed the specification that the material used to provide contrast be an integral part of the detectable warning surface.

Comment. The proposed rule specified that detectable warnings in interior locations differ from adjoining walking surfaces in resiliency or sound-on-cane contact (705.2.3). Commenters considered this provision to be of questionable usefulness and difficult to meet absent a recognized method of measuring resiliency or sound-on-cane contact.

Response. The requirement for contrast in resiliency or sound-on-cane contact between detectable warnings and adjoining walking surfaces in interior locations has been removed in the final rule.

Comment. The proposed rule included provisions that generally recognized alternative tactile surfaces equally detectable underfoot or other designs or technologies that provide equal or superior drop-off warning at boarding platforms (705.3 and 705.4). Commenters opposed these provisions without further guidance or specificity on the type of alternatives that would be acceptable. Some commenters recommended that these provisions were unnecessary in view of the general provision for equivalent facilitation in section 103 permitting departures from this or any other requirement in the guidelines where equal or greater access is provided.

Response. The Board has removed the provisions concerning equivalent products and technologies as an alternative to the detectable warnings specified by section 705. This change is consistent with the effort the Board made in the proposed rule to remove specific provisions concerning equivalent facilitation. The general provision for equivalent facilitation remains the basis upon which alternatives to the specified detectable warnings may be pursued. DOT's ADA regulations provide a process for the review of requested departures as an equivalent facilitation in relation to public transportation facilities.²⁴

²⁴ 49 CFR 37.9(d).

Section 705.2 specifies that detectable warnings along boarding platform edges be 24 inches wide. In the final rule, the Board has added clarification that the detectable warning is to extend the full length of the public use areas of platforms.

706 Assistive Listening Systems

Section 706 provides specifications for assistive listening systems. Assistive listening systems pick up sound at or close to its source and deliver it to the listener's ear. This more direct transmission improves sound quality by reducing the effects of background noise and reverberation and, as needed, increasing the volume. These devices serve people who are hard of hearing, including those who use hearing aids. Assistive listening systems are generally categorized by their mode of transmission. Acceptable types of assistive listening systems include induction loops, infrared systems, FM radio frequency systems, hard-wired earphones, and other equivalent devices. A definition for “assistive listening systems” has been included in the final rule (section 106). Provisions address receiver jacks (706.2), compatibility with hearing aids (706.3), and system quality and capability (706.4 through 706.6).

Comment. Receivers are required to have a ⅛-inch standard mono jack so that users can use their own cabling as necessary. The proposed rule allowed other types of jacks where compliant adapters were provided (706.3). Comments strongly supported the requirement for the ⅛-inch mono jack. Some commenters noted that this type of jack should be provided in all cases and that alternative types should not be allowed to avoid issues such as who is responsible for the provision of adapters.

Response. In the final rule, the Board has specified that receivers include a ⅛-inch (3.5 mm) standard mono jack and has removed language concerning other jack types and adapters (706.2).

Section 706.3 specifies that receivers required to be compatible with hearing aids (25%) must be neck loops since this type interfaces with hearing aid T-coils. Many comments supported this provision and no changes to it have been made in the final rule.

The performance of assistive listening systems is a concern among users. The quality and capability of systems largely determine the quality of sound transmission. Sound quality, internal noise, signal-to-noise ratio, signal strength, and boost vary among products. As a result, some systems do not adequately meet the needs of people who are hard of hearing. For example, the boost of some products may amplify sound adequately for people with mild hearing loss but not for those with profound hearing loss.

In the belief that standards should be developed to provide guidance in selecting products of sufficient quality and capability, the Board funded a study on assistive listening systems that was completed in 1999. Conducted by the Lexington Center, this project included collecting information on assistive listening systems, a review of the state-of-the-art with respect to assistive listening systems, and a survey of consumers, service providers, dispensers and manufacturers to determine how effective assistive listening systems are at present and what the major problems, limitations, and complaints are regarding existing systems. With this information, the researchers developed objective means for specifying the overall characteristics of any assistive listening system, from sound source to listener's ear, to be able to predict how well the system will work in practice and to determine objective criteria for establishing guidelines or recommendations for the use of assistive listening systems in public places. The criteria recommended by this research include:

• A signal-to-noise ratio of at least 18 decibels measured at the earphones.

• The capability of receivers to deliver a signal with a sound pressure level of at least 110 decibels and no more than 118 decibels with a dynamic range on the volume control of 50 decibels.

• Peak clipping levels at or below 18 decibels down from the peak level of the signal.

Comment. The Board sought comment on whether the criteria developed through the Lexington Center research should be included in the final rule (Question 30). Commenters overwhelmingly supported the inclusion of specifications for the performance and sound quality of assistive listening systems.

Response. The Board has included performance criteria for assistive listening systems based on the Lexington Center research that address the sound pressure level (706.4), signal-to-noise ratio (706.5), and peak clipping level (706.6).

A report from the Lexington Center on this research, “Large Area Assistive Listening Systems: Review and Recommendations,” is available from the Board and its Web site at www.access-board.gov. Additional resources stemming from the project, including a series of technical bulletins on assistive listening systems, are also available.

707 Automatic Teller Machines and Fare Machines

Section 707 provides specifications for Automatic Teller Machines (ATMs) and fare machines. Requirements address clear floor or ground space (707.2), operable parts (707.3), privacy (707.4), speech output (707.5), input (707.6), display screens (707.7), and braille instructions (707.8). In the final rule, this section has been significantly reorganized and criteria for output and input substantially revised due to comments submitted by persons with disabilities, various disability groups, ATM manufacturers, banking institutions and trade associations, and others.

Comment. Comments from the banking industry opposed the specific criteria proposed for ATMs in favor of a more flexible performance standard. Conversely, many comments from persons with vision impairments supported the proposed specifications or urged the Board to make them more stringent.

Response. The original ADAAG relied on a performance criterion in specifying access to ATMs for people with vision impairments: “instructions and all information for use shall be made accessible to and independently usable by persons with vision impairments” (4.34.5). Based on the level of access provided at ATMs under the original ADAAG, it is the Board's belief, consistent with the ADAAG Review Advisory Committee's recommendations, that a descriptive set of technical criteria is essential to ensure that ATMs are adequately accessible to, and usable by, persons with vision impairments. The Board has taken into consideration concerns raised by industry concerning various specifications, as well as information on improved technological solutions, in finalizing these criteria. A number of revisions have been made to the ATM requirements which are detailed below.

Comment. Section 707 specifically covers ATMs and fare machines. In the proposed rule, the Board sought comment on whether this section should be extended to cover other types of interactive transaction machines (ITMs), such as point-of-sale machines and information kiosks, among others (Question 31). Information was requested on any possible design conflicts between the requirements of this section and any specific types of interactive transaction machines. Comments from disability groups and individuals with disabilities generally supported coverage of ITMs and point-of-sale machines. Most industry commenters opposed such an expansion since, in their opinion, such devices differ in structure and use from ATMs. Comments noted that computers used in point-of-sale machines rarely have the capacity for added functions, especially for speech. Commenters were particularly concerned that manufacturers, installers, and property owners would be held responsible for the content of web-based dynamic information. Several suggested that unlike ATMs, which are considered primarily single-purpose devices, information kiosks are multi-purpose devices that cannot produce audio files anticipating the content of the video display.

Response. The Board has elected not to broaden the scope of the rule to address all types of interactive transaction machines at this time. However, the Board has issued standards covering various types of electronic and information technology purchased by the Federal government under section 508 of the Rehabilitation Act. These standards encompass various types of interactive transaction machines that are procured by the Federal government. The Board intends to monitor the application of the performance-based section 508 standards to ITMs in the Federal sector for its consideration in future updates of these guidelines.

Revisions made to this section include:

• Revising exceptions for drive-up ATMs to also cover drive-up fare machines (707.2, 707.3, and 707.7).

• Modifying specifications for operable parts (707.3).

• Limiting privacy requirements to ATMs (707.4).

• Revamping and clarifying speech output capabilities and specifications (707.5).

• Modifying specifications for input controls (707.6).

• Adding a requirement for braille instructions (707.8).

Sections 707.2 and 707.3 address clear floor or ground space requirements and operable parts, respectively. These provisions include exceptions for drive-up only ATMs. In the final rule, the Board revised these exceptions to cover fare machines as well.

Comment. The proposed rule specified that operable parts be able to be differentiated by sound or touch without activation (707.3). Comments from industry noted that it would be difficult to achieve this requirement in the design of controls activated by touch. Some commenters advised that compliance would be more feasible if the provision recognized an allowable level of force that could be applied without the control being activated. Since many ATMs and fare machines allow users to cancel operations, including when a control is inadvertently activated, commenters questioned the need for this provision.

Response. The Board agrees that keys which enable users to readily clear or correct input errors obviate the need for controls that can be differentiated by sound or touch without activation. In the final rule, the Board has revised the requirement to apply only at ATMs and fare machines that are not equipped with “clear” or “correct” keys.

Section 707.4 ensures an equivalent level of privacy in the use of ATMs for all individuals, including those who use a machine's accessible features. In the final rule, this requirement has been made specific to ATMs, since privacy is generally of less concern in the use of fare machines.

Section 707.5 provides requirements for speech output of ATMs and fare machines.

Comment. ATM manufacturers and the banking industry opposed the specific criteria for audible output in the proposed rule (707.5) and urged the Board to replace them with more flexible performance requirements that would focus on the desired outcome instead of detailing how and to what extent access was to be achieved. Comments from disability groups strongly supported the approach taken in the proposed rule. Some of these comments requested that the specifications cover the full range of machines used and types of output. For example, some pointed out that certain types of information, such as error messages, are often overlooked in the provision of audible output.

Response. The Board has revised the requirements for audible output to emphasize the minimum performance capabilities necessary for access. This will allow room for technological innovations and improvements in providing access solutions, particularly with respect to audible output. On the other hand, the Board has also retained or added specific criterion so that a minimum level of accessibility is clearly established to avoid confusion or misinterpretation. The final rule clearly requires machines to be speech enabled, as opposed to the proposed rule's call for “audible instructions.” As revised, it requires that “all displayed information for full use shall be accessible to and independently usable by individuals with vision impairments.” The specification lists particular types of output, such as operating instructions and orientation, visible transaction prompts, user input verification, and error messages. However, the over-arching performance criterion governs, as the list of particulars is not exhaustive. Consistent with the proposed rule, the speech output must be delivered through devices readily available to all users, such as a telephone handset or an industry standard connector (e.g., an audio mini jack to accommodate a user's audio receiver).

Comment. The Board sought information on the availability of ATMs that meet the audible output requirements of the proposed rule and any impact, including costs and technological difficulties, in developing new products that would comply (Question 35). Information was also requested on the practice of redeploying ATM equipment and the impact of the output requirements on this practice. Industry commenters expressed strong concerns about the cost and feasibility of providing speech output for new and refurbished machines. Industry commenters claimed that voice output would be burdensome by necessitating both hardware and significant software investments, including on-going maintenance to support changes in the services offered by the institution. Analysis of industry comments reveals an underlying concern that manufacturers, property owners, installers, and networks must coordinate to provide anything more than limited voice output. According to these comments, such coordination is not customary in the U.S. The banking industry expressed particular concern about the application of the guidelines to ATMs that are refurbished and redeployed. According to the industry, there is a large market for used ATMs, which have an average life of 10 years, though some can last up to 20 years; as new machines are installed in existing locations, those replaced are commonly redeployed elsewhere. Since the specifications apply not only to new ATMs, but to altered machines as well, commenters expressed concern about the cost and feasibility of retrofitting existing machines as part of their relocation. On the other hand, comments from disability groups indicated that satisfactory voice output is not only feasible but is actually being accomplished by various banking institutions, including through the retrofit of existing machines.

Response. Many of the comments submitted by industry concerning the cost and impact of the requirements for audible output appeared based on the provision of recorded human speech. However, the Board intended other alternatives, which are considerably less expensive, such as digitized human speech and synthesized speech. Clarification of these permitted types of output are included in the final rule (707.5). New technologies for text-to-speech synthesis are becoming available that offer less expensive solutions in equipping machines with speech output. Such technologies, which can be installed through software or hardware enhancements, can generate all of the information required to be accessible in audible output. In the past year, the Board has become aware of various banks in different areas of the country that have provided new talking ATMs that take advantage of improved speech output technologies. With respect to refurbished machines, the requirements of these guidelines as they apply to altered elements permit departures where compliance is not technically feasible; in such cases, compliance is required to the maximum extent feasible (202.3, Exception 2). Some industry commenters expressed concern about the proposed requirements and existing machines, including those that are not altered. However, the scope of these guidelines, consistent with the Board's mandate, extends only to new construction and planned alterations and additions. The Board does not generally have jurisdiction over requirements for existing facilities that are otherwise not being altered. Under the ADA, regulations issued by the Department of Justice (DOJ) effectively govern requirements that apply to existing places of public accommodation. How, and to what extent, the Board's guidelines are used for purposes of retrofit, including removal of barriers and provision of program access, is wholly within the purview of DOJ. It is the Board's understanding that DOJ is aware of the concern as raised by various commenters generally and that DOJ plans to address these concerns in its rulemaking to revise its ADA standards pursuant to the Board's final rule.

Comment. In the proposed rule, the Board requested comment on whether ATM manufacturers or banks intend to provide audio output receivers for customers who need them to access audible output and whether customers needing such output could reasonably be expected to provide their own receivers (Question 34). Few comments addressed this question. Several individuals with vision impairments indicated that they carry headphones for talking book players and other audio devices.

Response. The Board has not included any requirements concerning the provision of audio output receivers.

Comment. The proposed rule included an advisory note indicating that audible tones can be used instead of speech for personal input that is not displayed visually for security purposes, such as personal identification numbers (707.5.3). Comments from industry supported this clarification but noted that it would be more appropriately located within the text.

Response. The Board agrees that the advisory note actually functioned as an exception to the requirement for speech output and has added it to the text in the final rule (707.5, Exception 1).

Comment. Comments from persons with disabilities requested that all visually displayed information, including advertisements, should be covered by the requirement for speech output.

Response. The Board disagrees with coverage of extraneous information not needed in the conduct of all available transactions. In the final rule, an exception has been added which notes that advertisements and similar information are not required to be audible unless they convey information that can be used in the transaction being conducted (707.5, Exception 2). This exception helps further clarify the scope of the general performance requirement of 707.5 by describing the type of information that is not covered.

Comment. Comments from industry pointed out that compliance will be difficult and extremely costly, if not impossible, for certain types of machines that cannot support speech synthesis. Some machines cannot “read” or “pronounce” dynamic alphabetic text. Dynamic alphabetic text includes words that cannot be known in advance by the machine or its host. Audible dynamic text requires either pre-recorded files or a text-to-speech synthesizer to convert electronic text into speech using pre-programmed pronunciation rules.

Response. Because it would be impossible to pre-record files to anticipate all the possible dynamic alphabetic combinations in the English language, speech synthesis is the only practicable solution for producing dynamic alphabetic audible output. The Board has added an exception for machines that cannot support speech synthesis. Under this exception, dynamic alphabetic output is not required to be audible (707.5, Exception 3).

Comment. Persons with vision impairments and disability groups indicated that “repeat” and “interrupt” functions greatly facilitate use of speech output. Such commenters also stated that volume control is an important feature in accommodating the full range of users. Industry commenters pointed out that interruption of speech output is critical because such output, even when not accessed through a handset or earphones, is continuously running and will otherwise lengthen the time of all operations and transactions.

Response. The Board has added a provision that machines allow users to repeat or interrupt speech output (707.5.1). An exception allows speech output for any single function to be automatically interrupted once a transaction is selected. This specification replaces a requirement in the proposed rule that users be able to expedite transactions (707.5.4.2). In addition, the Board has included a requirement for a volume control.

Comment. The proposed rule contained a requirement that ATMs dispense paper currency in descending order with the lowest denomination on top (707.5.7). Comments from the banking industry noted that while this requirement is feasible, the denominations of currency dispensed varies depending on which bills are still available in a machine before it is re-supplied.

Response. The Board has removed the requirement for bills to be dispensed in descending order since the order of dispensation will not ensure that users will be able to identify each bill's denomination.

Comment. The proposed rule required that machines have the capability to provide information on receipts in an audible format as well (707.5.8). Some comments from individuals with vision impairments urged the Board to revise this requirement to clearly apply to all data contained on a receipt. Industry representatives, however, advised that the requirement should apply only to essential information concerning a transaction. These comments noted that some information that may not be of interest or use to customers is nevertheless required to appear on printed receipts under Federal mandates. In addition, the banking industry indicated that some ATMs have the capability to provide copies of records, such as bank statements, which should not be subject to the speech output requirements.

Response. The Board has revised the requirement for receipt information to more clearly distinguish the type of information required to be provided through speech output and the type that is not. The final rule requires that speech output devices provide all information on printed receipts, where provided, necessary to complete or verify a transaction, including balance inquiry information and error messages (707.5.2). Extraneous information that may be provided on receipts, such as the machine location and identifier, the date and time, and account numbers is not required to be provided through speech output (Exception 1). In addition, the Board has also exempted receipt information that duplicates audible information on-screen (Exception 2) and printed materials that are not actual receipts, such as copies of bank statements and checks (Exception 3).

Section 707.6 covers input controls, including numeric and function keys.

Comment. The proposed rule required all keys used to operate a machine to be tactually discernable (707.4.2). It included specifications for key surfaces to be raised 1/25 inch minimum and that outer edges have a radius of 1/50 inch maximum (707.4.2). It also required a minimum separation between keys of ⅛ inch and specified a distance between function and numeric keys based on the distance between numeric keys (707.4.3). Comments from industry pointed to these provisions as unduly restrictive and raised questions about supporting data for the specified dimensions. These commenters urged a performance-based requirement as more appropriate.

Response. The Board has revised the final rule to require at least one input control for each function (as opposed to “all keys”) to be tactually discernable (707.6.1). Key surfaces are required to be raised from surrounding surfaces, but the proposed 1/25 inch minimum has been removed. In addition, the Board has also added a requirement specific to membrane keys. Such keys must also be tactually discernable from surrounding surfaces and other keys where they are the only method of input provided.

Comment. Comments from persons with disabilities called attention to the importance of access to touch screens at fare machines and ATM machines. The proposed rule provided an exception for the touch screens of video display screens (707.4.2, Exception). This exception was meant to apply only to that method of input, since the Board intended that alternative method of input that is tactually discernable would be provided in addition to the touch screen. Commenters misread this exception as completely exempting touch screens from providing tactually discernable controls.

Response. The Board has removed the exception for touch screens in the proposed rule to avoid misinterpretation of its intent. Instead, the Board has revised the requirement for tactually discernable input controls as applying to those key surfaces that are not on active areas of display screens (707.6.1). All machines with touch screens must have tactually discernable input controls as an additional alternative to those activated by touching the screen.

Comment. The proposed rule specified the arrangement of numeric keys according to the standard 12-key telephone keypad layout, which provides numbers in ascending order (707.4.4). The ATM and banking industries indicated that numbers may be arranged in descending order, similar to the arrangement of numeric keys on standard computer keyboards as required by other national standards, such as those issued in Canada. Since ATM manufacturers operate internationally, consistency with other national standards is a key industry concern.

Response. The final rule requires numeric keys to be arranged in an ascending or descending telephone keypad layout (707.6.2). The number five key is required to be tactually distinct from the other keys (a raised dot is commonly used).

Comment. The proposed rule required function keys to be arranged in a specific order and specified particular tactile symbols and colors for standard keys (707.4.5). Comments from industry opposed the mandate for a particular key arrangement which it considered impractical due to various factors that influence the design and layout of function keys. Further, these commenters questioned the need for such a requirement in view of provisions concerning the tactile labels of keys and audible operating instructions and orientation. In addition, comments noted that the tactile symbol assigned to “clear” or “correct” keys (vertical line or bar) was inconsistent with the symbol specified by Canadian standards (raised left arrow).

Response. The Board has removed the requirement for function keys to be arranged in a particular horizontal or vertical order, which it considers unnecessary since such keys are to be labeled by standardized tactile symbols. This revision permits manufacturers flexibility in the design of function key layouts. In addition, the Board has changed the required symbol for “clear” or “correct” keys to a raised left arrow for consistency with Canadian standards (707.6.3.2).

Comment. The Board specified colors for standard function keys in the proposed rule and sought comment on the appropriateness of this specification, particularly for people who are color blind (Question 32). Few comments addressed this question. Instead most commenters pointed out that the specified colors did not correlate with standards used in Canada.

Response. Since many ATM manufacturers operate internationally, the Board has elected to withdraw its color specification for function keys to avoid conflict with other existing national standards.

Comment. ATMs often reject input when maximum time intervals are exceeded. Users are at risk of having the ATM card withheld and may encounter additional transaction charges due to repeated attempts to access the machine. The Board sought comment on whether it should include a specific requirement that would allow users to extend the maximum time intervals between transactions beyond the amount of time typically allotted (Question 33). Commenters from the banking industry and ATM manufacturers noted that ATMs include standard features that ask if users want more time to conduct transactions. The requirements for speech output will ensure that such questions are accessible to users with vision impairments.

Response. The Board has not included a requirement for extending transaction time intervals in view of industry practice.

Section 707.7 addresses visual display screens and provides specifications for the screen height and the legibility of visual characters. An exception is provided for drive-up ATMs, which the Board modified in the final rule to also cover drive-up fare machines (707.7, Exception). Few comments addressed these provisions and no further substantive changes have been made.

Comment. Persons with vision impairments requested the inclusion of a specific requirement for braille instructions. While braille instructions for full use of the machine are not necessary in view of the speech output requirements, these comments noted that instructions indicating how the speech mode is activated are needed in tactile form. For example, some machines may provide a jack through which users can access speech output by connecting personal earphones or other types of audio receivers. Without braille instructions, users may not readily determine the method for accessing speech output, which otherwise would only be tactually indicated by the jack itself.

Response. The Board has included a requirement for braille instructions on initiating the speech mode (707.8).

708 Two-Way Communication Systems

This section provides criteria for two-way communication systems where they are provided to gain admittance to a facility or to restricted areas within a facility. These systems must provide audible and visual signals so that they are accessible to people with vision or hearing impairments. As part of the integration of requirements for residential dwelling units from a separate chapter, provisions specific to communication systems in such facilities have been relocated to this section (708.4). No further changes have been made to section 708.

One of the technical provisions requires that handsets, where provided, have cords long enough (at least 29 inches) to accommodate people using wheelchairs (708.3). The proposed guidelines included an exception from this requirement for communication systems located at inaccessible entrances. The Board has removed this exception in the final rule, consistent with the new ANSI A117.1 standard. This action was taken in view of situations where an entrance may be inaccessible, but a two-way communication serving it is on an accessible route. In such cases, the availability of a two-way communication system may be of particular benefit to people unable to access an entrance.

Captioning

ADAAG and the Department of Justice's ADA regulations do not require captioning of movies for persons who are deaf. However, various technologies have been developed to provide open or closed captioning for movie theaters. One closed caption method for making movies accessible is a system that synchronizes captions and action by projecting reverse text images onto a wall behind an audience. The reverse text is then reflected by transparent screens at individual seats where movie goers can read the script on the screen and view the movie through the screen simultaneously. This type of auxiliary aid and others may require built-in features to make them usable.

Comment. In the proposed rule, the Board requested information on other types of captioning as it relates to the built environment and preferences among users (Question 36). Specifically, the Board sought information regarding the technical provisions that would be necessary to include in ADAAG to facilitate or augment the use of auxiliary aids such as captioning and videotext displays. Most comments from people with disabilities and disability organizations supported a requirement for captioning. However, most of these commenters stated a strong preference for open captioning over closed captioning because it provides easier viewing and seating flexibility. Some commenters expressed concerns about the reliability or convenience of particular closed captioning systems. Comments from the movie theater industry pointed out that the Department of Justice's ADA regulations issued under title III state that movie theaters are not required to present open captioned films, but are encouraged to voluntarily provide closed captioning.²⁵

²⁵ 28 CFR part 36, section 36.303.

Response. In the final rule, the Board has not included a requirement for built-in features that can help support the provision of captioning technologies.

Convenience Food Restaurants

Convenience food restaurants, otherwise known as fast food restaurants, often provide people with the opportunity to order food from a drive-through facility. These facilities usually require voice intercommunication. The Department of Justice (DOJ) has required restaurants to accept orders at pick-up windows when the communications system is not accessible to people who are deaf or hard of hearing.

Comment. The Board requested comment on whether accessible communication should be required at drive-through facilities (Question 37). Few comments addressed this question. Disability groups representing people who are deaf supported a requirement to ensure an equivalent level of access. Comments from the restaurant industry opposed such a requirement in favor of the approach taken by DOJ. Industry comments expressed concern about a mandated design solution's potential cost and the impact on drive-through communication devices.

Response. The Board believes that further information needs to be developed on the technologies available to provide access for persons who are deaf to communication devices at drive-through facilities before specifying a requirement in these guidelines. A requirement for such access has not been included in the final rule.

Chapter 8: Special Rooms, Spaces, and Elements

Chapter 8 covers various types of elements, rooms and spaces, including assembly areas (802), dressing, fitting, and locker rooms (803), kitchens and kitchenettes (804), medical care and long-term care facilities (805), transient lodging guest rooms (806), holding and housing cells in detention and correctional facilities (807), courtrooms (808), residential dwelling units (809), transportation facilities (810), and storage (811). In the final rule, requirements from other chapters have been relocated to this chapter. These include requirements for:

• Courtrooms at 808 (relocated from 232).

• Residential dwelling units at 809 (relocated from Chapter 11).

• Transportation facilities at 810 (relocated from Chapter 10).

• Storage at 811(relocated from 905).

Substantive changes to these sections are discussed below.

802 Wheelchair Spaces, Companion Seats, and Designated Aisle Seats

Section 802 provides requirements for wheelchair spaces, companion seats, and designated aisle seats in assembly areas. Requirements have been reorganized and renumbered. Substantive changes include:

• Revision of requirements for the approach to, and overlap of, wheelchair spaces (802.1.4 and 802.1.5).

• Clarification of lines of sight specifications for wheelchair spaces (802.2).

• New requirements for companion seats (802.3).

• Revision of criteria for designated aisles seats (802.4).

Comment. Wheelchair spaces may be placed side-by-side, as reflected in specifications for width that are specific to adjoining spaces. The proposed rule specified that the approach to a wheelchair space could pass through one adjoining wheelchair space, but not others (802.5). This was done to limit the inconvenience to those occupying wheelchair spaces who would otherwise have to move, possibly from the space or row entirely, to accommodate others traveling to and from other wheelchair spaces in the same row. Comments from persons with disabilities urged that the rule be modified to prohibit travel through any wheelchair space.

Response. In the final rule, the Board has modified specifications for the approach to wheelchair spaces so that travel through any wheelchair space is not required in accessing a wheelchair space (802.1.4). As a result, accessible routes cannot overlap wheelchair spaces.

Comment. The Board sought comment on whether it should clearly prohibit circulation paths (not just accessible routes) from overlapping wheelchair spaces (Question 38). Persons with disabilities overwhelmingly supported such a change to ensure that people using wheelchair spaces do not have to shift or move out of the way of other pedestrian traffic while occupying spaces. Comments from industry noted that such a requirement would increase space requirements at wheelchair seating areas.

Response. The Board agrees with the majority of comments that persons using wheelchair spaces should not have to contend with overlapping pedestrian traffic. Nor should occupied spaces obstruct circulation paths, particularly means of egress. A requirement that wheelchair spaces not overlap circulation paths is included in the final rule (802.1.5). This requirement is intended to apply only to the circulation path width required by applicable building and fire codes and helps ensure consistency between accessibility and life safety criteria. Such codes generally do not permit wheelchair spaces to block the required width of a circulation path. In various situations, the new requirement is expected to have modest impacts. For example, where a main circulation path located in front of a seating row with a wheelchair space is wider than required by applicable building and fire codes, the wheelchair space may overlap the portion of the path width provided in excess of code requirements. Where a main circulation path is located behind a seating row with a wheelchair space that is entered from the back, the aisle in front of the row may need be to be wider in order not to block the required circulation path to the other seats in the row, or a mid-row opening may need to be provided to access the required circulation path to the other seats.

In the proposed rule, the Board posed several questions concerning the requirements for the dispersion of wheelchair spaces (which were located in section 802.6). These requirements have been revised and relocated to the scoping section for wheelchair spaces at section 221. As discussed above, the Board has clarified the intent of the proposed rule in calling for a choice in viewing angles comparable to that provided other spectators. In addition, the Board removed a criterion for dispersion based on a comparable choice in admission prices. In the final rule, it is required that wheelchair spaces be dispersed so that persons using them have “choices of seating locations and viewing angles that are substantially equivalent to, or better than, the choices of seating locations and viewing angles available to all other spectators” (221.2.3). Like the proposed rule, specifications are provided for horizontal (side to side) and vertical (front to back) dispersion. Wheelchair spaces must be located at “varying distances from the screen, performance area, or playing field” to achieve effective vertical dispersion. Exceptions from the requirements for horizontal and vertical dispersion requirements are provided for assembly areas with 300 seats or fewer.

Section 802.2 covers lines of sight to the screen, performance area, or playing field for persons using wheelchair spaces. These technical provisions address sight lines over seated and standing spectators. The Board has revised these requirements (located in section 802.9 in the proposed rule). In the proposed rule, it was specified that wheelchair space sight lines be “comparable” to those provided “in the seating area in closest proximity to the location of the wheelchair spaces, but not in the same row.” In venues where people are expected to stand at their seats during events, wheelchair spaces were to be located so that users have lines of sight over standing spectators comparable to those provided others in nearby seats not in the same row.

Comment. The proposed rule required that wheelchair spaces offer lines of sight “comparable” to those provided other spectators (802.9). Corresponding elevation drawings (Figures 802.9.1 and 802.9.2) illustrated lines of sight over the head of persons in the preceding row. Designers of assembly facilities expressed concern that these requirements, as illustrated, might be read to require this kind of sight line in all cases. However, a conventional practice is to design seating so that lines of sight are provided between, not over, the heads of persons in the preceding row through staggered seating. Generally, where the sight line is between the heads in the row immediately in front, it is also over the head of the second row. According to these commenters, comparable access at wheelchair seating should be based on the type of sight line (over heads or between heads) provided at inaccessible seats.

Response. The final rule has been modified to clarify what constitutes comparable lines of sight over seated spectators (802.2.1) and standing spectators (802.2.2). Specifically, the revised specifications distinguish between sight lines provided over and between heads of spectators in the row ahead. Where lines of sight over the heads of spectators in the first row in front is provided, then those occupying wheelchair spaces must also be provided lines of sight over the heads of spectators in the first row in front of the spaces (802.2.1.1). A similar requirement for equivalency is specified where sight lines are provided over the shoulders and between the heads of spectators in the first row in front (802.2.1.2). Parallel provisions are provided for assembly areas where spectators are expected to stand during events (802.2.2.1 and 802.2.2.2).

Section 802.3 addresses companion seats, which are required to be paired with wheelchair spaces (221.3). In the final rule, the Board has clarified that companion seats are to be located to provide shoulder alignment with adjacent wheelchair spaces (802.3.1). Consistent with the ANSI A117.1-2003 standard, the provision in the final rule specifies that shoulder alignment is to be measured 36 inches from the front of the wheelchair space and that the floor surface of companion seats is to be at the same elevation as that of wheelchair spaces. In the proposed rule (802.7), companion seats were required to be “readily removable.” As discussed above in section 221, the final rule allows, but does not require, companion seats to be removable (802.3.2). In addition, the Board has added a requirement that companion seats be “equivalent in quality, size, and comfort and amenities” to seating in the immediate area (802.3.2). Amenities include, but are not limited to, cup holders, arm rests, and storage pockets.

Section 802.4 provides technical criteria for designated aisle seats. These seats are intended to provide access for people with disabilities who do not need or prefer wheelchair spaces.

Comment. The proposed rule required that such seats have removable or folding armrests or no armrests on the aisle side. Comments noted that this should apply only where armrests are provided on seats in the same area. Comments from persons with disabilities felt that armrests should be required at designated aisle seats if other seats have armrests. Facility operators noted that it is not practical to provide removable armrests because they become misplaced, lost, or stolen over time.

Response. Requirements for armrests have been revised to apply only where armrests are provided on seating in the immediate area. Armrests on the aisle side of the seat are required to be folding or retractable. Complying armrests are not required where no armrests are provided on seats.

803 Dressing, Fitting, and Locker Rooms

Requirements for dressing rooms, fitting rooms, and locker rooms are contained in section 803.

Comment. Section 803.2 requires wheelchair turning space in accessible rooms. In the proposed rule, an exception to this provision noted that a portion of this space (6 inches maximum) could extend under partitions or openings without doors that provide toe clearance at least 9 inches high. Many comments opposed this exception since, as written, it would allow a 6-inch portion of the 5-foot turning space on both sides to be located beyond two side partitions, possibly resulting in dressing or fitting rooms that are only 4 feet wide.

Response. This exception concerning wheelchair turning space has been removed in the final rule (803.2). Requirements for wheelchair turning space in section 304 specify dimensions and recognize knee and toe space. However, permitted overlaps are limited. For example, an object with knee and toe clearance can overlap only one arm or the base of T-shaped turning space (304.3.2).

The proposed rule prohibited doors from swinging into the turning space (803.3). In the final rule, the Board has revised this requirement for consistency with the ANSI A117.1 standard. As revised, this provision permits doors to swing into the room where wheelchair space beyond the arc of the door swing is provided. This specification is consistent with provisions for single-user toilet rooms and bathrooms (603.2.3, Exception 2).

804 Kitchens and Kitchenettes

Requirements in section 804 apply to kitchens and kitchenettes, including those provided in transient lodging guest rooms and residential dwelling units. They also apply to spaces, such as employee break rooms, located in other facility types. In the final rule, requirements specific to kitchens in residential dwelling units have been folded into this section as part of the integration of the chapter on residential dwelling units (Chapter 11) into the rest of the document. Certain requirements intended only for dwelling unit kitchens have been modified accordingly. For example, requirements for clearances in pass through and U-shaped kitchens apply only to kitchens with cooktops or conventional ranges (804.2), and specified kitchen work surfaces are required only in kitchens in residential dwelling units (804.3). This reorganization does not substantively change the requirements of section 804 as they apply to kitchens not located in residential dwelling units. These include requirements for sinks (804.4), storage (804.5), and appliances (804.6).

Substantive changes apply primarily to requirements for dwelling unit kitchens. These revisions concern:

• Clearances in pass through kitchens (804.2.1).

• Storage (804.5).

• Operable parts of appliances (804.6.2).

• Oven controls (804.6.5).

Clearances for pass through kitchens address counters, appliances, or cabinets on two opposing sides. In the final rule, this provision has been revised to more clearly address situations where counters, appliances, or cabinets are opposite a parallel wall. In addition, the Board has changed references to “galley kitchens” with “pass through kitchens” for clarity.

At least 50% of shelf space in storage facilities is required to be accessible (804.5). This is consistent with the proposed rule with respect to kitchens generally, but differs from proposed specifications for dwelling unit kitchens, which only addressed clear floor space at cabinets (1102.12.5). The final rule clarifies access requirements for storage in dwelling unit kitchens that is consistent with specifications for other types of kitchens.

Requirements for appliances include provisions for operable parts (804.6.2), which are required to be accessible according to section 309. Section 309 includes specifications for clear floor space (309.2), height (309.3), and operating characteristics (309.4). The proposed rule contained an exception for controls mounted on range hoods. This provision has been replaced by an exception to general scoping provisions for operable parts that addresses redundant controls (205.1, Exception 6). In the addition, the Board has added exceptions for appliance doors and door latching devices in section 804.6.2.

Comment. Operable parts must be designed so they can be operated with one hand and without tight grasping, pinching, twisting of the wrist, or more than 5 pounds of force (309.4). Appliance manufacturers called attention to various appliances that cannot be easily redesigned to meet the maximum 5 pounds of force. At refrigerator and freezer doors, a tight seal is necessary for energy efficiency, as required by other Federal laws, which may result in an opening force that exceeds 5 pounds of force. The latch used to secure dishwasher doors and create a water-tight seal also typically requires a force that may exceed 5 pounds which would be difficult and costly to reduce.

Response. The final rule provides an exception under which appliance doors and their latching devices are not required to comply with the specified operating characteristics for operable parts in section 309.4, including the maximum pounds of force for operation (804.6.2, Exception 1).

Comment. Accessible reach ranges specify a minimum height of 15 inches (308.3) for unobstructed reaches. The appliance industry called attention to certain types of doors that, when fully open, cannot easily meet this specification, such as dishwasher doors and doors of ovens and broilers that are part of free-standing ranges. Compliance with the reach range requirement when the door is fully open would severely impact the design and size of such appliances.

Response. The Board has included an exception for bottom-hinged appliance doors, which do not have to be within reach range requirements specified in 309.3 when open (804.6.2, Exception 2).

Ovens are required to have controls on front panels (804.6.5.3). A specification that these controls be to the side of the door has been removed in the final rule as unnecessarily restrictive.

805 Medical Care and Long-Term Care Facilities

Section 805 addresses access to patient or resident sleeping rooms in medical care and long-term care facilities. Revisions made to this section include:

• Removing a stipulation that wheelchair turning space not extend beneath beds (805.2).

• Clarifying fixture requirements in accessible toilet and bathing rooms (805.4).

Comment. Wheelchair turning space is required in patient rooms and resident sleeping rooms. The proposed rule prohibited this space from extending under beds (805.2). Commenters opposed this requirement, noting that it is inconsistent with specifications for wheelchair turning space in section 304 which recognize knee and toe clearances for specified portions of the turning space. Commenters questioned why space at beds are held to a higher standard. A similar requirement was included for transient lodging guest rooms (806.2.6) and holding and housing cells (807.2.1).

Response. For consistency with specifications for wheelchair turning space in section 304, the Board has removed the requirement prohibiting beds from overlapping this space. Beds can overlap turning space up to six inches where adequate toe clearance (9 inches high minimum) is provided. This change was also made for transient lodging guest rooms and holding and housing cells.

The Board has added clarification that toilet and bathing rooms provided as part of a patient or resident sleeping room contain at least one water closet, lavatory, and bathtub or shower (805.4).

806 Transient Lodging Guest Rooms

Section 806 addresses access to accessible guest rooms (806.2) and those guest rooms that provide access to persons who are deaf or hard of hearing (806.3). Substantive changes made to this section revise requirements for:

• Vanity counter spaces in accessible toilet or bathing rooms (806.2.4.1).

• Wheelchair turning space (806.2.6).

• Visual alarms (806.3.1).

• Telephones (806.3.2).

Comment. Requirements for accessible toilet and bathing rooms include a provision for vanity counter top spaces, which in the past have been omitted from accessible guest rooms even where provided for inaccessible rooms. This provision requires accessible vanity counter tops at lavatories in accessible guest rooms if vanity counter tops are provided in other guest rooms (806.2.4.1). The proposed rule required the vanity top in accessible rooms to be at least 2 square feet. Industry commenters considered this specification unduly restrictive while persons with disabilities considered it inadequate in ensuring equivalent access. The proposed rule also applied requirements for reach ranges and operable parts (sections 308 and 309) which would have effectively required knee and toe clearances below the vanities.

Response. The Board has removed the minimum surface requirement (2 square feet) for vanity counter tops. The revised provision requires vanity counter top space in accessible rooms to be comparable, in terms of size and proximity to lavatories, to those provided in other rooms of the same type. In addition, the requirement for compliance with sections 308 and 309 has been removed in the final rule. This change is consistent with the ANSI A117.1 standard.

A provision in section 806.2.6 prohibiting beds from overlapping wheelchair turning space has been removed for consistency with specifications for such space in section 304, as discussed above in section 805.2.

Guest rooms required to have accessible communication features are required to have visual alarms. As discussed above in section 702, technical requirements for visual alarms in the proposed rule have been replaced with references to criteria in the NFPA 72. Corresponding revisions have been made to the provision for visual alarms in guest rooms (806.3.1). This provision references both the visual and audible criteria for alarms in the NFPA standards.

Guest rooms providing communication access are also subject to requirements for notification devices and telephones (806.3.2). Telephones must have volume control. Also, telephones must be served by an accessible outlet not more than 4 feet away to facilitate use of TTYs. In the proposed rule, both of these requirements applied to “permanently installed” telephones. The Board has removed the term “permanently installed” because it is the Board's understanding that the Department of Justice will clarify the application of the guidelines to permanently installed elements in its rulemaking to update its standards for consistency with these guidelines.

807 Holding Cells and Housing Cells

This section provides requirements for cells or rooms required to be accessible in detention or correctional facilities and judicial facilities. Revisions made to this section include:

• Removing a provision that wheelchair turning space not extend beneath beds (807.2.1).

• Clarifying fixture requirements in accessible toilet and bathing rooms (807.2.4).

• Relocating requirements for drinking fountains to the general scoping provision (211.1).

• Revising requirements for telephone volume controls (807.3.2).

A provision in section 807.2.1 prohibiting beds from overlapping wheelchair turning space has been removed for consistency with specifications for such space in section 304, as discussed above in section 805.2.

The Board has added clarification that at least one water closet, lavatory, and bathtub or shower, where provided, must be accessible (807.2.4). In addition, a requirement for drinking fountains has been removed (807.2.4 in the proposed rule) due to revisions made to the scoping provisions for drinking fountains in section 211, as discussed above.

Telephones, where provided within cells, must be equipped with volume controls (807.3.2). In the proposed rule, this requirement applied to telephones that are “permanently installed.” As discussed above in section 806, the Board has removed this qualifier for consistency with the rest of the document.

808 Courtrooms

Section 808 provides requirements for courtrooms. These requirements have been relocated without substantive change from the scoping section for judicial facilities (231).

809 Residential Dwelling Units

The format and structure of these guidelines are designed to encourage an approach to accessibility that is more integrated than that of the original ADAAG. As a result, distinctions between facility types are minimized both in terms of substance and structure. The Board has sought to further this approach and to make the document more internally consistent by folding those remaining chapters specific to a facility type (residential and transportation) into the other chapters which apply to facilities more generally. Section 809 is based on requirements for residential dwelling units contained in Chapter 11 in the proposed rule. Other provisions have been integrated into other chapters as appropriate. In some cases, the Board determined that scoping or technical provisions applicable to facilities generally were sufficient without the addition of language specific to residential facilities. Most of the provisions, including those in section 809, have not been substantively changed. Those that have are discussed at the new location. The following list identifies the new location of the provisions that were contained in Chapter 11:

• 1101.1 and 1102.1 Scoping, covered by 233.

• 1102.2 Primary Entrance, now at 206.4.6.

• 1102.3 Accessible Route, now at 809.2.

• 1102.4 Walking Surfaces, covered generally by 403.

• 1102.5 Doors and Doorways, now at 206.5.4.

• 1102.6 Ramps, covered generally by 405.

• 1102.7 Private Residence Elevators, now at 206.6 (scoping) and 409 (technical).

• 1102.8 Platform Lifts, covered generally by 206.7 (scoping) and 410 (technical).

• 1102.9 Operable Parts, now at 205.

• 1102.10 Washing Machines and Clothes Dryers, covered generally by 214.

• 1102.11 Toilet and Bathing Facilities, now at 809.4 and Chapter 6.

• 1102.12 Kitchens, now at 809.3 and 804.

• 1102.13 Windows, covered generally by 229.

• 1102.14 Storage Facilities, covered generally by 225 (scoping) and 811 (technical).

• 1103 Dwelling Units with Accessible Communication Features, now at 809.5 and 708.4.

Comment. Several commenters expressed concern about these requirements and their relationship to those issued by the Department of Housing and Urban Development under the Fair Housing Act.²⁶ These commenters urged the Board and the Department of Justice to clarify which types of housing facilities are subject to the ADA and to make the requirements consistent with the Fair Housing Accessibility Guidelines.²⁷ Other commenters recommended that the Board reconcile differences with the standards for residential facilities contained in the ANSI A117.1 standard.

²⁶ The Fair Housing Amendments Act of 1988 expanded coverage of Title VII of the Civil Rights Act of 1968 (42 U.S.C. 3601-3620) to prohibit discriminatory housing practices based on handicap and familial status.

²⁷ 24 CFR part 100.

Response. This rule updates guidelines used to enforce the design requirements of the ADA and the ABA. While the ADA does not generally cover private residential facilities, its coverage is interpreted as extending to housing owned and operated by State and local governments. Under the ADA, the Department of Justice determines the application of the guidelines to residential facilities. In addition, the ABA, which applies to federally funded facilities, may apply to public housing and other types of residential facilities that are designed, built, or altered with Federal funds. Section 809 serves to update the requirements for dwelling units contained in the current ABA requirements, the Uniform Federal Accessibility Standards (UFAS), while providing new criteria in the ADA guidelines. Both the ADA and ABA establish design requirements for new construction and alterations that ensure full access for persons with disabilities. This mandate is considerably different than that established by the Fair Housing Act, which applies to covered multi-family housing in the private and public sectors. Consequently, the level of access specified by the ADA and ABA guidelines differs from that specified by the Fair Housing Accessibility Guidelines. The requirements proposed by the Board derive from guidelines for residential facilities contained in the ANSI A117.1-1998 standard. However, in both the proposed and final rule, the Board has found it necessary to deviate from the ANSI A117.1 in limited areas. The Board intends to continue to work with the ANSI A117 Committee to reconcile differences between both documents in this and other areas.

The proposed rule, consistent with the ANSI A117.1-1998 standard, required all toilet and bathing facilities to comply in accessible dwelling units. The new ANSI standard requires that at least one toilet and bathing facility be accessible. The ANSI Committee adopted this change due to concerns about the impact of full scoping in light of revisions to its technical requirements for toilet and bathrooms. The technical revisions it approved are consistent with those finalized by the Board in this rulemaking. The Board also had concerns about the application of the proposed requirement to certain types of housing, such as group homes. In the final rule, the Board has revised the provision (809.4) to require access to at least one toilet and bathing facility, consistent with the ANSI A117.1-2003 standard.

Other comments concerning provisions for residential dwelling units that have been relocated to other sections are discussed at the new location.

810 Transportation Facilities In the final rule, provisions in Chapter 10 for transportation facilities have been integrated into other chapters. Most of these requirements are now located in section 810, but some provisions have been integrated into other sections:

• 1001.1 Scope, now at 218.

• 1002.1 through 1002.4, Bus Stops and Terminals, located at 810.2 through 810.4.

• 1002.5 Bus Stop Siting, now at 209.

• 1003.1 Facilities and Stations, now at 218.

• 1003.2 New Construction, now at 218.

• 1003.2.1 Station Entrances, now at 206.4.4.

• 1003.2.2 Signs, now at 810.6.

• 1003.2.3 Fare Machines and Gates, covered generally by 220 (Fare Machines) and 206.5 (Gates).

• 1003.2.4 Detectable Warnings, now at 810.5.

• 1003.2.5 Rail-to-Platform Height, now at 810.5.

• 1003.2.6 TTYs, now at 217.4.7.

• 1003.2.7 Track Crossings, now at 810.10.

• 1003.2.8 Public Address Systems, now at 810.7.

• 1003.2.9 Clocks, now at 810.8.

• 1003.2.10 Escalators, now at 810.9.

• 1003.2.11 Direct Connections, now at 206.4.4.

• 1003.3 Existing Facilities, now at 218.

• 1003.3.1 Accessible Route, covered generally by 206 (Accessible Routes) and by 810.9 (Escalators).

• 1003.3.2 Rail-to-Platform Height, now at 810.5.

• 1003.3.3 Direct Connections, now at 206.4.

• 1004.2 TTYs (in airports), now at 217.4.7.

• 1004.3 Terminal Information Systems (in airports), now at 810.7.

• 1004.4 Clocks (in airports), now at 810.8.

Section 810 provides requirements for bus boarding and alighting areas (810.2), bus shelters (810.3), and bus signs (810.4). Revisions address:

• Bus boarding and alighting areas, including specified dimensions (810.2.2).

• Clarification of requirements for bus shelters (810.3).

Comment. Specifications in 810.2 for bus stops applied to “bus stop pads” in the proposed rule. Comments noted that this reference has been misinterpreted as applying to the vehicle space for buses which are sometimes provided with concrete pads, instead of to adjacent boarding areas.

Response. For clarity, the Board has applied requirements to “bus stop boarding and alighting areas” instead of to “bus stop pads.”.

Comment. Bus stop boarding and alighting areas are required to be at least 96 inches long and 60 inches wide. The proposed rule specified that these dimensions were required to “the maximum extent allowed by legal or site constraints” (1002.2.2). Comments considered this language unclear or unnecessary.

Response. The reference to legal or site constraints was intended to cover existing conditions that would effectively preclude sizing boarding and alighting areas to the minimum dimensions specified, such as narrow sidewalks. The Board has removed this language in section 810.2.2 in favor of a general scoping provision for alterations (202.3) which recognizes instances where compliance is not technically feasible. In such cases, compliance is required to the maximum extent feasible.

Section 810.3 addresses bus shelters, which are required to provide wheelchair space. The Board has included clarification that this space be located “entirely within the shelter” so that persons occupying the space can be adequately sheltered from the elements.

Requirements for rail stations and airports are provided in sections 810.5 through 810.10. Most of these provisions apply specifically to rail stations, but some are applicable to airports as well, such as requirements for public address systems (810.7) and clocks (810.8). Revisions made to these provisions address:

• Rail platforms (810.5).

• Rail station signs (810.6).

• Public address systems (810.7).

• Escalators (810.9).

• Track crossings (810.10).

Comment. Commenters advised that the specifications should address platforms for light rail vehicles which should be allowed to conform to the grade of the street.

Response. The Board has explicitly specified that rail platforms shall slope no more than 1:48 in any direction, consistent with cross slope provisions for walking surfaces in section 403. An exception has been added for platforms at existing tracks or tracks laid in existing roadways (810.5.1). Such platforms are permitted to have a slope parallel to the track that is equal to the slope (grade) of the roadway or existing track.

Rail platform requirements include specifications for detectable warnings along platform boarding edges not protected by screens or guards (810.5.2). The Board has added clarification that detectable warnings be provided “along the full length of the public use area of the platform.”

The proposed rule, consistent with the original ADAAG, provided specifications for the coordination of vehicles and platforms, including maximum changes in level (plus or minus ⅝-inch) and horizontal gaps (3 inches for rail vehicles, 1 inch for automated guideway systems). Alternate specifications were provided for existing vehicles and stations. These requirements are paralleled in the Board's ADA Accessibility Guidelines for Transportation Vehicles.²⁸ For simplicity, the Board has replaced requirements in section 810.5 with references to these specifications as contained in the guidelines for transportation vehicles (810.5.3). This revision does not substantively change the requirements for the coordination of platforms and vehicle floors.

²⁸ 36 CFR part 1192.

Comment. The referenced vehicle guidelines (like those of the proposed rule) permit the use of mini-high platforms, car-borne or platform-mounted lifts, ramps or bridge plates, or manually deployed devices where it is not operationally or structurally feasible to meet the specified changes in level or horizontal gaps. In the case of commuter and intercity rail systems, this is often due to track that is also used by freight trains because the passage of oversized freight precludes a high level platform. The American Railway Engineering and Maintenance of Way Association had previously recommended a new platform height of 8 inches above top of rail. This height allows for freight passage while reducing the height of the first step of a rail car above the platform. Often a portable step stool is used to make up the height difference between a lower platform and the first step. Negotiating such a step can be difficult for ambulatory passengers, especially since handrails are usually not available. Also, requiring the 8 inch height would reduce the vertical travel distance for a lift. The Board sought comment on whether new platforms for commuter or intercity rail stations should have a height of 8 inches above top of rail (Question 47). Most comments supported such a requirement.

Response. The Board had added a requirement that low level platforms be at least 8 inches above top of rail (810.5.3). An exception intended for light rail systems allows a height below 8 inches where vehicles are boarded from sidewalks or at street level.

Comment. Section 810.6 addresses requirements for station signage, including signs at entrances, route and destination signs, and station names. These provisions reference requirements for tactile and visual characteristics in section 703. Commenters urged the Board to recognize audible signs as an alternative to tactile signs since they can provide equal or greater access to information.

Response. The Board has added an exception under which entrance, route, and destination signs do not have to comply with visual and tactile specifications where certain audible sign technologies are provided. The exception specifically recognizes those technologies that involve hand-held receivers, activation by users, or detection of people in proximity to the sign.

Comment. Requirements for route and destination signs are subject to specifications for visual signs in section 703, including character height (810.6.2). The proposed rule allowed certain signs to have a 3 inch minimum height where space is limited and a 1½ inch height for characters on signs not essential to the use of the transit system (1003.2.2.3, Exception). Comments pointed out that this exception should allow characters to be less than 3 inches high for consistency with the character heights specified for signs generally in section 703.

Response. The Board has corrected this exception so that characters are not required to be more than 3 inches high where sign space is limited. This would apply to conditions where signs are more than 10 feet above the ground or floor and the viewing distance is 21 feet or more (the only types of signs required by section 703.5 to have characters more than 3 inches high). The Board has removed as unnecessary the exception for signs not essential to the use of the transit system, such as exit street names.

Section 810.7 covers public address systems in rail stations and airports. The proposed rule required that where public address systems are provided to convey information to the public, a means of conveying the same or equivalent information to persons who are deaf or hard of hearing be provided. The Board has simplified this provision so that it requires “the same or equivalent information * * * in a visual format.”

Comment. In the proposed rule, the Board sought information for its use in future rulemaking to update the Board's transportation vehicle guidelines. Specifically, the Board requested information on technologies for providing train announcements, including station announcements and emergency announcements, in a visual format so that this information is conveyed to people who are deaf or hard of hearing (Question 46). Recommendations included use of message boards for verbal announcements and visual signals, such as a flashing light, or audible signals such as bells and chimes. Some commenters recommended that this issue be revisited in rulemaking specific to the vehicle guidelines.

Response. The Board intends to further explore this issue during rulemaking to update its accessibility guidelines for transportation vehicles.

Comment. Escalators must have a clear width of 32 inches minimum (810.9). The original ADAAG contained a requirement that at least two contiguous treads be level beyond the comb plate at the top and bottom before risers begin to form (ADAAG 10.3.1(16)). It also required color contrast on treads. Both provisions were removed in the proposed rule as recommended by the advisory committee, which questioned the need for such criteria in guidelines for accessibility. Comments requested that these specifications be restored for greater access. Commenters noted that the required color contrast benefits persons with low vision.

Response. In the final rule, the Board has added a reference to relevant provisions in the ASME A17.1 Safety Code for Elevators and Escalators instead of providing its own specification (810.9). This will ensure consistency with the safety code. The ASME code requires steps to be demarcated by yellow lines 2 inches wide maximum along the back and sides of steps (ASME A17.1, section 6.1.3.5.6). It also requires at least two flat steps and no more than four flat steps at the entrance and exit of every escalator (ASME A17.1, section 6.1.3.6.5). Consistent with the original ADAAG, an exception from these requirements is provided for existing escalators in key stations (810.9, Exception).

Section 810.10 addresses track crossings at transportation facilities. The proposed rule required route surfaces to be level with the rail top, but permitted a 2½ inch gap at the inner edge of rails to accommodate wheel flanges (1003.2.7). Where this gap is not practicable, an above-grade or below-grade accessible route was specified. In the final rule, the Board has simplified this provision by applying specifications for accessible routes. An exception preserves the permitted 2½ inch gap for wheel flanges.

811 Storage

Requirements in section 811 address storage. In the proposed rule, these provisions had been provided in Chapter 9 (section 905), which addresses built-in furnishings and equipment. These provisions have been moved to Chapter 8, which the Board considers a more appropriate location because it covers accessible spaces and elements. Provisions of this section address clear floor or ground space (811.2), the height of storage elements (811.3), and operable parts, such as storage hardware (811.4). In the final rule, the Board has clarified the application of the height specifications in section 811.3 to storage elements and has removed specific references to clothes rods and hooks, which it considers redundant. No substantive changes have been made to the criteria for storage.

Chapter 9: Built-In Elements

Chapter 9 covers built-in elements, including dining surfaces and work surfaces (902), benches (903), and sales and service counters (904). Changes made to this section include:

• Clarification of provisions for benches concerning clear floor or ground space (903.2), back support (903.4), and height (903.5).

• Addition of a requirement for check writing surfaces at check-out aisles (904.3.3).

• Clarification of requirements for accessible sales and service counters that are less than 36 inches long (904.4.1).

• Revision of requirements for communication devices where security glazing is provided (904.6).

• Relocation of provisions for storage from section 905 to Chapter 8 (811).

902 Dining Surfaces and Work Surfaces

Section 902 provides specifications for seating at dining and work surfaces. Clear floor space is required for a forward approach (902.2), and a surface height of 28 to 34 inches is specified (902.3). Alternate specifications for surfaces designed for children's use are also provided (902.4).

Comment. Commenters expressed concern about use of the terms “dining surfaces” and “work surfaces” and urged the Board to include definitions of the terms in the final rule. Comments considered the term “dining surfaces” insufficient in covering bars where only drinks are consumed. Questions were also raised about the term “work surfaces” which some commenters thought might be misconstrued as applying only to surfaces in employee work areas. Some commenters considered the term too limiting and questioned whether it would apply, as they felt it should, to surfaces used for purposes not necessarily considered “work,” such as counters that support credit card readers or video games. These comments urged the requirement to be modified to apply to all built-in tables and counters used by the public for any purpose.

Response. The Board has clarified the application of this section by revising scoping provisions for accessible dining and work surfaces, as discussed above in section 226. The term dining surface has been clarified as applying to those dining surfaces used “for the consumption of food or drink” (226.1). In addition, the Board has indicated in the ADA scoping provisions that the types of work surfaces covered do not include those surfaces used by employees since elements of work stations subject to the ADA are not required to comply with these guidelines (226.1). A similar clarification is not provided in ABA scoping provisions since work stations covered by the ABA are fully subject to the guidelines.

Comment. Persons with disabilities considered the 34 inch maximum height too high for surfaces used for any length of time. These commenters recommended that where only a portion of counters are made accessible, the accessible height should be 31 inches maximum. Some commenters also recommended a higher minimum height of 29 inches instead of 28 inches to allow a more comfortable knee clearance.

Response. The Board has not revised the specified height for dining and work surfaces or the minimum clearances for knee and toe space required below since it believes further research is needed on these long-standing specifications, particularly in relation to people who use scooters and other powered mobility aids. Research on powered mobility aids the Board is currently sponsoring through the Rehabilitation Engineering Research Center on Universal Design will provide information on various fundamental specifications the Board may use in future updates of the guidelines.

903 Benches

Specifications for benches address clear floor or ground space (903.2), size (903.3), back support (903.4), height (903.5), structural strength (903.6), and slip resistance in wet locations (903.7).

Comment. The proposed rule specified that the wheelchair space be positioned so that it provides a parallel approach to an end of the bench seat (903.2). Commenters indicated that this provision could be misinterpreted as allowing the space to be provided in front of the bench at one end. Comments suggested clarifying that the clear floor or ground space is to be located parallel to the short axis of the bench.

Response. The Board has clarified that the clear floor or ground space is to be “parallel to the short axis of the bench.”

Comment. The proposed rule required back support to be provided that extends vertically from a point no more than 2 inches above the bench to a height of at least 18 inches above the bench and that extends horizontally at least 42 inches (903.3). Commenters recommended clarification on the permitted horizontal distance of the back support from the rear edge of the seat. It was also recommended that the criteria for back support, which were included in the specifications for bench size, be relocated into a separate provision specific to back support.

Response. In the final rule, the specifications for back support have been clarified and relocated to a separate provision (903.4). The Board has added clarification that the back support may be located up to 2½ inches from the rear edge of the seat, measured horizontally. This specification is similar to one provided for shower seats (610.3). In addition, clarification has been added that the dimensions for back support are measured from the surface of the seat.

Comment. Commenters requested clarification as to whether walls can be used to provide back support where the seat is attached to walls. Most of these comments urged the Board to clearly allow the use of walls in providing back support. This would be consistent with an advisory note in the proposed rule which made reference to “dressing rooms where benches are fixed to the wall for back support” (Advisory 903.3).

Response. It was the Board's intent in the proposed rule to allow the use of walls for back support where benches are attached to walls. In the final rule, the Board has added clarification to the text of the requirement stating that benches shall provide back support or shall be affixed to the wall (903.4).

Comment. The proposed rule specified that the bench seat be 17 to 19 inches above the floor or ground (903.4). Commenters noted that this specification should be clarified as applying to the height as measured at the top of the seat surface.

Response. In the final rule, the specification for height (renumbered as 903.5) has been revised as applying to the top of the bench seat surface.

904 Sales and Service Counters

This section covers the approach to counters (904.2), check-out aisles (904.3), sales and service counters (904.4), food service lines (904.5), and security glazing (904.6).

Comment. Specifications are provided for the counter surface height of check-out aisles, including the height of counter edge protection, which is limited to 2 inches above the counter surface (904.3.2). Commenters requested that clarification be added that the edge protection height limitation applies only to the aisle of the check-out counter.

Response. The Board has added clarification that the specified height for edge protection at check-out aisle counters applies to the aisle side of the counter (904.3.2).

Comment. The counter surface of check-out aisle counters is required to be 38 inches high maximum. Comments from persons with disabilities considered 38 inches to be too high.

Response. The Board has clarified requirements for check-out aisles by adding a provision specific to check-writing surfaces (904.3.3). Under this requirement, the height of check-writing surfaces, where provided, is to comply with the height of work surfaces addressed in section 902.3 (34 inches maximum), consistent with the Board's intent in the proposed rule.

Comment. Accessible sales or services counters, or portions of them, must be no higher than 36 inches where either a parallel or forward approach is provided (904.4). Comments from persons with disabilities considered this too high to be used as a writing surface. Where only a portion of a counter is made accessible, these commenters advised that the maximum height should be 32 inches. Comments from the retail industry advised that a higher surface height is needed to accommodate various types of counters, such as glass display cases, which are typically manufactured at a height of 38 inches.

Response. The Board has retained the specified height of 36 inches for sales and service counters, which is consistent with the original ADAAG, to accommodate both persons who use wheelchairs and those that do not. Even where only a portion of the counter is accessible, in some cases that portion may serve as the transaction area for all customers. In the final rule, the Board has clarified that the accessible portion of counters must extend the full depth of the counter (904.4.1 and 904.4.2), consistent with the new ANSI A117.1 standard. Where a parallel approach is provided, the accessible portion must be at least 36 inches long. The Board has added an exception that where a provided counter surface is less than 36 inches long, the entire surface shall be accessible to clarify that in such cases the counter does not have to be lengthened (904.4.1, Exception).

Section 904.6 requires that where counter or teller windows have security glazing to separate personnel from the public, at least one of each type must provide a method to facilitate voice communication.

Comment. The proposed rule referenced examples of acceptable methods (grilles, slats, talk-through baffles, intercoms, and telephone handset devices) and required access both for persons who use wheelchairs and for persons who may have difficulty bending or stooping. Commenters indicated that access for persons who have difficulty bending or stooping is unclear absent specific technical criteria. Such criteria should be provided or the requirement removed according to these comments. In addition, it was recommended that the requirement for volume control for “hand-operable communication devices” be revised for clarity as applying to telephone handset devices.

Response. The requirement that methods to facilitate voice communication be accessible both to persons who use wheelchairs and to persons who may have difficulty bending or stooping has been removed in the final rule (904.6). The Board has also clarified that the requirement for volume controls applies to telephone handset devices, where provided. In addition, the Board has relocated information concerning acceptable types of communication methods to the corresponding advisory note which is a more appropriate location for this kind of information.

Chapter 10: Recreation Facilities

Chapter 10 contains technical provisions for various types of recreation facilities. These requirements were developed separately from this rulemaking and have been incorporated into the final rule without substantive change. Sections of this chapter address:

• Amusement rides (1002).

• Recreational boating facilities (1003).

• Exercise machines (1004).

• Fishing piers and platforms (1005).

• Golf facilities (1006).

• Miniature golf facilities (1007).

• Play areas (1008).

• Swimming pools, wading pools, and spas (1009).

• Shooting facilities with firing positions (1010).

1002 Amusement Rides

Provisions for amusement rides require either a wheelchair space on the ride, a ride seat designed for transfer, or a device designed for transfer to the ride. This section also addresses access at loading and unloading areas and provides criteria for wheelchair spaces, ride seats designed for transfer, and transfer devices.

1003 Recreational Boating Facilities

This section provides requirements for gangways, boating piers at boat launch ramps, and boat slips. Requirements for accessible routes and ramps are applied to gangways, but exceptions to criteria for maximum rise and slope, handrail extensions, and level landings are provided.

1004 Exercise Machines

This section requires clear floor space for transfer to, or use of, exercise machines.

1005 Fishing Piers and Platforms

Specifications for fishing piers and platforms address accessible routes, railings, edge protection, clear floor space, and turning space.

1006 Golf Facilities

Provisions of this section recognize that access to golf courses is typically achieved through the use of golf cars. Golf car passages are permitted in lieu of accessible routes throughout golf courses. Technical criteria are provided for golf car passages, accessible routes, teeing grounds, putting greens, and weather shelters.

1007 Miniature Golf Facilities

This section covers miniature golf courses and contains specifications for accessible routes that take into account design conventions for miniature golf courses, such as carpeted play surfaces and curbs. All level areas of an accessible hole where a ball may come to rest are to be within golf club reach of the accessible route.

1008 Play Areas

The play area specifications address accessible routes, ground level and elevated play components, play structures, and ground surfaces.

1009 Swimming Pools, Wading Pools, and Spas

This section addresses access to swimming pools, wading pools, and spas. Specifications are provided for various means of providing pool access, including pool lifts, sloped entries, transfer walls, transfer systems, and stairs.

1010 Shooting Facilities With Firing Positions

This section requires turning space at firing positions required to be accessible.

Regulatory Process Matters

Executive Order 12866: Regulatory Planning and Review

This final rule has been reviewed by the Office of Management and Budget pursuant to Executive Order 12866. The Board has prepared a regulatory assessment for the final rule. The assessment has been placed in the docket and is available for public inspection. The assessment is also available on the Board's web site at www.access-board.gov. The assessment is summarized below.

Benefits

Since the enactment of the Americans with Disabilities Act (ADA), accessibility requirements have been increasingly incorporated in the model codes. The Board worked collaboratively with the International Code Council (ICC) and the ANSI A117 Committee to harmonize the final rule with the International Building Code, which was initially published in 2000 and was revised in 2003, and the ICC/ANSI A117.1 Standard on Accessible and Usable Buildings and Facilities, which is referenced in the International Building Code. The International Building Code has been adopted statewide by 28 States, and by local governments in another 15 States.

Harmonizing the accessibility guidelines for the ADA and the Architectural Barriers Act (ABA) with the International Building Code and the ICC/ANSI A117.1 standard promotes increased compliance, efficiency, and economic growth. It is difficult and time consuming for business owners, builders, developers, and architects to deal with different accessibility requirements at the Federal, State, and local government levels. Differing requirements can contribute to mistakes resulting in litigation and costly retrofitting of facilities after they are constructed. The ADA authorizes the Department of Justice (DOJ) to certify State or local codes that meet or exceed Federal accessibility requirements. State and local governments that adopt the International Building Code will find it easier to have their codes certified, and more State and local governments are expected to submit their codes to DOJ for certification. In jurisdictions where codes have been certified by DOJ, business owners, builders, developers, and architects can rely on their State or local government building plan approval and inspection processes as a “check-point” for ensuring that their facilities comply with Federal accessibility requirements. Potential mistakes can be corrected early in the construction process when adjustments can be made easily and inexpensively compared to costly retrofitting after a facility is constructed. Compliance with a certified code is also rebuttable evidence of compliance with Federal accessibility requirements in litigation to enforce the ADA.

The Board also revised some requirements in the existing guidelines for the ADA and the ABA to reduce the impacts on facilities, including lowering the number of wheelchair spaces and assistive listening devices required in large sports facilities; exempting small raised press boxes in sports facilities from the accessible route requirements; exempting parking lots with a few parking spaces from signage requirements for accessible parking spaces; and reducing the number of toilet rooms required to be accessible where multiple single user toilet rooms are clustered at the same location.

Regulatory Alternatives That Eliminate Impacts Estimated for the Proposed Rule

The regulatory assessment for the proposed rule estimated that the rule would have an annual impact of $87.5 million on newly constructed office buildings, hotels, and sports stadiums and arenas. The Board adopted alternatives in the final rule that eliminate these impacts as shown in Table 1.

Table 1.—Alternatives That Eliminate Impacts Estimated for the Proposed Rule
Proposed rule | Final rule
Visible alarms required in all employee work areas, including individual offices. Estimated cost: $16 million annually | Visible alarms required in public and common use areas, which is consistent with existing guidelines. Where employee work areas have audible alarm coverage, wiring system required to be designed so that visible alarms can be added to the system as needed.
Communication features required in 50 percent of hotel guest rooms. Estimated cost: $31 million annually | Existing guidelines retained, which require substantially less than 50 percent of hotel guest rooms to provide communication features.
Elevators and platform lifts required to be provided in sufficient number, capacity, and speed so that persons using wheelchair spaces and designated aisle seats have equivalent level of service as persons in the same seating area who can use stairs. Estimated cost: $1.5 million annually | Existing guidelines retained, which require at least one accessible route to connect each story and mezzanine in multi-story facilities.
Wheelchair spaces and designated aisle seats required to be dispersed vertically on each accessible level. Estimated cost: $33.5 million annually | Wheelchair spaces required to be dispersed vertically at varying distances from the screen, performance area, or playing field, which is consistent with existing guidelines.
Companion seats required to be readily removable and to provide additional wheelchair spaces. Estimated cost: $4 million annually | Companion seats permitted to be removable, but not required to provide additional wheelchair spaces.
One percent of seats required to be designated aisle seats; 25 percent of designated aisle seats required to be on an accessible route; and rest of designated aisle seats required to be not more than two rows from an accessible route. Estimated cost: $1.5 million annually | Five percent of aisle seats required to be designated aisle seats and to be aisle seats closest to accessible routes.

Baseline

The assessment compares the final rule to ADAAG and the International Building Code in order to evaluate the potential impacts of the rule. In the absence of the final rule, newly constructed and altered facilities covered by the ADA would have to comply with ADAAG as initially issued in 1991, which has been adopted as enforceable standards by DOJ. Many newly constructed and altered facilities covered by the ABA are also required to comply with ADAAG when it provides a greater level of accessibility compared to the Uniform Federal Accessibility Standards (UFAS). Comparing the final rule to ADAAG is the upper bound of the range of potential impacts. The International Building Code has been adopted statewide by 28 States and by local governments in another 15 States. In the absence of the final rule, newly constructed and altered facilities are required to comply with the International Building Code in jurisdictions that have adopted the model code. Comparing the final rule to the International Building Code is the lower bound of the range of potential impacts, and assumes that facilities covered by the ADA or the ABA are also required to comply with equivalent requirements in the International Building Code. The actual impacts will be between the lower and upper bound of the range.

Potential Impacts of Final Rule

The final rule reorganizes and renumbers ADAAG, and rewrites the text to be clearer and easier to understand. Most of the scoping and technical requirements in ADAAG have not been changed. An independent codes expert compared the final rule and ADAAG to identify revisions that add new features or space to a facility, or present design challenges. The codes expert identified 27 revisions that are expected to have minimal impacts on the new construction and alteration of facilities, including adding scoping requirements and exceptions for common use circulation paths in employee work areas; revising scoping requirements for public entrances; referencing the International Building Code for accessible means of egress; adding scoping requirements for dwelling units with mobility features in Federal, State, and local government housing; lowering the high side reach; and adding technical requirements for automated teller machines and fare machines.

The codes expert also identified 14 revisions that are expected to have monetary impacts on the new construction and alteration of facilities. An independent cost estimator prepared cost estimates for these revisions using standard industry procedures. The revisions that are expected to have monetary impacts on the new construction and alteration of facilities are summarized in Table 2.

Table 2.—Revisions With Monetary Impacts on New Construction and Alterations
Final rule | ADAAG | International building code | Unit cost
Where circulation path directly connects assembly seating area and performing area, accessible route required to directly connect both areas | Accessible route required to connect assembly seating area and performing area | IBC 2000 & 2003 have equivalent requirements to final rule | Will vary from $0 to $15,674 depending on specific design of facility.
Where platform lift serves as part of accessible means of egress, standby power required | No requirement | IBC 2003 has equivalent requirement to final rule | Will vary from $0 to $2,353 depending on specific design of facility.
One in every 6 accessible parking spaces required to be van accessible | One in every 8 accessible parking spaces required to be van accessible | IBC 2003 has equivalent requirement to final rule | $75 to $344.
Toilet rooms with 6 or more toilet compartments, or combination of 6 or more water closets and urinals, required to provide ambulatory accessible toilet compartment with grab bars | Toilet rooms with 6 or more toilet compartments required to provide ambulatory accessible toilet compartment with grab bars | IBC 2000 & 2003 have equivalent requirements to final rule | $145.
Private facilities required to provide public TTY in building with 4 or more public telephones and on floor with 4 or more public telephones Government facilities required to provide public TTY in building with public telephone and on floor with public telephone Private and government facilities required to provide public TTY on site with 4 or more public telephones, and in bank of 4 or more public telephones. Banks of public telephones located within 200 feet of, and on same floor as, another bank of telephones with public TTY exempt. Bus or rail station with public telephone at entrance required to provide public TTY. Public rest stops with public telephone required to provide public TTY | Private facilities with 4 or more public telephones required to provide public TTY. Government facilities with public telephone in public use area of building required to provide public TTY. Rail stations with 4 or more public telephones at entrance required to provide public TTY. | IBC 2000 (Appendix E) has equivalent requirement to final rule for private facilities IBC 2003 (Appendix E) has equivalent requirement to final rule for private and government facilities | $2,320.
At least one operable window in accessible rooms required to comply with technical requirements for operable parts. Hotel guest rooms that are not required to provide mobility features and dwelling units are exempt | No requirement | IBC 2000 & 2003 have equivalent requirements to final rule for certain occupancies | $505.
Two-way communication systems at entrances required to provide audible and visual signals | No requirement | No equivalent requirement to final rule | $1,392.
Automatic doors serving accessible means of egress required to provide maneuvering clearance or to have standby power | No requirement | No equivalent requirement to final rule | $2,353.
Doors on platform lifts required to be power operated. Platform lifts serving only 2 landings and with self-closing doors on opposite sides exempt | Doors required to provide maneuvering clearance or to be power operated | IBC 2000 & 2003 have equivalent requirements to final rule | Will vary from $0 to $569 depending on specific design of facility.
Minimum clearance at water closet in accessible single user toilet rooms: 60 × 56 inches | Minimum clearance at water closet in accessible single user toilet rooms based on approach: Forward: 48 × 60 inches; Parallel: 48 × 56 inches; Both forward and parallel: 60 × 56 inches | IBC 2000 & 2003 have equivalent requirements to final rule, except for dwelling units | $286 for dwelling units $667 for other facilities.
Shower spray unit with on-off control required in bathtubs and shower compartments in accessible toilet rooms and bathing rooms | Shower spray unit required in bathtubs and shower compartments in accessible toilet rooms and bathing rooms | No equivalent requirement to final rule | $161.
Minimum clearance between opposing base cabinets, countertops, appliances, or walls in accessible galley kitchens where two entries not provided: 60 inches. Kitchens without cooktop or conventional range exempt | Minimum clearance between opposing base cabinets, countertops, appliances, or walls in accessible galley kitchens: 40 inches | No equivalent requirement to final rule | $993.
Comparable vanity countertop space required in hotel guest rooms with mobility features | No requirement | No equivalent requirement to final rule | $752.
Two percent of dwelling units in Federal, State, and local government housing required to provide communication features | No requirement | No equivalent requirement to final rule | $96 for visual signal if door bell and peephole provided. $322 for doorbell with visual signal and peephole. $353 for TTY connection if voice communication system provided at entrance.

National Costs

Office buildings, hotels, hospitals and nursing homes, and Federal, State, and local government housing will be affected by many of the revisions in Table 2, and are likely to experience relatively higher monetary impacts than other facilities. The assessment estimates the national costs of the revisions on these facilities based on annual construction data. The national costs are summarized in Table 3.

Table 3.—National Costs for Facilities Likely To Experience Relatively Higher Monetary Impacts
Facility | National costs compared to: ADAAG upper bound (millions) | National costs compared to: International building code lower bound (millions)
Office Buildings | $1.5 | $0.7
Hotels | $6.2 | $4.1
Hospitals & Nursing Homes | $13.6 | $2.4-$2.9
Government Housing | $5.4 | $5.4
Total | $26.7 | $12.6-$13.1

The assessment also estimates the additional costs imposed on individual facilities as a percentage of total construction costs as shown in Table 4.

Table 4.—Additional Costs for Individual Facilities
Facility | Additional costs as percentage of total construction costs compared to: ADAAG upper bound (percent) | Additional costs as percentage of total construction costs compared to: international building code lower bound (percent)
Office Buildings | 0.02 to 0.10 | 0.01 to 0.08
Hotels | 0.06 to 0.50 | 0.04 to 0.30
Hospitals & Nursing Homes | 0.02 | 0.00
Government Housing | 0.01 | 0.01

The final rule will potentially impact the new construction and alteration of other types of facilities. Industry reports estimate $152 billion of non-residential building construction projects were started in 2002; and government reports estimate $264 billion of non-residential building construction work and $6 billion of Federal, State and local government housing construction work was installed in 2002. In order to be considered an economically significant regulatory action (i.e., annual impact on the economy of $100 million or more), the final rule would need to have impacts ranging from 0.04 percent to 0.07 percent of industry and government construction estimates. The final rule will have impacts within or above this range on office buildings and hotels, and it is likely that the impacts on some other facilities will be within or above this range. Although the impacts are not significant for an individual facility, when added together across the economy the impacts can be economically significant. Because an extremely low threshold of impacts on individual facilities can render the final rule economically significant, and because the benefits of the final rule are unquantifiable but substantial, the Board has classified the final rule as an economically significant regulatory action.

The final rule will also affect leased postal facilities. When the United States Postal Service enters into a new lease for a postal facility, including previously occupied space, it will have to comply with the accessibility requirements in the final rule for facilities leased by Federal agencies, including providing accessible customer service counters and van accessible parking spaces. The United States Postal Service leases 27,000 postal facilities, and estimates that it will cost $9,234 per facility to comply with the final rule. The United States Postal Service enters into an average of 1,661 new leases per year for postal facilities, and estimates it will cost $15.3 million annually for leased postal facilities to comply with the final rule.

Regulatory Flexibility Act

For the proposed rule, the Board certified that the rule had no significant economic impact on a substantial number of small entities for purposes of the Regulatory Flexibility Act. The Board based the determination on the regulatory assessment prepared for the proposed rule under Executive Order 12866 which showed that, except for large sports facilities, the rule added less than 0.5 percent to the total construction costs of the affected facilities compared to ADAAG; the 1998 edition of the ICC/ANSI A117.1 Standard on Accessible and Usable Buildings and Facilities; and the new International Building Code, which was under development and was expected to be widely adopted by State and local governments.

The Small Business Administration and business groups objected to the certification of no significant economic impact. They noted that the ICC/ANSI A117.1 standard is a voluntary consensus standard, and there was no factual information presented in the regulatory assessment for the proposed rule showing the ICC/ANSI A117.1 standard had actually been adopted by State and local governments. Since the proposed rule was published in November 1999, the new International Building Code has been published. The 2000 and 2003 editions of the International Building Code reference the 1998 edition of the ICC/ANSI A117.1 standard for technical requirements. The International Building Code has been adopted statewide by 28 States, and by local governments in another 15 States.

For the final rule, the regulatory assessment evaluates the impacts of the rule by separately comparing the revisions to ADAAG and the International Building Code. The assessment estimates the additional costs of the revisions as a percentage of the total construction costs for office buildings, hotels, hospitals and nursing homes, and Federal, State, and local government housing. These facilities are likely to experience relatively higher monetary impacts than other facilities. The final rule adds 0.01 to 0.5 percent to the total construction costs of the facilities compared to ADAAG; and 0.00 to 0.3 percent to the total construction costs of the facilities compared to the International Building Code. These monetary impacts are not significant for individual facilities.

The Small Business Administration and business groups request the Board to analyze the impacts of the final rule on alterations to existing facilities. The impacts will be facility specific and will depend on the elements and spaces that are altered in an existing facility. The regulatory assessment examines the impacts of the revisions that have monetary impacts on alterations to existing facilities by answering a series of questions about whether the element or space is typically altered; whether the element or space is part of the “path of travel” serving a primary function area; and whether the general exception for technical infeasibility may apply to alterations of the element or space. The regulatory assessment also includes alteration projects in the national cost estimates of the revisions.

Finally, the Small Business Administration and business groups request the Board to analyze the impacts of the final rule on the obligation of businesses under the ADA to remove architectural and communication barriers in existing facilities, where it is readily achievable. DOJ will revise the accessibility standards for the ADA after this final rule is published. Business groups are concerned that, when the accessibility standards for the ADA are revised, existing facilities that were constructed or altered in compliance with earlier accessibility standards will have to undergo “barrier removal” and meet any new or different scoping and technical requirements in the revised accessibility standards. Business groups recommend that existing facilities constructed or altered in compliance with earlier accessibility standards be “grandfathered” for purposes of “barrier removal.” The Board acknowledges that “barrier removal” obligations need to be clarified when the accessibility standards are revised. However, the Board has no authority to issue regulations regarding “barrier removal” obligations. DOJ is the agency responsible for issuing regulations regarding “barrier removal” obligations, and is required to analyze the impacts of any new or different scoping and technical requirements on “barrier removal” obligations when the accessibility standards are revised.

On the basis of the regulatory assessment for the final rule, the Board certifies that the final rule has no significant economic impact on a substantial number of small entities for purposes of the Regulatory Flexibility Act.

Executive Order 13132: Federalism

The final rule adheres to the fundamental federalism principles and policy making criteria in Executive Order 13132. The final rule is issued pursuant to the ADA and the ABA to ensure that facilities covered by those laws are readily accessible to and usable by people with disabilities. Ensuring the civil rights of groups that have been subject to discrimination has long been recognized as a national issue and a proper function of the Federal government. The ADA was enacted “to provide a clear and comprehensive national mandate for the elimination of discrimination against individuals with disabilities” and “to ensure that the Federal government plays a central role in enforcing the standards established in this chapter on behalf of individuals with disabilities.” 42 U.S.C. 12101 (b) (1) and (3). The ADA recognizes the authority of State and local governments to enact and enforce laws that “provide greater or equal protection for the rights of individuals with disabilities than are afforded by this chapter.” 42 U.S.C. 12201 (b). The ABA applies to federally financed facilities. The final rule has been harmonized with model codes and standards that are adopted by State and local governments to regulate building construction. The Board consulted with State and local governments throughout the rulemaking process. State and local governments were on the advisory committee which recommended revisions to the guidelines, participated in public hearings, and submitted comments on the proposed rule.

Unfunded Mandates Reform Act

The Unfunded Mandates Reform Act does not apply to rules that enforce the constitutional rights of individuals or enforce statutory rights that prohibit discrimination on the basis of race, color, sex, national origin, age, handicap, or disability. Since the final rule is issued under the authority of the ADA and the ABA, an assessment of the rules impacts on State, local, and tribal governments, and the private sector is not required by the Unfunded Mandates Reform Act.

List of Subjects

36 CFR Part 1190

Buildings and facilities, Individuals with disabilities.

36 CFR Part 1191

Buildings and facilities, Civil rights, Incorporation by reference, Individuals with disabilities, Transportation.

Emil H. Frankel,
Chair, Architectural and Transportation Barriers Compliance Board.

For the reasons stated in the preamble, under the authority of 29 U.S.C. 792(b)(3) and 42 U.S.C. 12204, the Architectural and Transportation Barriers Compliance Board amends chapter XI of Title 36 of the Code of Federal Regulations as follows:

PART 1190—[REMOVED]

1. Part 1190 is removed.

2. Part 1191 is revised to read as follows:

PART 1191—AMERICANS WITH DISABILITIES ACT (ADA) ACCESSIBILITY GUIDELINES FOR BUILDINGS AND FACILITIES; ARCHITECTURAL BARRIERS ACT (ABA) ACCESSIBILITY GUIDELINES

Sec.
1191.1 Accessibility guidelines.
Appendix A to Part 1191—Table of Contents
Appendix B to Part 1191—Americans With Disabilities Act: Scoping
Appendix C to Part 1191—Architectural Barriers Act: Scoping
Appendix D to Part 1191—Technical
Appendix E to Part 1191—List of Figures and Index

Authority: 29 U.S.C. 792(b)(3); 42 U.S.C. 12204.

§ 1191.1 Accessibility guidelines.

(a) The accessibility guidelines for buildings and facilities covered by the Americans with Disabilities Act are set forth in Appendices B and D to this part. The guidelines serve as the basis for accessibility standards adopted by the Department of Justice and the Department of Transportation under the Americans with Disabilities Act.

(b) The accessibility guidelines for buildings and facilities covered by the Architectural Barriers Act are set forth in Appendices C and D to this part. The guidelines serve as the basis for accessibility standards adopted by the General Services Administration, the Department of Defense, the Department of Housing and Urban Development, and the United States Postal Service under the Architectural Barriers Act.

BILLING CODE 8150-01-P

Appendix A to Part 1191—Table of Contents

BILLING CODE 8150-01-P

Appendix B to Part 1191—Americans with Disabilities Act: Scoping

Appendix C to Part 1191—Architectural Barriers Act: Scoping

Appendix D to Part 1191—Technical

Appendix E to Part 1191—List of Figures and Index

[FR Doc. 04-16025 Filed 7-22-04; 8:45 am]

BILLING CODE 8150-01-C